DEPARTMENT OF STATE

[Public Notice: 6007]

Office of Protocol; Gifts to Federal Employees From Foreign Government Sources Reported to Employing Agencies in Calendar Year 2006

The Department of State submits the following comprehensive listing of the statements which, as required by law, Federal employees filed with their employing agencies during calendar year 2006 concerning gifts received from foreign government sources. The compilation includes reports of both tangible gifts and gifts of travel or travel expenses of more than minimal value, as defined by statute. Also, included are gifts received in previous years including 3 gifts in 1999, 2 gifts in 2000, 1 gift in 2001, 9 gifts in 2002, 3 gifts in 2003, 13 gifts in 2004 and 28 gifts in 2005. These latter gifts and expenses are being reported in 2006 as the Office of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: November 28, 2007.
Patrick F. Kennedy,
Under Secretary for Management, Department of State.

AGENCY: President of the U.S. and the National Security Council
[Report of tangible gifts]
Name and title of person accepting the gift on behalf of the U.S. Government | Gift, date of acceptance on behalf of the U.S. Government, estimated value, and current disposition or location | Identity of foreign donor and government | Circumstances justifying acceptance
President | Artwork: 15″ x 10″ color photograph of the “Emerald Buddha Temple (Laos),” signed by photographer; double matted and held in a 25″ x 21″ maple frame with a gold-tone bead accent trim and gold-tone rope border. Rec'd—January 5, 2006. Est. Value—$350. Disposition—Archives Foreign | His Excellency Phanthong Phommahaxay, Ambassador of the Lao People's Democratic Republic and Mrs. Phommahaxay, Embassy of the Lao People's Democratic Republic | Non-acceptance would cause embarrassment to donor and U.S. Government.
President | Household items (5): Meissen porcelain tea-for-two set, handpainted Blue Onion pattern consisting of: 4½″ porcelain sugar bowl with lid; 3″ x 3¾″ scalloped edged creamer; 7″ x 4½″ x 4½″ tea pot with lid; 4″ scalloped edged cups and saucers (2). Rec'd—January 13, 2006. Est. Value—$805. Disposition—Archives Foreign. | Her Excellency Angela Merkel, Chancellor of the Federal Republic of Germany | Non-acceptance would cause embarrassment to donor and U.S. Government.
| Book: “Meissen in Meissen,” by Hans Sonntag. Rec'd—January 13, 2006. Est. Value—$13. Disposition—Archives Foreign
President | Accessory: 82″ x 132″ handwoven emerald green, fuchsia, indigo blue, orange and purple traditional Ghana Kente cloth with a stripe and geometric weft motif pattern. Rec'd—January 17, 2006. Est. Value—$487. Disposition—Archives Foreign | His Excellency John Agyekum Kufuor, President of the Republic of Ghana | Non-acceptance would cause embarrassment to donor and U.S. Government.
President | Athletic equipment: Brown leather horse saddle embossed to look like basket weave; leather bridle and orange and blue plaid horse blanket Rec'd—January 24, 2006. Est. Value—$1,000. Disposition—Archives Foreign | His Excellency Shaukat Aziz Prime Minister of the Islamic Republic of Pakistan | Non-acceptance would cause embarrassment to donor and U.S. Government.
President | Artwork: 30″ x 19″ multi-color painting “Reconciliation” by Helen Zogheib, image of three religious buildings in downtown Beirut, signed and dated; held in a 33½″ x 24″ guilt wood frame Rec'd—January 27, 2006. Est. Value—$2,200. Disposition—Archives Foreign | His Excellency Saad R. Hariri, Lebanese Member of Parliament | Non-acceptance would cause embarrassment to donor and U.S. Government.
President | Poster: 27½″ x 38½″ Solidarity Citizens' Committee election campaign poster by Tomasz Sarnecki, “It's High Noon, 4 June 1989” featuring a modified image of Gary Cooper carrying a ballot and wearing the Solidarity logo—SOLIDARNOSC. A brushed silver-tone presentation plate affixed to the glass is engraved in Polish, “His Excellency George W. Bush, President of the United States, Lech Kaczynski, President of the Republic of Poland, Washington, 9 February 2006”; held in a 28″ x 39″ brushed silver-tone metal frame. Rec'd—February 9, 2006. Est. Value—$1,165. Disposition—Archives Foreign | His Excellency Lech Kaczynski, President of the Republic of Poland | Non-acceptance would cause embarrassment to donor and U.S. Government.
President | Household items (12): 5½″ x 6″ and 4″ x 4″ handcarved wooden bowls accented with multi-colored beads on handles; 5″ (4) and 5½″ (4) handcarved wooden spoons accented with multi-colored beaded band; 6″ handcarved wooden spoon accented with multi-colored beaded band; 4″ x 4″ handcarved wooden bucket with lid and metal swing handle. Rec'd—February 10, 2006. Est. Value—$595. Disposition—Archives Foreign. | The Honorable Rebecca Garang De Mabior, Minister of Transportation, Roads and Bridges Government of South Sudan | Non-acceptance would cause embarrassment to donor and U.S. Government.
| Craft: 4″ gourd decorated with a red, white and blue geometric pattern close woven beadwork net, with a 3″ single beaded string as carrying loop. Rec'd—February 10, 2006. Est. Value—$175. Disposition—Archives Foreign
President | Household item: 11″ x 12″ x 2″ white porcelain round cake plate with ½″ molded gold handles, replica from the official Presidential china, with gold and cobalt blue rim painted “Palacio Presidencial San Salvador” surrounding the national coat of arms in the center. Rec'd—February 24, 2006. Est. Value—$350. Archives Foreign. | His Excellency Elias Antonio Saca Gonzalez, President of the Republic of El Salvador | Non-acceptance would cause embarrassment to donor and U.S. Government.
| Smoking accessory: 6″ x 6″ wave design Nachtmann crystal cigar ashtray frosted with the El Salvador coat of arms. Rec'd—February 24, 2006. Est. Value—$115. Disposition—Archives Foreign
President | Photograph: 12″ x 8″ color photograph of Mrs. Laura Bush, His Excellency Silvio Berlusconi and Miss Barbara Bush on February 9, 2006 at the Villa Madama in Rome; held in a 13″ x 9″ Bottega Dell'Argento silver frame with leaf detail at each corner. Rec'd—February 28, 2006. Est. Value—$454. Disposition—Archives Foreign | His Excellency Silvio Berlusconi, President of the Council of Ministers of the Italian Republic | Non-acceptance would cause embarrassment to donor and U.S. Government.
President | Household item: 11″ round lapis lazuli mosaic bowl with ½″ foot. Rec'd—March 1, 2006. Est. Value—$1,500. Disposition—Archives Foreign | His Excellency Hamid Karzai, Chairman of the Interim Authority of Afghanistan | Non-acceptance would cause embarrassment to donor and U.S. Government.
President | Household item: 38″ lapis lazuli mosaic urn with fluted top and circular base, accented with sterling silver detail at neck and base. Rec'd—March 1, 2006. Est. Value—$7,500. Disposition—Archives Foreign | His Excellency Hamid Karzai, Chairman of the Interim Authority of Afghanistan | Non-acceptance would cause embarrassment to donor and U.S. Government.
President | Miscellaneous: 12″ x 11″ black wood hand operated “spinning wheel” with spokes and rests on an base in a clear plastic case. Rec'd—March 2, 2006. Est. Value—$60. Disposition—Archives Foreign. | The Honorable Nirmal Deshpande, M.P. Rajya Sabha Republic of India | Non-acceptance would cause embarrassment to donor and U.S. Government.
| Miscellaneous: Yellow linen scroll with the “Seven Social Sins.” Rec'd—March 2, 2006. Est. Value—$7. Disposition—Archives Foreign.
| Books, hardcover (3): Mahatma Gandhi 100 Years, by S. Radhakrishnan, The Mind of Mahatma Gandhi, by R.K. Prabhu; and An Autobiography, by M.K. Gandhi. Rec'd—March 2, 2006. Est. Value—$45. Disposition: President retained.
| Artwork: Bronze wax cast bust of Gandhi on base in case with a gold-tone presentation plaque printed “Mohandas Karamchand Gandhi Oct. 2, 1869 to Jan. 30, 1948,” by Ram Sutar; signed and numbered 903. Rec'd—March 2, 2006. Est. Value—$500. Disposition—Archives Foreign
President | Household item: 50″ x 30″ silk rug with taupe, tan, rose and slate blue intricate floral pattern. Rec'd—March 2, 2006. Est. Value—$1,000. Disposition—Archives Foreign. | His Excellency A.P.J. Abdul Kalam, President of the Republic of India | Non-acceptance would cause embarrassment to donor and U.S. Government.
| Flowers: Bouquet of flowers. Rec'd—March 2, 2006. Est. Value—$30. Disposition—Handled pursuant to Secret Service policy
President | Artwork: 9″ x 5″ x 2″ pure silver filigree chariot and two horses mounted on a 11½″ x 4″ x 2″ two-tiered velvet base enclosed in a 11″ x 3½″ x 9″ plastic case with a presentation plate from the Vice Chancellor of the University of Agriculture and a presentation plate from Dr. Y.S. Rajasekhara Reddy. Rec'd—March 3, 2006. Est. Value—$450. Disposition—Archives Foreign | The Honorable Y.S. Rajasekhara Reddy, Chief Minister Andhra Pradesh, Republic of India | Non-acceptance would cause embarrassment to donor and U.S. Government.
President | Artwork: 21″ x 12″ x 1″ intricate sandal wood carving of an Indian God Vishwaroopa, in Mahabharatha, battlefield, with nine heads and multiple arms with horses and people bowing at it's feet, mounted on a 10″ x 4″ oval wood base. Rec'd—March 3, 2006. Est. Value—$9,900. Disposition—Archives Foreign | The Honorable Y.S. Rajasekhara Reddy, Chief Minister Andhra Pradesh, Republic of India The Honorable Rameshwar Thakur, Governor of Andhra Pradesh, Republic of India | Non-acceptance would cause embarrassment to donor and U.S. Government.
President | Household item: 6′1″ x 9′9″ wool Pakistan rug with taupe, slate blue, salmon, black, purple, yellow and gray ornate floral design. Rec'd—March 4, 2006. Est. Value—$2,700. Disposition—Archives Foreign | His Excellency Pervez Musharraf, President of the Islamic Republic of Pakistan | Non-acceptance would cause embarrassment to donor and U.S. Government.
President | Household item: 14½″ x 9″ x 26½″ hand-carved wood Asante ceremonial stool with crescent-shape seat set over a flat base and complex support structure with geometric pattern. Rec'd—March 6, 2006. Est. Value—$2,200. Disposition—Archives Foreign | His Excellency Mathieu Kerekoum, President Republic of Benin | Non-acceptance would cause embarrassment to donor and U.S. Government.
President | Collectable: 4″ x 4″ wooden gourd intricately tooled with floral and geometric design, adorned with a sterling silver butterfly on top; held on a 5″ sterling silver round display base. Rec'd—March 10, 2006. Est. Value—$275. Disposition—Archives Foreign. | His Excellency Alejandro Toledo Manrique, President of the Republic of Peru | Non-acceptance would cause embarrassment to donor and U.S. Government.
| Books, hardcover (2): “Machu Picchu, Santuario Historico—Historical Sanctuary,” by Peter Frost. Rec'd—March 10, 2006. Est. Value—$150. Disposition—Archives Foreign.
| Collectables (2): 6½″ x 9½″ old, possibly antique, wooden Nicho frames with floral carving, accented with elaborate sterling silver detail. Rec'd—March 10, 2006. Est. Value—$1,000. Disposition—Archives Foreign
President | Athletic equipment (2): gray and navy blue short-sleeved cycling jerseys with a patriotic stripe and “George W. Bush” on the front and reverse, the Vermarc logo, images of the Belgium flag and the American flag on the front. Rec'd—March 14, 2006. Est. Value—$228. Disposition—Archives Foreign. | His Excellency Guy Verhofstadt, Prime Minister of Belgium | Non-acceptance would cause embarrassment to donor and U.S. Government.
| Vermarc Bib Tights with a patriotic stripe “George W. Bush.” Rec'd—March 14, 2006. Est. Value—$185. Disposition—Archives Foreign.
| Tights with a patriotic stripe and “George W. Bush.” Rec'd—March 14, 2006. Est. Value—$185. Disposition—Archives Foreign.
| Zip front long-sleeved Jacket. Rec'd—March 14, 2006. Est. Value—$255. Disposition—Archives Foreign.
| Zip front long-sleeved Jacket. Rec'd—March 14, 2006. Est. Value—$255. Disposition—Archives Foreign
President | Household item: 10″ Waterford crystal “Killarney” footed bowl with flared lip etched “Presented to George W. Bush, President of the United States of America, on the Occasion of St. Patrick's Day 2006, By The Taoiseach Mr. Bertie Ahern T.D., on Behalf of the People of Ireland.” Rec'd—March 17, 2006. Est. Value—$300. Disposition—Archives Foreign | His Excellency Bertie Ahern, T.D., Prime Minister of Ireland | Non-acceptance would cause embarrassment to donor and U.S. Government.
President | Athletic Equipment: Royal blue Vermarc Sport TVX fabric bike shirt printed with the “NATO OTAN” logo on the left lapel and right sleeve, the “Bike & Accessories Dennis Tervuren” logo on the right lapel and left sleeve, and “Vermarc Sports” on the collar and pocket on the reverse. Rec'd—March 20, 2006. Est. Value—$79. Disposition—Archives Foreign. | His Excellency Jaap de Hoop Scheffer, Secretary General of the North Atlantic Treaty Organization | Non-acceptance would cause embarrassment to donor and U.S. Government.
| DVD (2 part set): “Rembrant 400 Jaar.” Rec'd—March 20, 2006. Est. Value—$31. Disposition—Archives Foreign
President | Artwork: 17″ x 15″ Pyrography (burnt wood) portrait of President and Mrs. Bush, by Aaron F. Brown, titled “President George Bush, First Lady Laura Bush, United States of America” on balsa wood; held in a 23″ x 21″ mottled finish wood frame; signed and dated by artist. Rec'd—March 21, 2006. Est. Value—$292. Disposition—Archives Foreign | Her Excellency Ellen Johnson Sirleaf, President of the Republic of Liberia | Non-acceptance would cause embarrassment to donor and U.S. Government.
President | Household accessory: 5¼″ x 1½″ sterling silver hinged box adorned with the Hellenic Republic emblem and etched with donor's signature on lid. Rec'd—March 25, 2006. Est. Value—$500. Disposition—Archives Foreign | Her Excellency Dora Bakoyannis, Minister of Foreign Affairs of the Hellenic Republic | Non-acceptance would cause embarrassment to donor and U.S. Government.
President | Household accessories (3): Set of three 8″, 10″ and 12″ square concave style fused glass art plates with black and marbled amber checkerboard pattern center and black border; signed by artist James Lavoie on back. Rec'd—March 29, 2006. Est. Value—$415. Disposition—Archives Foreign | The Right Honorable Stephen Harper, P.C., M.P., Prime Minister of Canada | Non-acceptance would cause embarrassment to donor and U.S. Government.
President | Household accessory: 8″ x 1½″ sterling silver Plata Real “Mestizo Vessel” footed with 3½″ sterling silver rings. Rec'd—March 29, 2006. Est. Value—$400. Disposition—Archives Foreign | His Excellency Vicente Fox Quesada, The President of the United Mexican States and Mrs. Fox | Non-acceptance would cause embarrassment to donor and U.S. Government.
President | Cloth: 128″ x 86″ handwoven emerald green, gold, black, royal blue and fuchsia traditional Ghana Kente cloth with a stripe and geometric weft motif pattern. Rec'd—April 12, 2006. Est. Value—$325. Disposition—Archives Foreign. | His Excellency John Agyekum Kufuor, President of the Republic of Ghana | Non-acceptance would cause embarrassment to donor and U.S. Government.
| Miscellaneous: Hand-carved wooden images of four parading wood elephants held in a double matted 41″ x 17″ shadowbox. Rec'd—April 12, 2006. Est. Value—$750. Disposition—Archives Foreign
President | Book, hardcover (in English and Arabic): “Beyrouth et le Sultan—Beirut and the Sultan: 200 Photographies des Albums de Abdul Hamid II (1876—1909)”; by Sawsan Agha Kassab and Khalad Omar Tadmori. Rec'd—April 17, 2006. Est. Value—$70. Disposition—Archives Foreign. | His Excellency Fuad Siniora, Prime Minister of the Republic of Lebanon | Non-acceptance would cause embarrassment to donor and U.S. Government.
| Household item (limited edition, 19/50): 9½″ glazed, hand-painted ceramic on hand-hammered copper Islamic replica plate from a 13th century design, “The Spouted Kamares Pot (Byblos 1950—1950 B.C.)”; marked “Fait main Atlier Chehab Liban 19/50” (“Handmade House of Chehab Liban 19/50”) on back. Rec'd—April 17, 2006. Est. Value—$270. Disposition—Archives Foreign
President | Household accessory: 20″ round porcelain carved charger with the portrait of President and Mrs. Bush. Rec'd—April 20, 2006. Est. Value—$350. Disposition—Archives Foreign. | His Excellency Hu Jintao, President of the People's Republic of China | Non-acceptance would cause embarrassment to donor and U.S. Government.
| Household accessory: 24″ rosewood charger holder with intricately carved detail. Rec'd—April 20, 2006. Est. Value—$50. Disposition—Archives Foreign
President | Jewelry: Cartier Santos Dumont watch with 18kt white gold case, guilloche dial with roman numerals, black alligator strap with 18kt white gold adjustable deployment buckle, hand wound mechanical movement adorned with a cabochon sapphire crystal. Rec'd—April 20, 2006. Est. Value—$11,100. Disposition—Archives Foreign | His Excellency Thaksin Shinawatra, Prime Minister of the Kingdom of Thailand | Non-acceptance would cause embarrassment to donor and U.S. Government.
President | Household accessory: 59″ x 85″ multicolored Azerbaijan silk rug handwoven with the portrait of President and Mrs. Bush, the Presidential seal, the U.S. Capitol, the New York City skyline, the Statue of Liberty, The White House, and the Presidential Palace in Baku, Azerbaijan, accented with a floral pattern border; designed by Hagiyev Eldar. Rec'd—April 28, 2006. Est. Value—$2,450. Disposition—Archives Foreign. | His Excellency Ilham Aliyev, President of the Republic of Azerbaijan | Non-acceptance would cause embarrassment to donor and U.S. Government.
| DVD: “Memory: USA 09.09.2000.” Rec'd—April 28, 2006. Est. Value—$15. Disposition—Archives Foreign.
| Photographs (28): 12″ x 8″ color photographs documenting former Azerbaijan President Haidar Aliyev's informal visit with former President George H.W. Bush in Kennebunkport, Maine on September 9, 2000; in a 12″ hunter green album. Rec'd—April 28, 2006. Est. Value—$130. Disposition—Archives Foreign
President | Miscellaneous: 8 x 30 BT black Zeiss Conquest binoculars. Rec'd—May 3, 2006. Est. Value—$579. Disposition—Archives Foreign | Her Excellency Angela Merkel, Chancellor of the Federal Republic of Germany | Non-acceptance would cause embarrassment to donor and U.S. Government.
President | Artwork: 23″ x 19″ pastoral oil on canvas “Campo en Rio Negro” by Uruguayan artist Philip Davies, held in a 33″ x 29″ gold bordered linen shadowbox frame surrounded by a paneled wood outer frame; signed and dated by artist. Rec'd—May 4, 2006. Est. Value—$750. Disposition—Archives Foreign. | His Excellency Tabare Vazquez, President of the Oriental Republic of Uruguay | Non-acceptance would cause embarrassment to donor and U.S. Government.
| Book, hardcover (in Spanish): “El mate,” by Fernando Assuncao; inscribed by donor. Rec'd—May 4, 2006. Est. Value—$40. Disposition—Archives Foreign.
| Household item: Leather Mate Set including: Mate (tea), Yerba Container, silver Bombilla (drinking straw), and thermos; held in a 13″ x 9″ x 5″ leather carrying case. Rec'd—May 4, 2006. Est. Value—$195. Disposition—Archives Foreign
President | Books, leatherbound (3): “A Shorter History of Australia,” by Geoffrey Blainey; “Monash: The Outsider Who Won A War,” by Roland Perry; “Gallipoli,” by Les Carlyon, covers embossed in gold “Presented by The Honourable John Howard MP, Prime Minister of Australia” with the Australian Coat of Arms; all held in a 10½″ x 7″ folding book box embossed in gold on the front with the Australian Coat of Arms. Rec'd—May 16, 2006. Est. Value—$700. Disposition—Archives Foreign | The Honorable John Howard, M.P., Prime Minister of Australia | Non-acceptance would cause embarrassment to donor and U.S. Government.
President | Artwork: 19″ x 25″ oil on canvas painting featuring doves and a brightly colored nature scene, by Benigno Gomez, held in a 23″ x 29″ gold frame; signed by artist. Rec'd—June 5, 2006. Est. Value—$500. Disposition—Archives Foreign. | His Excellency Jose Manuel Zelaya Rosales, President of the Republic of Honduras | Non-acceptance would cause embarrassment to donor and U.S. Government.
| Artwork: 11″ x 17″ cartoon featuring President Bush holding an American flag, held in a 21″ x 27″ gold and red frame. Rec'd—June 5, 2006. Est. Value—$100. Disposition—Archives Foreign
President | Household items (8): 8″ white wine goblets with 4″ copper stem adorned with five round lapis lazuli inlay stones around base (6) and a matching 8¾″ pair of red wine goblets. Rec'd—June 8, 2006. Est. Value—$400. Disposition—Archives Foreign | Her Excellency Michelle Bachelet, President of the Republic of Chile | Non-acceptance would cause embarrassment to donor and U.S. Government.
President | Clothing (L): Red and white Nalini cycling jersey; printed with Danish flag and Nalini logo on front and “George W. Bush” on left sleeve. Rec'd—June 10, 2006. Est. Value—$95. Disposition—Archives Foreign | His Excellency Anders Fogh Rasmussen, Prime Minister of Denmark | Non-acceptance would cause embarrassment to donor and U.S. Government.
| Household item: 6″ x 13″ Royal Copenhagen Porcelain bowl; side of bowl depicts various battle scenes led by General Washington. Bowl commemorates the Bicentennial of The Declaration of Independence; certified bowl No. 2,417 of 2,500. Rec'd—June 10, 2006. Est. Value—$995. Disposition—Archives Foreign
President | Desk accessories (24): 3½″ cast pewter coasters designed with six different Australian native flowers, held in a 8¾″ x 8¾″ wooden box with a brass presentation plate inside engraved, “Presented to the President of the United States of America and Members of Cabinet by the Honourable John Howard MP, Prime Minister of Australia on the occasion of his Official Visit to the United States of America, May 2006. The Australian native flowers represented on these cast pewter coasters are the Golden Wattle, Waratah, Blue Gum, Bottlebrush, Kangaroo Paw and Sturt's Desert Pea.” Rec'd—June 16, 2006. Est. Value—$415. Disposition—Archives Foreign | The Honorable John Howard, M.P., Prime Minister of Australia | Non-acceptance would cause embarrassment to donor and U.S. Government.
President | CDs: Box set of “Mozart Complete Edition” including: “Symphonies,” “Serenades Dances Marches,” “Divertimenti-Serenades,” “Piano Concertos,” “Violin Concertos, Wind Concertos,” “Quintets, Quartets, Trio, etc.,” “String Quartets, String Quintets,” “Violin Sonatas, String Duos and Trios,” “Piano Music,” “Missae-Requiem, Organ Sonatas and Solos,” “Litanies-Vespers, Oratorios-Cantatas, Masonic Music,” “Arias, Vocal Ensembles, Canons-Lieder-Notturni,” “Early Italian Operas,” “Middle Italian Operas,” “Late Italian Operas,” “German Operas,” and “Theatre and Ballet Music, Rarities-Surprises.” Rec'd—June 20, 2006. Est. Value—$1,276. Disposition—Archives Foreign | His Excellency Heinz Fischer, Federal President of the Republic of Austria | Non-acceptance would cause embarrassment to donor and U.S. Government.
President | Book, hardcover: “Austria: Introduction and Reminiscence,” by Ernst Hauser. Rec'd—June 20, 2006. Est. Value—$33. Disposition—Archives Foreign. | His Excellency Hubert Gorbach, Vice Chancellor of the Republic of Austria and Mrs. Margot Gorbach | Non-acceptance would cause embarrassment to donor and U.S. Government.
| Household accessory: 1¾″ x 1¼″x 4″ Swarovski clear crystal figurine of a white stallion standing on its hind legs with Jet crystal eyes and frosted flowing mane and tail from the Horses on Parade collection; anchored on 1⅝″ clear crystal base. Rec'd—June 20, 2006. Est. Value—$265. Disposition—Archives Foreign
President | Clothing (size 42): Navy blue cashmere mens Schneiders, Salzburg “Hubertus” outerwear coat with personalized cloth name plate embroidered “G.W.B.” on inside breast pocket. Rec'd—June 20, 2006. Est. Value—$1,500. Disposition—Archives Foreign | His Excellency Wolfgang Schuessel, Chancellor of the Republic of Austria | Non-acceptance would cause embarrassment to donor and U.S. Government.
President | Clothing: Pair of handcrafted black leather Hungarian Huszar riding boots style XVI-XVIL, with off-white leather “W” stitched on side and brass presentation plate engraved “To President George W. Bush, From Prime Minister Ferenc Gyurcsany” affixed to shoe sole on right boot; made by Ivan Sasvari. Rec'd—June 22, 2006. Est. Value—$935. Disposition—Archives Foreign | His Excellency Ferenc Gyurcsany, Prime Minister of the Republic of Hungary | Non-acceptance would cause embarrassment to donor and U.S. Government.
| Book, hardcover: “The Hungarian Hussar,” by Jozsef Zachar. Rec'd—June 22, 2006. Est. Value—$28. Disposition—Archives Foreign. Accessory: Pair of wood handled boot hooks. Rec'd—June 22, 2006. Est. Value—$4. Disposition—Archives Foreign
President | Athletic equipment: Sunstar Electric-Power Assisted bicycle Rec'd—June 29, 2006. Est. Value—$1,000. Disposition—Archives Foreign | His Excellency Junichiro Koizumi, Prime Minister of Japan | Non-acceptance would cause embarrassment to donor and U.S. Government.
| Poster: 23″ x 33″ print of a black and white picture featuring Babe Ruth traveling among a parade of people when visiting Japan and an 8″ x 12″ enlargement of Japanese Babe Ruth commemorative (“American Japanese, Baseball Matches, Under the Auspices of, the Yomiuri Shimbunsha”) postage stamp, single matted and held in a 30″ x 41″ wooden frame; includes “tanka” (poem) by Shiki Masaoka, handwritten in Japanese by donor with printed English translation; signed by donor. Rec'd—June 29, 2006. Est. Value—$355. Disposition—Archives Foreign
| CD: “Junichiro Koizumi Presents: My Favorite Elvis Songs,” produced by donor. Rec'd—June 29, 2006. Est. Value—$50. Disposition—Archives Foreign
President | Print of the original Appeal of the Representatives of Khevsureti to the United States Government written on June 24, 1936 by the freedom fighters from Georgia's mountainous region of Khevsureti, in the High Caucasus, superimposed with English translation and image of the freedom fighters from Georgia's mountainous region of Khevsureti; held in a painted gold-tone frame. Rec'd—July 5, 2006. Est. Value—$40. Disposition—Archives Foreign | His Excellency Mikheil Saakashvili, President of Georgia | Non-acceptance would cause embarrassment to donor and U.S. Government.
| Photo album with the Appeal of the Representatives of Khevsureti to the United States, 16 color photographs of Khevsureti with 4 black and white photographs of Khevsureti people. Rec'd—July 5, 2006. Est. Value—$116. Disposition—Archives Foreign
| Jewelry: Gold and enamel Icon crucifix on a gold-tone chain. Rec'd—July 5, 2006. Est. Value—$375. Disposition—Archives Foreign
President | Accessory: Fuchsia silk Vakko tie embroidered with an intricately woven floral pattern. Rec'd—July 6, 2006. Est. Value—$80. Disposition—Archives Foreign. | His Excellency Abdullah Gul, Deputy Prime Minister and Minister of Foreign Affairs of the Republic of Turkey | Non-acceptance would cause embarrassment to donor and U.S. Government.
| Jewelry: ½″ pair of Atasay contemporary black onyx cufflinks with gold-tone settings. Rec'd—July 6, 2006. Est. Value—$344. Disposition—Archives Foreign
President | Household accessories (2): 3½″ x 9″ and 4″ x 12″ handpainted blown glass “Garden Vases,” decorated with colorful flowers; designed by Jennifer Stuart. Rec'd—July 6, 2006. Est. Value—$80. Disposition—Archives Foreign. | The Right Honorable Stephen Harper, P.C., M.P., Prime Minister of Canada | Non-acceptance would cause embarrassment to donor and U.S. Government.
| Accessory: Pair of silver cufflinks with blue circular center. Rec'd—July 6, 2006. Est. Value—$175. Disposition—Archives Foreign.
| Accessory: 7⅜″ brown felt Biltmore-Canada hat. Dark brown belt wraps around center of hat with matching chin straps. Rec'd—July 6, 2006. Est. Value—$179. Disposition—Archives Foreign.
| Accessory: Belt buckle with the Calgary 2006 stampede logo. Rec'd—July 6, 2006. Est. Value—$43. Disposition—Archives Foreign
President | Clothing: Khaki golf pants; silver “NES Golf” logo on back right pocket. Rec'd—July 10, 2006. Est. Value—$79. Disposition—Archives Foreign. | His Excellency Janez Jansa, Prime Minister of the Republic of Slovenia | Non-acceptance would cause embarrassment to donor and U.S. Government.
| Clothing (size unknown): Light and dark brown polo golf shirt; “Golf NES” stitched on front with window pane design. Rec'd—July 10, 2006. Est. Value—$60. Disposition—Archives Foreign. Clothing: Navy pullover with red and green argyle design. Zipper and “NES” stitched on front. Rec'd—July 10, 2006. Est. Value—$95. Disposition—Archives Foreign.
| Clothing: Black warm up suit; two piece with NES stitched on the jacket and pants. Rec'd—July 10, 2006. Est. Value—$410. Disposition—Archives Foreign.
| Artwork: 15″ x 7″ bronze Lipizzaner horse sculpted by Mitja Bovcan. Rec'd—July 10, 2006. Est. Value—$500. Disposition—Archives Foreign
President | Poster: 19″ x 24½″ replica poster of an antique world map from the Blaeu-Atlas of 1649. Rec'd—July 13, 2006. Est. Value—$30. Disposition—Archives Foreign | The Honorable Harald Lastovka, Mayor of Stralsund, Federal Republic of Germany | Non-acceptance would cause embarrassment to donor and U.S. Government.
President | Desk accessory: 6″ x 2″ x 3″ L'Epee carriage clock with Roman numeral hour markers on white face, guilded brass case, a “visable escapement” and engraved “Presidence de la Republique Francaise” on back at base. Rec'd—July 15, 2006. Est. Value—$1,961. Disposition—Archives Foreign | His Excellency Jacques Chirac. President of the French Republic | Non-acceptance would cause embarrassment to donor and U.S. Government.
President | Artwork: 32″ x 12″ wood statue of carved eagle holding a fish; black carved map of Insel Rugen on base. Rec'd—July 16, 2006. Est. Value—$500. Disposition—Archives Foreign | The Honorable Andrea Koester, Mayor of Bergen Auf Ruögen, Federal Republic of Germany | Non-acceptance would cause embarrassment to donor and U.S. Government.
President | Consumables (75): Two bundles of 25 Puros Indios Churchill 7″ cigars; one bundle of 25 Hoyo de Monterrey Excalibur #1 7″ cigars held in a humidor. Rec'd—July 20, 2006. Est. Value—$402. Disposition—Handled pursuant to Secret Service policy. | His Excellency Jose Manuel Zelaya Rosales, President of the Republic of Honduras | Non-acceptance would cause embarrassment to donor and U.S. Government.
| Smoking accessory: 14½″ x 8¾″ x 6″ Spanish cedar humidor, elaborately carved design on sides and top of lid framing two woodburned and carved National seals side by side: Honduras and United State above lettering brushed in goldleaf: “George W. Bush, Presidente de EE. UU.” Inside of lid is carved with goldleafed lettering: “ A Mi Grande y Buen Amigo. Como Simbolo de Nuestra Amistad, Respecto y Valores Compartidos. Manuel Zelaya Rosales, Presidente de Honduras.” Interior dimensions 12¼″ x 7¼″ x 4¼″, felt lined. Rec'd—July 20, 2006. Est. Value—$730. Disposition—Archives Foreign
President | Desk accessory: 16″ sterling silver date palm tree with hand-hammered trunk and finely cut palm leaves with three bunches of gold dates, tree has oval shape base with florentine finish; held in a 19″ x 12″ glass presentation case with black velvet lined base. Rec'd—July 25, 2006. Est. Value—$1,500. Disposition—Archives Foreign | His Excellency Nouri al-Maliki, Prime Minister of the Republic of Iraq | Non-acceptance would cause embarrassment to donor and U.S. Government.
President | Household items—coffee set: 12″ sterling silver coffee pot with brown leather wrapped handle, 2″ white, hand-painted J. Seignolles, Limoges “Meridien” porcelain coffee cups with shiny platinum garland and fine hairline on inner edge band (6); held in a 19½″ x 15½″ red leather hinged presentation box adorned with the State of Kuwait coat of arms mounted on an 8″ gold-tone plate printed “Aldiwan Alamiri” in English and Arabic, and a gold-tone presentation plate engraved “With compliments, of, H.H. Shaikh Sabah Al-Ahmad Al-Jaber Al-Sabah, Amir of the State of Kuwait, To, The Hon. George W. Bush, President of the United States of America” on the outside lid, with the State of Kuwait coat of arms mounted on an 8″ silver-tone plate printed “Aldiwan Alamiri” in English and Arabic on the inside lid. Rec'd—September 5, 2006. Est. Value—$1,500. Disposition—Archives Foreign | His Highness Sheikh Sabah Al-Ahmed Al-Jaaber Al-Sabah, Amir of the State of Kuwait | Non-acceptance would cause embarrassment to donor and U.S. Government.
President | Household accessory: 13″ speckled-brown and Korean blue dragon vase, painted with a continuous five clawed dragon with scattered flaming pearl devices, and a straight wide neck with a collared rim, made by Park, Kung Sun; signed on bottom. Rec'd—September 14, 2006. Est. Value—$3,500. Disposition—Archives Foreign | His Excellency Roh Moo-hyun, President of the Republic of Korea | Non-acceptance would cause embarrassment to donor and U.S. Government.
President | Collectable: 4½″ x 2″ x 7″ handcrafted, silver-enameled (Meenakari) bald eagle perched on a rock; mounted on a 4½″ oval shape dark wood base. Rec'd—September 14, 2006. Est. Value—$1,200. Disposition—Archives Foreign | His Excellency Manmohan Singh Prime Minister of the Republic of India | Non-acceptance would cause embarrassment to donor and U.S. Government.
President | Household items: Puiforcat Century Limoges porcelain espresso set consisting of: 2″ porcelain chocolate brown coffee cups with silver-tone trim (2); 5″ off-white saucers with a bold chocolate brown stripe and silver-tone trim (2). Rec'd—September 19, 2006. Est. Value—$240. Disposition—Archives Foreign. | His Excellency Jacques Chirac, President of the French Republic | Non-acceptance would cause embarrassment to donor and U.S. Government.
| Household item: 14″ x 11″ sterling silver Christofle “Prelude” rectangular tray engraved with an intricate rope design on the front and “Presidence de la Republique Francaise” on the back. Rec'd—September 19, 2006. Est. Value—$400. Disposition—Archives Foreign
President | Desk accessory: 16″ sterling silver date palm tree with hand-hammered trunk and finely cut palm leaves with three bunches of sterling silver dates, tree has oval shape base with florentine finish; held in a 19″ x 12″ glass presentation case with black velvet lined base. (Damaged upon arrival.) Rec'd—September 19, 2006. Est. Value—$2,000. Disposition—Archives Foreign. | His Excellency Jalal Talabani, President of the Transitional Government of the Republic of Iraq | Non-acceptance would cause embarrassment to donor and U.S. Government.
| Book, hardcover (printed in Turkish): “Gravurlerle Kurtler: Bi Gravuran Kurd (“Kurds in Engravings or Etchings”), by Mehmet Bayrak; inscribed by donor. Rec'd—September 19, 2006. Est. Value—$70. Disposition—Archives Foreign.
| Sculpture: 9″ x 5″ metal sculpture of a Middle Eastern man's face, mounted on brown leather, stamped with a shell border; in a wood shadow box with a geometric pattern border. Rec'd—September 19, 2006. Est. Value—$135. Disposition—Archives Foreign
President | Artwork: 23½″ x 17½″ oil on canvas painting featuring a scene of two people in the woods walking by a cabin, held in a 33″ x 27″ speckled wood frame; signed and dated by artist. Rec'd—September 20, 2006. Est. Value—$350. Disposition—Archives Foreign | His Excellency Jose Manuel Zelaya Rosales, President of the Republic of Honduras | Non-acceptance would cause embarrassment to donor and U.S. Government.
President | Household accessory: 69″ dark wood four paneled hinged screen with intricately carved detail and gold-tone floral inlay. Rec'd—September 21, 2006. Est. Value—$425. Disposition—Archives Foreign | His Excellency Pervez Musharraf, President of the Islamic Republic of Pakistan | Non-acceptance would cause embarrassment to donor and U.S. Government.
President | Household item: 118″ x 81″ finely woven wool Afghan rug with 5″ fringe; medallion style design in ivory, rust, navy, and burgundy. Rec'd—September 26, 2006. Est. Value—$4,800. Disposition—Archives Foreign | His Excellency Hamid Karzai, Chairman of the Interim Authority of Afghanistan | Non-acceptance would cause embarrassment to donor and U.S. Government.
President | Miscellaneous: 7″ x 2″ silver hinged dome-shaped yurta embellished with semi-precious stones and intricate gold medallions, held on a 10″ x 6″ silver carriage led by silver harnessed bulls mounted on a 22″ x 17″ marble base with silver trim and feet; mounted on a 26″ x 15″ brown wood base with a 25″ x 13½″ brown leather top with two buckled straps. Rec'd—September 29, 2006. Est. Value—$2,500. Disposition—Archives Foreign | His Excellency Nursultan Nazarbayev, President of the Republic of Kazakhstan | Non-acceptance would cause embarrassment to donor and U.S. Government.
President | Household accessory: 46″ x 30″ taupe, rose, burgundy, slate blue, gold, red, and green silk rug knotted with a nature scene and ornate floral pattern. Rec'd—October 2, 2006. Est. Value—$1,800. Disposition—Archives Foreign | His Excellency Recep Tayyip Erdogan, Prime Minister of the Republic of Turkey | Non-acceptance would cause embarrassment to donor and U.S. Government.
President | Artwork: 4′ x 5′ original oil on canvas “Monumental Alliance,” by Charles Billich, featuring a collage of famous American monuments and statues in Washington, D.C., held in a 67″ x 55″ painted gold guilt wood frame with a gold-tone presentation plate engraved “To the President of the United States of America, George W. Bush, Presented by the Prime Minister of the Republic of Croatia, Dr. Ivo Sanader, Painting by Charles Billich, ‘Monumental Alliance,’ Washington, D.C. October 17, 2006”; signed by artist on front and inscribed on back. Rec'd—October 17, 2006. Est. Value—$5,800. Disposition—Archives Foreign | His Excellency Ivo Sanader, Prime Minister of the Republic of Croatia | Non-acceptance would cause embarrassment to donor and U.S. Government.
President | Book, hardcover: “10 Years of a Vision,” by donor. Rec'd—October 25, 2006. Est. Value—$50. Disposition—Archives Foreign. | His Excellency Leonel Fernandez, President of the Dominican Republic | Non-acceptance would cause embarrassment to donor and U.S. Government.
| Smoking accessories (24): Davidoff Aniversario No. 3 cigars with “Specially Made for President George W. Bush” printed on the packaging. Rec'd—October 25, 2006. Est. Value—$368. Disposition—Handled pursuant to Secret Service policy.
| Artwork: 30″ x 24″ oil on canvas painting of red and white flowers in a green vase; held in a 41″ x 34″ wooden frame. Rec'd—October 25, 2006. Est. Value—$650. Disposition—Archives Foreign
President | Miscellaneous: Creative Zen Vision “W” widescreen 60GB “Entertainment on the Move,” portable media player featuring a 2¼″ x 4″ screen. Rec'd—November 16, 2006. Est. Value—$400. Disposition—Archives Foreign | His Excellency Lee Hsien Loong, Prime Minister and Minister for Finance of the Republic of Singapore and Mrs. Ho Ching | Non-acceptance would cause embarrassment to donor and U.S. Government.
President | Artwork: 22″ x 30″ portrait of President Bush made with Rubies and various gemstones; held in an ornate gold leaf frame with gold-tone presentation plate engraved, “H.E. George Walker Bush, President of the United States of America: With the Best Compliments from Tran Chau Ngoc Viet Company.” Rec'd—November 17, 2006. Est. Value—$650. Disposition—Archives Foreign | Mr. Le Sy Vuong Ha, Chief of Protocol, Ministry of Foreign Affairs of the Socialist Republic of Vietnam | Non-acceptance would cause embarrassment to donor and U.S. Government.
President | Artwork: 14″ x 18″ silk tapestry depicting Hanoi scene matted and held in a 25″ x 30″ gold frame. Rec'd—November 17, 2006. Est. Value—$350. Disposition—Archives Foreign | His Excellency Nguyen Minh Triet President of the Socialist Republic of Vietnam and Madame Tran Thi Kim Chi | Non-acceptance would cause embarrassment to donor and U.S. Government.
President | Artwork: 15″ x 23″ scene of wheat field with grazing bulls; matted in blue velvet and held in a 23″ x 30″ cherry wood frame. Rec'd—November 19, 2006. Est. Value—$450. Disposition—Archives Foreign | Mr. Le Hoang Quan, Chairman Ho Chi Minh City People's Committee, Socialist Republic of Vietnam | Non-acceptance would cause embarrassment to donor and U.S. Government.
President | Clothing: Brown, green and gold collared shirt with a leaf pattern; held in a black box. Rec'd—November 20, 2006. Est. Value—$235. Disposition—Archives Foreign. | His Excellency Susilo Bambang Yudhoyono, President of the Republic of Indonesia and Mrs. Ani Bambang Yudhoyono | Non-acceptance would cause embarrassment to donor and U.S. Government.
| Artwork: 25″ x 34″ canvas painting of Indonesian women dressed in elaborate outfits; held in a 5″ gold tone wooden frame. Rec'd—November 20, 2006. Est. Value—$550. Disposition—Archives Foreign
President | Artwork: 18″ sculpture made from laminated sheet glass with blue notches carved in the middle. Rec'd—November 28, 2006. Est. Value—$500. Disposition—Archives Foreign | His Excellency Toomas Hendrik Ilves, President of the Republic of Estonia | Non-acceptance would cause embarrassment to donor and U.S. Government.
President | Weapon: 16″ two sided silver dagger with a gold tone case; held in a 22″ wooden box. Rec'd—December 6, 2006. Est. Value—$400. Disposition—Archives Foreign | His Excellency Ilham Aliyev, President of the Republic of Azerbaijan | Non-acceptance would cause embarrassment to donor and U.S. Government.
President | Household item: 14½″ x 9″ x 26½″ hand-carved wood Asante ceremonial stool with crescent-shape seat set over a flat base and complex support structure with geometric pattern. Rec'd—December 13, 2006. Est. Value—$2,200. Disposition—Archives Foreign | His Excellency Boni Yayi, President of the Republic of Benin | Non-acceptance would cause embarrassment to donor and U.S. Government.
First Lady | Craft: 102″ x 94″ white quilt with red and blue trim, an abstract floral design in the center, and on the corners and heart shaped designs on sides made of a red, brown, beige, blue and white in floral pattern; handmade by a women's quilting collective. Rec'd—January 14, 2006. Est. Value—$500. Disposition—Archives Foreign. | Her Excellency Ellen Johnson Sirleaf, President of the Republic of Liberia | Non-acceptance would cause embarrassment to donor and U.S. Government.
| Household: 61″ x 49″ navy woven wrapping cloth with teal stripes and a pink pattern embroidered with yellow and red accents and pink fringe. Rec'd—January 14, 2006. Est. Value—$200. Disposition—Archives Foreign
First Lady | Jewelry: Pendant and earring set including a ½″ orange freebranch coral cylinders pendant with intricate gold rope and filigree faceted detail and ½″ orange freebranch coral cylinder earrings with gold intricate filigree faceted detail. Rec'd—January 17, 2006. Est. Value—$350. Disposition—Archives Foreign. | His Excellency John Agyekum Kufuor, President of the Republic of Ghana | Non-acceptance would cause embarrassment to donor and U.S. Government.
| Accessories (3): 68″ x 46″ handwoven emerald green, fuchsia, indigo blue, orange and purple traditional Ghana Kente cloths with a stripe and geometric weft motif pattern. Rec'd—January 17, 2006. Est. Value—$57. Disposition—Archives Foreign.
| Jewelry: 1″ 18kt gold pierced cross earrings. Rec'd—January 17, 2006. Est. Value—$125. Disposition—Archives Foreign
First Lady | Artwork: 14½″ x 7″ bronze court figure with elaborately decorated headdress, wearing three long bead necklaces and one large link chain necklace with three stones (or pods), a sheath wrapped under arms; face marked on cheeks and forehead with elongated triangular shapes inside of which are rows of “cuts”; mounted on a 5½″ x 7″ wooden base with a presentation plaque engraved “Presented by, The President, Federal Republic of Nigeria.” Rec'd—January 17, 2006. Est. Value—$3,450. Disposition—Archives Foreign | His Excellency Olusegun Obasanjo, President of the Federal Republic of Nigeria | Non-acceptance would cause embarrassment to donor and U.S. Government.
First Lady | Book, hardcover: “Legends of the Indus,” by Annemarie Schimmet and Ali S. Asami. Rec'd—January 24, 2006. Est. Value—$80. Disposition—Archives Foreign | Mrs. Rukhasana Aziz, c/o The Prime Minister of The Islamic Republic of Pakistan | Non-acceptance would cause embarrassment to donor and U.S. Government.
| Miscellaneous (3): Lengths of assorted matching Hital silk: 105″ x 44″ steel blue silk with gold floral brocade; 101″ x 45″ sheer steel blue silk with gold floral brocade and 1″ trim along lengh and 10″ ornate trim along sides; and 101″ x 43″ solid steel blue silk. Rec'd—January 24, 2006. Est. Value—$224. Disposition—Archives Foreign.
| Desk accessory: 7″ x 4″ x 1½″ silver box adorned with a gold-tone Pakistani coat of arms on top; lined with green felt. Rec'd—January 24, 2006. Est. Value—$500. Disposition—Archives Foreign
First Lady | Accessory: 44″ x 92″ off-white cashmere shawl with hand embroidered paisley medallion border. Rec'd—January 25, 2006. Est. Value—$620. Disposition—Archives Foreign | His Excellency Shaukat Aziz, Prime Minister of the Islamic Republic of Pakistan | Non-acceptance would cause embarrassment to donor and U.S. Government.
First Lady | Sculpture: Pure silver hollow male bust “The Creator;” opens at top of head with wagon wheels inside, mounted on a marble base; signed and dated 96 by Rafael Zamarripa. Rec'd—January 25, 2006. Est. Value—$1,500. Disposition—Archives Foreign | The Honorable Silverio Cavazos Ceballos, The Governor of the Mexican State of Colima and Mrs. Silverio Cavazos Ceballos | Non-acceptance would cause embarrassment to donor and U.S. Government.
| Book: Hardcover, “Rafael Zamarripa;” hand sewn book set into a hinged wood box, lid carved with abstract image of a face and “Zamarripa 98.” Rec'd—January 25, 2006. Est. Value—$250. Disposition—Archives Foreign
| DVD: “Nogueras Children's Ludic Centre.” Rec'd—January 25, 2006. Est. Value—$15. Disposition—Archives Foreign
| Artwork (limited edition 27/50): Yellow and brown etching on paper depicting people dining, a river landscape, a clock tower printed “Armeria” and “Fiestas de la Guadalupana”, dated 04 Rec'd—January 25, 2006. Est. Value—$35. Disposition—Archives Foreign
First Lady | Accessory: 36″ x 36″ earth tones silk Hermes scarf “Sous Le Cedre” printed with a center design of a Cedar tree of Lebanon, shepherds and sheep with an intricate border. Rec'd—January 27, 2006. Est. Value—$320. Disposition—Archives Foreign | His Excellency Saad R. Hariri, Lebanese Member of Parliament | Non-acceptance would cause embarrassment to donor and U.S. Government.
First Lady | Books, hardcover (5): “Omaggio all' Italia,” and “Omaggio al Mediterraneo,” by Andrea Pistolesi; “Leonardo: L'Ultima Cena,” by Electa; “Omaggio alle Alpi,” by Marco Bianchi and “The Colosseum,” by Aba Gabucci. Rec'd—February 9, 2006. Est. Value—$463. Disposition—Archives Foreign | His Excellency Silvio Berlusconi, President of the Council of Ministers of the Italian Republic | Non-acceptance would cause embarrassment to donor and U.S. Government.
| CD: “Meglio Una Canzone,” by Mariano Apicella. Rec'd—February 9, 2006. Est. Value—$15. Disposition—Archives Foreign
| Book, softcover: Quarant'anni Oscar Monadori 1995-2005. Rec'd—February 9, 2006. Est. Value—$30. Disposition—Archives Foreign
| White porcelain pitcher with gold trim and matching round tray. Rec'd—February 9, 2006. Est. Value—$1,746. Disposition—Archives Foreign
| Accessories (2): E. Marinella silk scarves; Rec'd—February 9, 2006. Est. Value—$320. Disposition—Archives Foreign
First Lady | Jewelry: 1″ 18k white gold snowflake pendant engraved “Comune di Sestriere” with town crest; on a black silk cord. Rec'd—February 10, 2006. Est. Value—$250. Disposition—Archives Foreign | The Honorable Andrea Colarelli, Mayor of Pinerolo Italian Republic | Non-acceptance would cause embarrassment to donor and U.S. Government.
| Valenti & Company rosewood ballpoint and fountain pen set, engraved “Comune di Sestriere” Rec'd—February 10, 2006. Est. Value—$355. Disposition—Archives Foreign
| Book, hardcover: “Renato Missaglia: Rencontres a Monte-Carlo 2005,” by Osvaldo Patani Rec'd—February 10, 2006. Est. Value—$50. Disposition—Archives Foreign
| Book, hardcover: “2004 New Europe” by Renato Missaglia Rec'd—February 10, 2006. Est. Value—$40. Disposition—Archives Foreign
| Book, softcover: “Renato Missaglia, Una Pittura Polidimensionale,” by Luciano Caramel. Rec'd—February 10, 2006. Est. Value—$39. Disposition—Archives Foreign
First Lady | Photographs (2): 12″ x 8″ color photographs of Mrs. Laura Bush, His Excellency Silvio Berlusconi and Miss Barbara Bush on February 9, 2006 at the Villa Madama in Rome; each held in a 13″ x 9″ Bottega Dell'Argento silver frame with leaf detail at each corner. Rec'd—February 28, 2006. Est. Value—$958. Disposition—Archives Foreign | His Excellency Silvio Berlusconi, President of the Council of Ministers of the Italian Republic | Non-acceptance would cause embarrassment to donor and U.S. Government.
First Lady | Miscellaneous (2): Lengths of cloth: 104″ x 42″ lavender silk with silver brocade; and 94″ x 44″ blush colored silk. Rec'd—March 4, 2006. Est. Value—$40. Disposition—Archives Foreign | Mrs. Sehba Musharraf, First Lady of the Islamic Republic of Pakistan | Non-acceptance would cause embarrassment to donor and U.S. Government.
| Accessory: 76″ x 27″ Rush Ke Kashmik tan cashmere pashmina with 4″ trim. Rec'd—March 4, 2006. Est. Value—$140. Disposition—Archives Foreign
| Jewelry: Three piece set including: Pierced earrings with oval cut sapphire encircled by round cubic zirconium and set in gold with ½″ matching ring and 19″ pendant necklace. Rec'd—March 4, 2006. Est. Value—$500. Disposition—Archives Foreign
First Lady | Household items (2): Place settings; one set of yellow with embroidered brown design and one set of brown with embroidered ivory and brown design, both with decorative pucca shell fringe. Sets include six 15″ x 18″ cotton placemats, six 15″ x 15″ linen napkins, one 11½″ x 11½″ cotton hot pad, and one 19″ x 54″ cotton table runner. Rec'd—March 6, 2006. Est. Value—$325. Disposition—Archives Foreign | His Excellency Mathieu Kerekou, President Republic of Benin | Non-acceptance would cause embarrassment to donor and U.S. Government.
First Lady | Household item: 10″ x 13½″ hand-painted red and black wooden tray with design of assorted animals surrounded by 1″ floral border. Rec'd—March 14, 2006. Est. Value—$210. Disposition—Archives Foreign. | Mrs. Marta Sahagun de Fox, First Lady of the United Mexican States | Non-acceptance would cause embarrassment to donor and U.S. Government.
| Jewelry: 7½″ sterling silver link bracelet with clasp. Rec'd—March 14, 2006. Est. Value—$150. Disposition—Archives Foreign
First Lady | Desk accessory: 5″ x 7½″ Steuben crystal paperweight with ripple pattern design and engraved, “UNICEF, Humanitarian Award, Mrs. Laura Bush, March 8, 2006.” Rec'd—March 16, 2006. Est. Value—$850. Disposition—Archives Foreign | His Excellency Sheikh Salem Abdullah Al Jaber Al-Sabah, The Ambassador of the State of Kuwait | Non-acceptance would cause embarrassment to donor and U.S. Government.
| Desk accessory: 4″ x 6″ Jan Sevadjian green silk photo album with bow. Rec'd—March 16, 2006. Est. Value—$40. Disposition—Archives Foreign
First Lady | Book, hardcover: “The Kite Runner,” by Khaled Hosseini; inscribed by author. Rec'd—March 16, 2006. Est. Value—$25. Disposition—Archives Foreign | His Excellency Said T. Jawad, Ambassador of Afghanistan and Mrs. Shamim Jawad | Non-acceptance would cause embarrassment to donor and U.S. Government.
| Book, hardcover: “Afghanistan Evolving,” by Caroline Hudson Firestone; signed by author. Rec'd—March 16, 2006. Est. Value—$224. Disposition—Archives Foreign
| Accessory: 20½″ x 70″ hand beaded raw silk shawl with gold and black design. Rec'd—March 16, 2006. Est. Value—$60. Disposition—Archives Foreign
First Lady | Desk accessory: 11¾″ x 9½″ sterling silver picture frame with gold harp logo on top Rec'd—March 17, 2006. Est. Value—$300. Disposition—Archives Foreign | His Excellency Bertie Ahern, T.D., Prime Minister of Ireland | Non-acceptance would cause embarrassment to donor and U.S. Government.
First Lady | Household item: 6″ x 4½″ porcelain reproduction OWR Delfts decorative wall plate with the image of a winter windmill scene with a black, blue, yellow and green paisley border stamped with the OWR Delfts logo, “Art 24-103” and “Westraven Anno 1661 Delfts Hanwek” on the reverse. Rec'd—March 20, 2006. Est. Value—$177. Disposition—Archives Foreign | His Excellency Jaap de Hoop Scheffer, Secretary General of the North Atlantic Treaty Organization | Non-acceptance would cause embarrassment to donor and U.S. Government.
| Household item: 6″ x 4½″ porcelain reproduction OWR Delfts decorative wall plate with the image of a summer lake scene with a black, blue, yellow and green paisley border stamped with the OWR Delfts logo, “Art 24-105” and “Westraven Anno 1661 Delfts Handwek” on the reverse. Rec'd—March 20, 2006. Est. Value—$177. Disposition—Archives Foreign
First Lady | Clothing: Traditional Liberian short sleeve blue polyester shirt dress with shoulder pads, two large front pockets and 7″ slit in back. Rec'd—March 21, 2006. Est. Value—$55. Disposition—Archives Foreign | Her Excellency Ellen Johnson Sirleaf, President of the Republic of Liberia | Non-acceptance would cause embarrassment to donor and U.S. Government.
| Craft: 85″ x 88″ hand stitched blue quilt with 3″ yellow border and traditional Liberian peace doves in corners. Flanked by Liberian seal with embroidered images of the United States and Liberia centered on quilt and inscribed below with “To: First Lady Laura Bush in Commemoration of Your Visit to Liberia. From: Ellen Johnson Sirleaf, President of the Republic of Liberia.” Rec'd—March 21, 2006. Est. Value—$450. Disposition—Archives Foreign
First Lady | Cloths (3): 42″ x 73″ handwoven emerald green, black, purple and gold traditional Ghana Kente cloth with checkered pattern. Rec'd—April 12, 2006. Est. Value—$406. Disposition—Archives Foreign | His Excellency John Agyekum Kufuor, President of the Republic of Ghana | Non-acceptance would cause embarrassment to donor and U.S. Government.
| Jewelry: 18″ Millefiori and Swarovski crystal beaded necklace with 1″ circular gold pendant. Rec'd—April 12, 2006. Est. Value—$70. Disposition—Archives Foreign
First Lady | Household accessories: 70″ x 70″ white linen table cloth with embroidered white and yellow daisies and six 9″ x 9″ matching napkins. Rec'd—April 18, 2006. Est. Value—$367. Disposition—Archives Foreign | Mrs. Hoda Siniora, c/o Office of the Prime Minister of the Republic of Lebanon | Non-acceptance would cause embarrassment to donor and U.S. Government.
First Lady | Jewelry: 16½″ brass, silver, and copper-tone beaded coil necklace with copper clasp. Rec'd—April 20, 2006. Est. Value—$50. Disposition—Archives Foreign | His Excellency Thaksin Shinawatra, Prime Minister of the Kingdom of Thailand | Non-acceptance would cause embarrassment to donor and U.S. Government.
First Lady | Household items: 102″ x 69″ drawnwork opaque silk tablecloth with embroidered tan flowers and scalloped edges; accompanied by twelve matching 15″ square cotton napkins. Rec'd—April 20, 2006. Est. Value—$417. Disposition—Archives Foreign | Madame Liu Yongqing, Office of the President of the People's Republic of China | Non-acceptance would cause embarrassment to donor and U.S. Government.
First Lady | Collectable: 30″ Azerbaijan costumed woman dancing, poised with a tambourine and wearing a silk and lace dress decorated with beading and jewelry set with assorted colors of faux stones; encased in a 21″ x 20″ x 34″ plastic case. Rec'd—April 27, 2006. Est. Value—$350. Disposition—Archives Foreign | Mrs. Mehriban Aliyeva, c/o Office of the President of the Republic of Azerbaijan | Non-acceptance would cause embarrassment to donor and U.S. Government.
| Household item: 8′5″ x 10′4″ Serapi wool rug with tan, peach, yellow and blue pattern. Rec'd—April 27, 2006. Est. Value—$4,000. Disposition—Archives Foreign
First Lady | Household item: 8″ Meissen blue and white serving plate raised on a 3½″ base; Meissen marks have been indentified as of contemporary origin. Rec'd—May 3, 2006. Est. Value—$200. Disposition—Archives Foreign | Her Excellency Angela Merkel, Chancellor of the Federal Republic of Germany | Non-acceptance would cause embarrassment to donor and U.S. Government.
First Lady | Accessory: 69″ x 35″ white silk scarf with images of pink orchids and green stems and leaves. Rec'd—June 1, 2006. Est. Value—$196. Disposition—Archives Foreign | Mrs. Goh Chok Tong, c/o Senior Minister of the Office of The Prime Minister of the Republic of Singapore | Non-acceptance would cause embarrassment to donor and U.S. Government.
| Household item: 7″ x 4″ x 3″ silver and pewter embossed box embellished with flower designs. Rec'd—June 1, 2006. Est. Value—$171. Disposition—Archives Foreign
First Lady | Accessory: 41″ x 17″ black loop alpaca capelet with cream tie. Rec'd—June 8, 2006. Est. Value—$300. Disposition—Archives Foreign | Her Excellency Michelle Bachelet, President of the Republic of Chile | Non-acceptance would cause embarrassment to donor and U.S. Government.
| Book, hardcover (in Spanish): “Donde van las cosas del sueno? (Where Do the Dreamed Things Go?),” by Marty Brito Paut; held in a 13″ wooden book sheath laser cut to display for artwork on book cover. Rec'd—June 8, 2006. Est. Value—$120. Disposition—Archives Foreign
First Lady | Household accessory: 5½″ x 7″ Augarten handpainted white porcelain “Viennese Rose” vase with fuchsia roses and green trim; Augarten marks and numbered 62/2h 5089 144 on bottom. Rec'd—June 20, 2006. Est. Value—$230. Disposition—Archives Foreign | His Excellency Hubert Gorbach, Vice Chancellor of the Republic of Austria and Mrs. Margot Gorbach | Non-acceptance would cause embarrassment to donor and U.S. Government.
First Lady | Book, hardcover: “Herend Porcelain: The history of a Hungarian institution,” by Gabriella Balla. Rec'd—June 22, 2006. Est. Value—$60. Disposition—Archives Foreign | Mrs. Klara Dobrev, c/o Prime Minister of the Republic of Hungary | Non-acceptance would cause embarrassment to donor and U.S. Government.
| Household item: 12-person Herend tea set hand-painted bird, floral, and insect Rothschild Bird pattern on white porcelain with scalloped edges trimmed in gold; set includes twelve 2″ x 3½″ cups and 5½″ saucers, one creamer, one 5½″ x 7″ tea pot and one 2¾″ x 4½″ sugar bowl; undersides marked in blue with each Herend Handpainted Hungary number. Rec'd—June 22, 2006. Est. Value—$2,465. Disposition—Archives Foreign
| Jewelry: 1″ x 1½″ Wladis silver dove whistle held on a 24″ silver chain. Rec'd—June 22, 2006. Est. Value—$457. Disposition—Archives Foreign
First Lady | Desk Accessory: Calligraphy set including paper, three ink sticks held in a wooden box, bottle of ink, mat, wet stone, ceramic ink pot, scroll weight, leather stick holder, 7″ x 12″ lacquer wood box and lid with carved design, an instruction booklet and softcover book. Rec'd—June 29, 2006. Est. Value—$447. Disposition—Archives Foreign | His Excellency Junichiro Koizumi, Prime Minister of Japan | Non-acceptance would cause embarrassment to donor and U.S. Government.
| Jewelry: 1¼″ round “Lamie” gold-tone and cloisonne watch pendant, held on a white and gold rope chain with a ½″ x 1″ gold-tone and enamel oval charm decorated with flowers attached with a gold clasp. Rec'd—June 29, 2006. Est. Value—$30. Disposition—Archives Foreign
First Lady | Flowers: Bouquet of flowers. Rec'd—July 13, 2006. Est. Value—$70. Disposition—Handled pursuant to Secret Service policy | The Honorable Harald Lastovka, Mayor of Stralsund, Federal Republic of Germany | Non-acceptance would cause embarrassment to donor and U.S. Government.
| Jewelry: Gold-tone German Hiddensee 1¾″ x 2″ cross pendant held on a 18″ gold-tone chain. Rec'd—July 13, 2006. Est. Value—$62. Disposition—Archives Foreign
First Lady | Household item: 6″ x 13½″ hand-embroidered silk landscape featuring mountains, trees, deer, turtles, birds, flowers, clouds, and the sun; signed (embroidered) by artist Kim Young Ja; matted and held in a 13″ x 20″ dark brown wooden frame. Rec'd—September 14, 2006. Est. Value—$500. Disposition—Archives Foreign | Mrs. Kwon Yang-suk, First Lady of the Republic of Korea | Non-acceptance would cause embarrassment to donor and U.S. Government.
First Lady | Artwork: 8″ x 8″ x 11″ red clay sculpture, “Musical Trio,” of three children from Ghana playing instruments, by Mohamed Amin. (Damaged upon arrival.) Rec'd—September 18, 2006. Est. Value—$392. Disposition—Archives Foreign | His Excellency John Agyekum Kufuor, The President of the Republic of Ghana and Mrs. Theresa Kufuor | Non-acceptance would cause embarrassment to donor and U.S. Government.
First Lady | Household item: 6″ x 4″ x 4½″ intricately designed, sterling silver, hinged jewelry box. Rec'd—September 18, 2006. Est. Value—$400. Disposition—Archives Foreign | Mrs. Lyudmila Aleksandrovna Putina, c/o Office of the President of the Russian Federation | Non-acceptance would cause embarrassment to donor and U.S. Government.
First Lady | Household items (set of 16): Organza table linens, intricately hand-embroidered and beaded with faux pearls, silver-tone beads and rope, and red metallic coil into a floral, checkered pattern. Set includes one 36″ x 38″ piece, one 16″ x 32″ piece, two 15½″ x 15½″ pieces, and twelve 9″ x 10″ pieces. Rec'd—October 2, 2006. Est. Value—$1,030. Disposition—Archives Foreign | Mrs. Emine Erdogan, Office of the Prime Minister of the Republic of Turkey | Non-acceptance would cause embarrassment to donor and U.S. Government.
First Lady | Books, hardcover (5): “Marrakech et la Mamounia,” by Alan Gerard, “Arabesques: Decorative Art in Morocco,” by Jean-Marc Castera, “Moroccan Textile Embroidery,” by Isabelle Denamur, “Made in Morocco: A Journey of Exotic Tastes and Places,” by Julie Le Clerc and John Bougen, “Arts and Crafts of Morocco,” by James Jereb. Rec'd—November 7, 2006. Est. Value—$358. Disposition—Archives Foreign | His Majesty Mohammed VI, King of Morocco | Non-acceptance would cause embarrassment to donor and U.S. Government.
First Lady | Book, hardcover: “Square One: A Potter's Journey,” by Iskandar Jalil. Rec'd—November 16, 2006. Est. Value—$129. Disposition—Archives Foreign | His Excellency Lee Hsien Loong, Prime Minister and Minister for Finance of the Republic of Singapore and Mrs. Ho Ching | Non-acceptance would cause embarrassment to donor and U.S. Government.
| Household item: 3″ x 19″ multi-colored pottery vase. Rec'd—November 16, 2006. Est. Value—$300. Disposition—Archives Foreign
First Lady | Accessory: 22″ x 70″ red and black reversible silk scarf embroidered in white with images of a house and a flower. Rec'd—November 17, 2006. Est. Value—$50. Disposition—Archives Foreign | Mr. Le Sy Vuong Ha, Chief of Protocol, Ministry of Foreign Affairs of the Socialist Republic of Vietnam | Non-acceptance would cause embarrassment to donor and U.S. Government.
| Consumable: Miss Saigon perfume. Rec'd—November 17, 2006. Est. Value—$12. Disposition—Handled pursuant to Secret Service policy
| Jewelry: 16″ hemp necklace with a jade and gold-tone Lotus flower pendant. Rec'd—November 17, 2006. Est. Value—$82. Disposition—Archives Foreign
First Lady | Household item: 2½″ x 7½″ brown, oval-shaped lacquer box inlaid with iridescent pearl floral designs. Rec'd—November 17, 2006. Est. Value—$1,000. Disposition—Archives Foreign | His Excellency Nguyen Minh Triet, President of the Socialist Republic of Vietnam and Madame Tran Thi Kim Chi | Non-acceptance would cause embarrassment to donor and U.S. Government.
First Lady | Household items: Gold, blue and white tea set with 4 cups/saucers, 4 dessert plates, a cream and sugar set and a teapot. Rec'd—November 19, 2006. Est. Value—$550. Disposition—Archives Foreign | Mr. Le Hoang Quan, Chairman, Ho Chi Minh City People's Committee, Socialist Republic of Vietnam | Non-acceptance would cause embarrassment to donor and U.S. Government.
First Lady | Clothing: Silk and polyester Asian-style jacket with black and beige floral patterns; includes matching scarf; in a black lacquer box. Rec'd—November 20, 2006. Est. Value—$405. Disposition—Archives Foreign | Mrs. Ani Bambang Yudhoyono, Office of the President of the Republic of Indonesia | Non-acceptance would cause embarrassment to donor and U.S. Government.
| Accessory: Black silk scarf hand-embroidered with a gold-tone and multi-colored floral pattern Rec'd—November 20, 2006. Est. Value—$425. Disposition—Archives Foreign
| Accessories (5): Brown purse, red purse, blue/white scarf, maroon scarf, and light blue scarf. Rec'd—November 20, 2006. Est. Value—$196. Disposition—Archives Foreign
| Ds (5): “Literacy Eradication Program in Indonesia,” by Ministry of National Education (2), “Thematic Community Services on Illiteracy,” by University of Gajah Mada Students (2), “Mobil Pintar,” by Solidaritas IKIB. Rec'd—November 20, 2006. Est. Value—$75. Disposition—Archives Foreign
First Lady | Jewelry (2): Sterling silver vermeil cuff bracelets decorated with ornate cut-out designs. Rec'd—December 7, 2006. Est. Value—$180. Disposition—Archives Foreign | Mrs. Mehriban Aliyeva, c/o Office of the President of the Republic of Azerbaijan | Non-acceptance would cause embarrassment to donor and U.S. Government.
| Household item: Gold, red, and green sheri-silk handmade rug. Rec'd—December 7, 2006. Est. Value—$2,400. Disposition—Archives Foreign
| Jewelry: Set of silver jewelry with intricate designs and inlaid with turquois stones; includes belt, bracelet, earrings, and ring. Rec'd—December 7, 2006. Est. Value—$850. Disposition—Archives Foreign
| Books, hardcover (set of 2): “Heydar Aliyev Foundation,” published by the Heydar Aliyev Foundation. Rec'd—December 7, 2006. Est. Value—$80. Disposition—Archives Foreign
| Accessory: Gold silk oblong scarf. Rec'd—December 7, 2006. Est. Value—$69. Disposition—Archives Foreign
First Lady | Household item: 5″ x 7″ hand painted enamel over metal Jay Strongwater photograph frame decorated with hand-set Swarovski crystals, faux pearls, and gold-tone trim. Rec'd—December 14, 2006. Est. Value—$995. Disposition—Archives Foreign | Mrs. Rima Al-Sabah, Embassy of the State of Kuwait | Non-acceptance would cause embarrassment to donor and U.S. Government.
First Family | Consumables (3): Package of Bosnia mljevena kafa tea, package of sugar cubes and a package of bosanski lokum biscuits. Rec'd—January 30, 2006. Est. Value—$10. Disposition—Handled pursuant to Secret Service policy | Her Excellency Bisera Turkovic, Ambassador of Bosnia and Herzegovina Embassy of Bosnia and Herzegovina | Non-acceptance would cause embarrassment to donor and U.S. Government.
| Household item: 19″ x 12½″ wood decorative tray featuring grapes and vine; finished with a glazed surface and surrounded by a carved floral border with two handles; printed “Rukotvorine Konjig Bosna Herceovina” on reverse. Rec'd—January 30, 2006. Est. Value—$175. Disposition—Archives Foreign
| Silver-plated copper hammered Tea Set: Ornate plate with the image of a village and “Sarajevo”, tea cup with ceramic interior, a hammered sugar dish with ceramic interior and a 1½″ lid with a star and moon finial and a tea pot. Rec'd—January 30, 2006. Est. Value—$150. Disposition—Archives Foreign
First Family | Household item: 9½″ x 9½″ Rosenthal frosted purple glass square plate bearing the image of a Black Iris, Jordan's national flower, etched with the Royal cypher on the top and “The Hashemite Kingdom of Jordan, 2005-2006” on the bottom. Rec'd—December 30, 2005. Processed—January 3, 2006. Est. Value—$96 Disposition—Archives Foreign | Their Majesties King Abdullah, II and Queen Rania al Abdullah of the Hashemite Kingdom of Jordan | Non-acceptance would cause embarrassment to donor and U.S. Government.
| Miscellaneous (4): Lucite boxes with wooden lids, inlaid mother of pearl in a square box with a lucite lid and wood border with stenciled wood base and a frosted geometric design border. Rec'd—December 30, 2005. Processed—January 3, 2006. Est. Value—$200. Disposition—Archives Foreign
| Framed Artwork: Original abstract painting on wood of a street scene by Jordanian artist Hassan Jallal; signed by artist. Rec'd—December 30, 2005. Processed—January 3, 2006. Est. Value—$400 Disposition—Archives Foreign
First Family | Desk accessory: 9″ x 11″ black leather album holding 9½″ x 7″ photographs (23) documenting President and Mrs. Bush's official visit to Budapest, Hungary on June 21-22, 2006, with title page inside album cover, embossed with the Hungarian Coat of Arms; held in matching black leather slip case. Rec'd—June 22, 2006. Est. Value—$622. Disposition—Archives Foreign | His Excellency Ferenc Gyurcsany, Prime Minister of the Republic of Hungary His Excellency Laszlo Solyom, President of the Republic of Hungary | Non-acceptance would cause embarrassment to donor and U.S. Government.
First Family | Household items (7): Meissen porcelain handpainted Blue Onion pattern 7″ water pitcher with handle and 3″ cups (6). Rec'd—July 12, 2006. Est. Value—$686. Disposition—Archives Foreign | Her Excellency Angela Merkel, Chancellor of the Federal Republic of Germany | Non-acceptance would cause embarrassment to donor and U.S. Government.
First Family | Household accessory: 10″ handblown GLAS hagen HUTTE turmalin glass vase with black specks and clear edge; laser etched with artist's name on bottom “KAUFM 99.” Rec'd—July 12, 2006. Est. Value—$500. Disposition—Archives Foreign | The Honorable Harald Ringstorff, Minister-President of Mecklenburg-West Pomerania | Non-acceptance would cause embarrassment to donor and U.S. Government.
First Family | Artwork: 25″ x 43″ oil on canvas painting entitled (in German), “View of the Hanseatic City Stralsund,” featuring a landscape view of Stralsund, Germany as seen from the water, by Frank Muller; held in 31″ x 48″ gold-tone baroque frame. Rec'd—July 13, 2006. Est. Value—$1,500. Disposition—Archives Foreign | The Honorable Harald Lastovka, Mayor of Stralsund, Federal Republic of Germany | Non-acceptance would cause embarrassment to donor and U.S. Government.
First Family | Household item: 13″ off-white round “rose of Sharon Buncheong” pottery dish, featuring intricately hand-painted pale pink mugunghwas (the Korean national flower), engraved in gold “The President of the Republic of Korea and Mrs. Roh Moo-hyun” with a male and female phoenix facing each other with a rose of Sharon between on the front and “The President of the Republic of Korea and Mrs. Roh Moo-hyun” on the back; signed by artist. Rec'd—September 14, 2006. Est. Value—$240. Disposition—Archives Foreign. | His Excellency Roh Moo-hyun, President of the Republic of Korea and Mrs. Kwon Yang-suk | Non-acceptance would cause embarrassment to donor and U.S. Government.
| Household item: “The Celadon” tea set. Rec'd—September 14, 2006. Est. Value—$128. Disposition—Archives Foreign
First Family | Household items (12): Five 2″ x 2¼″ silver coffee cups and three 2″ x 4″ wooden bowls, with both the cups and bowls featuring gold-tone Arabic Calligraphy symbols of Happiness, Love, Health, Well-Being and Blessings; three 3¼″ x 3½″ metal coffee jars covered in fabric and with accompanying wooden lids and 9½″ x 9½″ Rosenthal frosted green glass square plate laser-etched with the Royal cypher on top and “The Hashemite Kingdom of Jordan, 2006-2007,” on bottom, with both the jars and frosted plate bearing the image of an olive branch. Rec'd—December 19, 2006. Est. Value—$499. Disposition—Archives Foreign | Their Majesties King Abdullah, II and Queen Rania al Abdullah of the Hashemite Kingdom of Jordan | Non-acceptance would cause embarrassment to donor and U.S. Government.
Stephen J. Hadley, Assistant to the President for National Security Affairs | Miscellaneous: 5″ x 1¾″ sterling silver box with green velvet lining and a ¾″ x ½″ plaque of Pakistan flag on top. Rec'd—January 24, 2006. Est. Value—$500. Disposition—Pending Transfer to General Services Administration, Government Property | His Excellency Shaukat Aziz, Prime Minister of the Islamic Republic of Pakistan | Non-acceptance would cause embarrassment to donor and U.S. Government.
Stephen J. Hadley, Assistant to the President for National Security Affairs | Household item: 4′3″ x 6′6″ finely woven Turkoman cotton contemporary carpet featuring geometric designs in burgundy, rust and black on an ivory field. Rec'd—March 1, 2006. Est. Value—$800. Disposition—Pending Transfer to General Services Administration, Government Property | His Excellency Hamid Karzai, Chairman of the Interim Authority of Afghanistan | Non-acceptance would cause embarrassment to donor and U.S. Government.
Andrew H. Card, Jr., Assistant to the President and Chief of Staff | Household item: 3¾″ x 4½″ engraved sterling silver vase. Rec'd—March 2, 2006. Est. Value—$550. Disposition—Pending Transfer to General Services Administration, Government Property | His Excellency A.P.J. Abdul Kalam, President of the Republic of India | Non-acceptance would cause embarrassment to donor and U.S. Government.
Stephen J. Hadley, Assistant to the President for National Security Affairs | Artwork (2): 4½″ x 5½″ solid silver photo frame, engraved with a floral design on borders. Rec'd—March 2, 2006. Est. Value—$500. Disposition—Pending Transfer to General Services Administration, Government Property | His Excellency A.P.J. Abdul Kalam, President of the Republic of India | Non-acceptance would cause embarrassment to donor and U.S. Government.
Scott McClellan, Assistant to the President and Press Secretary | Household item: 73½″ x 49″ persian design Pakistan woven rug with center medallion and ivory field; overall design incorporates shades of blue, green, rust, brown, red and gold. Rec'd—March 4, 2006. Est. Value—$875. Disposition—Pending Transfer to General Services Administration, Government Property | His Excellency Pervez Musharraf, President of the Islamic Republic of Pakistan | Non-acceptance would cause embarrassment to donor and U.S. Government.
Brett Kavanaugh, Assistant to the President and Staff Secretary | Household item: 76″ x 49″ persian design Pakistan woven rug with ivory background and center medallion on navy background; overall design incorporates shades of navy, peach, burgundy, light brown, and green. Rec'd—March 4, 2006. Est. Value—$875. Disposition—Pending Transfer to General Services Administration, Government Property | His Excellency Pervez Musharraf, President of the Islamic Republic of Pakistan | Non-acceptance would cause embarrassment to donor and U.S. Government.
Anita B. McBride, Assistant to the President and Chief of Staff to the First Lady | Household item: 62″ x 36″ persian design Pakistan woven rug with rust red background and center round medallion on rust red background; overall design incorporates shades of navy, light blue, green, pink, light brown, yellow and ivory. Rec'd—March 4, 2006. Est. Value—$600. Disposition—Pending Transfer to General Services Administration, Government Property | His Excellency Pervez Musharraf, President of the Islamic Republic of Pakistan | Non-acceptance would cause embarrassment to donor and U.S. Government.
Rear Admiral Mark I. Fox, Deputy Assistant to the President and Director, White House Military Office | Household item: 62″ x 38″ persian design Pakistan woven rug with light brown background and center square medallion surrounded by block figures; overall design incorporates shades of navy, light blue, pink, green, white and brown. Rec'd—March 4, 2006. Est. Value—$600. Disposition—Pending Transfer to General Services Administration, Government Property | His Excellency Pervez Musharraf, President of the Islamic Republic of Pakistan | Non-acceptance would cause embarrassment to donor and U.S. Government.
John Meyers, Special Assistant to the President and Deputy Director of Advance | Household item: 73″ x 50″ persian design Pakistan woven rug with red rust background and center diamond medallion; overall design incorporates shades of navy, ivory, light brown, pink, light blue, and peach. Rec'd—March 4, 2006. Est. Value—$1,000. Disposition—Pending Transfer to General Services Administration, Government Property | His Excellency Pervez Musharraf, President of the Islamic Republic of Pakistan | Non-acceptance would cause embarrassment to donor and U.S. Government.
Joseph W. Hagin, Assistant to the President and Deputy Chief of Staff | Household item: 74″ x 48″ persian design Pakistan woven rug with dark blue background and center round medallion; overall design incorporates shades of ivory, light brown, dark blue, rust red and light blue. Rec'd—March 4, 2006. Est. Value—$1,000. Disposition—Pending Transfer to General Services Administration, Government Property | His Excellency Pervez Musharraf, President of the Islamic Republic of Pakistan | Non-acceptance would cause embarrassment to donor and U.S. Government.
Elisabeth Millard, Special Assistant to the President and Senior Director | Household item: 63″ x 38″ persian design Pakistan woven rug with ivory background and center medallion; overall design incorporates shades of pink, dusty mauve, light blue, green, brown, navy and peach. Rec'd—March 4, 2006. Est. Value—$500. Disposition—Pending Transfer to General Services Administration, Government Property | His Excellency Pervez Musharraf, President of the Islamic Republic of Pakistan | Non-acceptance would cause embarrassment to donor and U.S. Government.
Daniel J. Bartlett, Counselor to the President | Household item: 76″ x 49″ Persian design Pakistan woven rug with ivory background and center medallion on navy background; overall design incorporates shades of navy, peach, burgundy, light brown, and green. Rec'd—March 4, 2006.Est. Value—$875.Disposition—Pending Transfer to General Services Administration, Government Property | His Excellency Pervez Musharraf, President of the Islamic Republic of Pakistan | Non-acceptance would cause embarrassment to donor and U.S. Government.
Stephen J. Hadley, Assistant to the President for National Security Affairs | Medallion: Brass ceremonial medal with gold plate inscribed with “Presented by Field Marshal, HUSSEIN TANTAWI, CINC of the Armed Forces, Minister of Defense and Military Production, Egypt.” Rec'd—March 14, 2006. Est. Value—$50. Disposition—Pending Transfer to General Services Administration, Government Property | His Excellency Field Marshall Mohamed Hussein Tantawi, Minister of Defense and Military Production of the Arab Republic of Egypt | Non-acceptance would cause embarrassment to donor and U.S. Government.
| Household item: 17¾″ finely etched two piece (hurricane style) pure silver lamp. Rec'd—March 14, 2006. Est. Value—$1,000. Disposition—Pending Transfer to General Services Administration, Government Property
Andrew H. Card, Jr., Assistant to the President and Chief of Staff | Household item: 49″ x 76½″ persian design Pakistan rug with center medallion on a beige field; overall design incorporates shades of green, yellow, blue, burgundy and black. Rec'd—March 15, 2006. Est. Value—$745. Disposition—Pending Transfer to General Services Administration, Government Property | His Excellency Pervez Musharraf, President of the Islamic Republic of Pakistan | Non-acceptance would cause embarrassment to donor and U.S. Government.
Andrew H. Card, Jr., Assistant to the President and Chief of Staff | Accessories (6): Variety of E. Marinella silk twill ties with geometric patterns in various colors; red with light blue and white flowers, navy with white accents, red with green and blue accents, royal blue with red and blue accents, navy blue with yellow accents, and navy with light blue accents. Rec'd—March 24, 2006. Est. Value—$990. Disposition—Pending Transfer to General Services Administration, Government Property | His Excellency Silvio Berlusconi, President of the Council of Ministers of the Italian Republic | Non-acceptance would cause embarrassment to donor and U.S. Government.
Stephen J. Hadley, Assistant to the President for National Security Affairs | Household item: 76″ x 49″ persian design Pakistan woven rug with ivory background and center oval medallion on rust red background; overall design incorporates shades of turquoise, pale yellow, peach, light brown, black and white. Rec'd—March 27, 2006. Est. Value—$1,000. Disposition—Pending Transfer to General Services Administration, Government Property | His Excellency Pervez Musharraf President of the Islamic Republic of Pakistan | Non-acceptance would cause embarrassment to donor and U.S. Government.
Stephen J. Hadley, Assistant to the President for National Security Affairs | Desk accessories (2): William and Son sterling silver roller ball and fountain pen set. Rec'd—April 3, 2006. Est. Value—$1,250. Disposition—Pending Transfer to General Services Administration, Government Property | His Highness Sheikh Salman Bin Hamad Bin Isa Al-Khalifa Crown Prince of the Kingdom of Bahrain and Head of the Bahrain Defence Force | Non-acceptance would cause embarrassment to donor and U.S. Government.
Stephen J. Hadley, Assistant to the President for National Security Affairs | Desk accessory: Silver tray engraved with Frank-Walter Steinmeier and German emblem. Rec'd—April 3, 2006. Est. Value—$400. Disposition—Pending Transfer to General Services Administration, Government Property | His Excellency Frank-Walter Steinmeier, Minister of Foreign Affairs of the Federal Republic of Germany | Non-acceptance would cause embarrassment to donor and U.S. Government.
Stephen J. Hadley, Assistant to the President for National Security Affairs | Collectable: Wooden miniature ornate ship steering wheel with collection certificate. Rec'd—April 24, 2006. Est. Value—$1,250. Disposition—Pending Transfer to General Services Administration, Government Property | His Excellency Hu Jintao, President of the People's Republic of China | Non-acceptance would cause embarrassment to donor and U.S. Government.
Stephen J. Hadley, Assistant to the President for National Security Affairs | Household item: 66″ x 44″ fine Afghan rug with center geometric design on a gold field; overall design incorporates shades of pink, rose, burgundy, green, blue, taupe, brown and black. Rec'd—April 26, 2006. Est. Value—$1,200. Disposition—Pending Transfer to General Services Administration, Government Property | His Excellency Abdullah Abdullah, Minister of Foreign Affairs of the Islamic Republic of Afghanistan | Non-acceptance would cause embarrassment to donor and U.S. Government.
Michele L. Malvesti, Senior Director for Combating Terrorism Strategy | Jewelry: Faconnable lady's watch with brilliant accents and two alternate wristbands; held in a leather jewelry box. Rec'd—June 20, 2006. Est. Value—$1,950. Disposition—Pending Transfer to General Services Administration, Government Property | His Royal Highness Abdallah Bin Abd Al-Aziz Al Saud, Crown Prince, First Deputy Prime Minister and Commander of the National Guard, Kingdom of Saudi Arabia | Non-acceptance would cause embarrassment to donor and U.S. Government.
Stephen J. Hadley, Assistant to the President for National Security Affairs | Desk accessory: Blue Omas triangular fountain pen with brass accents. Rec'd—June 20, 2006. Est. Value—$495. Disposition—Pending Transfer to General Services Administration, Government Property | The Honorable Massimo D' Alema, Deputy Prime Minister and Minister of Foreign Affairs of the Italian Republic | Non-acceptance would cause embarrassment to donor and U.S. Government.
Stephen J. Hadley, Assistant to the President for National Security Affairs | Household item: 66″ x 44″ fine Afghan rug with repeating geometric designs on a gold field; overall design incorporates shades of navy, red, green, peach and white. Rec'd—July 13, 2006. Est. Value—$1,200. Disposition—Pending Transfer to General Services Administration, Government Property | His Excellency Rangin Dadfar Spanta, Minister of Foreign Affairs of the Islamic Republic of Afghanistan | Non-acceptance would cause embarrassment to donor and U.S. Government.
Joseph W. Hagin, Assistant to the President and Deputy Chief of Staff | Artwork: 10″ x 9″ x 3″ statue consisting of a pink granite base adorned with gold trim, a gold palm tree in the center and flanked on either side by two crystal horse heads. Rec'd—September 5, 2006. Est. Value—$1,500. Disposition—Pending Transfer to General Services Administration, Government Property | His Royal Highness Abdallah Bin Abd Al-Aziz Al Saud, Crown Prince, First Deputy Prime Minister and Commander of the National Guard, Kingdom of Saudi Arabia | Non-acceptance would cause embarrassment to donor and U.S. Government.
Stephen J. Hadley, Assistant to the President for National Security Affairs | Artwork: 8″ x 12″ replica of traditional Phinisi ship delicately constructed with silver wire twisted in intricate patterns on the sails and body of boat. Rec'd—September 26, 2006. Est. Value—$500. Disposition—Pending Transfer to General Services Administration, Government Property | His Excellency Muhammad Jusuf Kalla, Vice President of the Republic of Indonesia | Non-acceptance would cause embarrassment to donor and U.S. Government.
Michael S. Doran, Senior Director for Near East and North African Affairs | Accessory: Tiffany men's watch with self-winding, mechanical movement, eighteen karat gold face, farmed black alligator strap, chronometer, hour, minute and second hands and date window; presented in a black leather box. Rec'd—October 10, 2006. Est. Value—$4,050. Disposition—Pending Transfer to General Services Administration, Government Property | His Royal Highness Abdallah Bin Abd Al-Aziz Al Saud, Crown Prince, First Deputy Prime Minister and Commander of the National Guard Kingdom of Saudi Arabia | Non-acceptance would cause embarrassment to donor and U.S. Government.
Stephen J. Hadley, Assistant to the President for National Security Affairs | Household item: 36″ x 62″ finely woven Afghan rug featuring floral pattern in black, muted gold and sage green. Rec'd—October 11, 2006. Est. Value—$800. Disposition—Pending Transfer to General Services Administration, Government Property | His Excellency Hamid Karzai, Chairman of the Interim Authority of Afghanistan | Non-acceptance would cause embarrassment to donor and U.S. Government.
Stephen J. Hadley, Assistant to the President for National Security Affairs | Household item: 11″ x 4″ lapis vase with inlaid semi-precious stones. Rec'd—November 1, 2006. Est. Value—$850. Disposition—Pending Transfer to General Services Administration, Government Property | His Excellency Zalmai Rassoul, National Security Advisor of the Islamic Republic of Afghanistan | Non-acceptance would cause embarrassment to donor and U.S. Government.
Stephen J. Hadley, Assistant to the President for National Security Affairs | Household item: 4′ x 6′ wool Afghan rug with diamond pattern in burnt orange, navy blue, marigold, cream and green. Rec'd—November 14, 2006. Est. Value—$1,000. Disposition—Pending Transfer to General Services Administration, Government Property | His Excellency Abdul Rahim Wardak, Minister of Defense of the Islamic Republic of Afghanistan | Non-acceptance would cause embarrassment to donor and U.S. Government.
Stephen J. Hadley, Assistant to the President for National Security Affairs | Household item: 78″ x 60″ finely wovan wool Afghani rug with 3″ fringe; geometric style design in burgundy, navy, and salmon with mint green accents. Rec'd—November 28, 2006. Est. Value—$1,100. Disposition—Pending Transfer to General Services Administration, Government Property | His Excellency Hamid Karzai, Chairman of the Interim Authority of Afghanistan | Non-acceptance would cause embarrassment to donor and U.S. Government.

AGENCY: Office of the Vice President
[Report of tangible gifts]
Name and title of person accepting the gift on behalf of the U.S. Government | Gift, date of acceptance on behalf of the U.S. Government, estimated value, and current disposition or location | Identity of foreign donor and government | Circumstances justifying acceptance
Vice President | Fur-lined cashmere Arabic coat, Rec'd—January 16, 2006. Est. Value—$400. Disposition—Archives Foreign. Gold vermeil sculpture depicting an oasis. Rec'd—January 16, 2006. Est. Value—$2000. Disposition—Archives Foreign. Arabian truffles and assorted cookies and candies. Rec'd—January 16, 2006. Est. Value—$2436. Disposition—Handled pursuant to Secret Service policy. Silver serving pieces for above food gifts. Rec'd—January 16, 2006. Est. Value—$909. Disposition—Archives Foreign, Three Herfy leather-bound appointment books and desk calendars. Rec'd—January 16, 2006. Est. Value—$222. Disposition—Archives Foreign. Silver diorama of a desert scene. Rec'd—January 16, 2006. Est. Value—$3500. Disposition—Archives Foreign | His Majesty Abdallah Bin Abd al-Aziz, Al Saud, Custodian of the Two Holy Mosques, King of the Kingdom of Saudi Arabia | Non-acceptance would cause embarrassment to donor and U.S. Government.
Mrs. Cheney | Mellerio & Mellor ladies' watch. Rec'd—January 16, 2006. Est. Value—$2500. Disposition—Archives. 18 karat white gold and diamond ring and earrings set. Rec'd—January 16, 2006. Est. Value—$1850. Disposition—Archives Foreign | His Majesty Abdallah Bin Abd al-Aziz, Al Saud, Custodian of the Two Holy Mosques, King of the Kingdom of Saudi Arabia | Non-acceptance would cause embarrassment to donor and U.S. Government.
Vice President | Silver box decorated with Pakistani flag. Rec'd—January 24, 2006. Est. Value—$450. Disposition—Archives Foreign | His Majestym Shaukat Aziz, Prime Minister of the Islamic Republic of Pakistan | Non-acceptance would cause embarrassment to donor and U.S. Government.
Vice President | Silver knife and sheath. Rec'd—February 7, 2006. Est. Value—$500. Disposition—Archives Foreign | His Majesty King Abdullah II bin al Hussein of the Hashemite Kingdom of Jordan | Non-acceptance would cause embarrassment to donor and U.S. Government.
Vice President | Six E. Marinella neckties. Rec'd—March 1, 2006. Est. Value—$810. Archives Foreign | His Excellency Silvio Berlusconi, President of the Council of Ministers of the Italian Republic | Non-acceptance would cause embarrassment to donor and U.S. Government.
Vice President | Sterling silver coffee and tea serving set. Rec'd—March 7, 2006. Est. Value—$3000. Disposition—Archives Foreign | Field Marshal Hussein Tantawi, Commander-in-Chief of the Egyptian Armed Forces & Minister of Defense and Military Production | Non-acceptance would cause embarrassment to donor and U.S. Government.
Mrs. Cheney | 18 karat gold bracelet with engraved hieroglyphic designs. Rec'd—March 7, 2006. Est. Value—$750. Disposition—Archives Foreign | Field Marshal Hussein Tantawi, Commander-in-Chief of the Egyptian Armed Forces & Minister of Defense and Military Production | Non-acceptance would cause embarrassment to donor and U.S. Government.
Vice President and Mrs. Cheney | Floral porcelain plate. Rec'd—April 20, 2006. Est. Value—$75. Disposition—Archives Foreign. Two books of postage stamps. Rec'd—April 20, 2006. Est. Value—$40. Disposition—Archives Foreign. Fabric and paper scroll painting. Rec'd—April 20, 2006. Est. Value—$200. Disposition—Archives Foreign | His Excellency Hu Jintao, President of the Peoples Republic of China | Non-acceptance would cause embarrassment to donor and U.S. Government.
Vice President | Wool carpet in the Kuba design. Rec'd—April 28, 2006. Est. Value—$6900. Disposition—Archives Foreign | His Excellency Ilham Aliyev, President of the Republic of Azerbaijan | Non-acceptance would cause embarrassment to donor and U.S. Government.
Vice President | Breguet men's watch. Rec'd—May 5, 2006. Est. Value—$25300. Disposition—Archives Foreign | His Excellency Nursultan Nazarbayev President of the Republic of Kazakhstan | Non-acceptance would cause embarrassment to donor and U.S. Government.
Vice President and Mrs. Cheney | Sterling silver, gold vermeil, and stone incense burner. Rec'd—May 5, 2006. Est. Value—$2000. Disposition—Archives Foreign | His Excellency Nursultan Nazarbayev, President of the Republic of Kazakhstan | Non-acceptance would cause embarrassment to donor and U.S. Government.
Mrs. Cheney | Brass mirror decorated with cubic zirconia. Rec'd—May 5, 2006. Est. Value—$50. Disposition—Archives Foreign. Two small stone and metal boxes with cubic zirconia insets. Rec'd—May 5, 2006. Est. Value—$500. Disposition—Archives Foreign | His Excellency Nursultan Nazarbayev, President of the Republic of Kazakhstan | Non-acceptance would cause embarrassment to donor and U.S. Government.
Vice President | Custom-made western saddle. Rec'd—May 27, 2006. Est. Value—$6500. Disposition—Archives Foreign. Italian crib linens by Martini. Rec'd—May 27, 2006. Est. Value—$1891. Disposition—Archives Foreign. Jordanian gold baby coin. Rec'd—May 27, 2006. Est. Value—$350. Disposition—Transferred to General Services Administration. Gucci baby carrier and teddy bear. Rec'd—May 27, 2006. Est. Value—$920. Disposition—Archives Foreign. Tiffany baby rattle. Rec'd—May 27, 2006. Est. Value—$223. Disposition—Archives Foreign. Small Links silver box. Rec'd—May 27, 2006. Est. Value—$140. Disposition—Archives Foreign. Two Links silver-plated baby frames. Rec'd—May 27, 2006. Est. Value—$110. Disposition—Transferred to General Services Administration | His Majesty King Abdullah II bin al Hussein of the Hashemite Kingdom of Jordan | Non-acceptance would cause embarrassment to donor and U.S. Government.
Vice President | Ten silver medals commemorating Lithuanian towns. Rec'd—May 31, 2006. Est. Value—$300. Disposition—Archives Foreign | His Excellency Valdas Adamkus, President of the Republic of Lithuania | Non-acceptance would cause embarrassment to donor and U.S. Government.
Mrs. Cheney | Sterling silver box decorated with carved amber stone. Rec'd—May 31, 2006. Est. Value—$450. Disposition—Archives Foreign | His Excellency Valdas Adamkus, President of the Republic of Lithuania | Non-acceptance would cause embarrassment to donor and U.S. Government.
Vice President | Silver filigree dish. Rec'd—June 2, 2006. Est. Value—$350. Disposition—Archives Foreign | His Excellency Sali Berisha, Prime Minister of Albania | Non-acceptance would cause embarrassment to donor and U.S. Government.
Vice President | Mallard drake bronze sculpture. Rec'd—June 29, 2006. Est. Value—$310. Disposition—Archives Foreign | The Honourable Noel A. Kinsella, Ph.D., S.T.D., Speaker of the Canadian Senate | Non-acceptance would cause embarrassment to donor and U.S. Government.
Vice President | Framed copper painting of St. George. Rec'd—July 10, 2006. Est. Value—$350. Disposition—Archives Foreign | His Excellency Mikheil Saakashvili, President of Georgia | Non-acceptance would cause embarrassment to donor and U.S. Government.
Vice President | Silver palm tree sculpture in glass case. Rec'd—September 6, 2006. Est. Value—$1500. Disposition—Archives Foreign | His Excellency Tariq al-Hashemi, Vice President of the Republic of Iraq | Non-acceptance would cause embarrassment to donor and U.S. Government.
Vice President | Silver and amber letter box. Rec'd—September 20, 2006. Est. Value—$375. Disposition—Archives Foreign | His Excellency Kazimierz Marcinkiewicz, Prime Minister of the Republic of Poland | Non-acceptance would cause embarrassment to donor and U.S. Government.
Vice President | Sterling silver box with decorative engraving. Rec'd—September 28, 2006. Est. Value—$750. Disposition—Archives Foreign | His Excellency Nursultan Nazarbayev, President of the Republic of Kazakhstan | Non-acceptance would cause embarrassment to donor and U.S. Government.
Vice President | Silver phinisi (sailboat) sculpture. Rec'd—October 4, 2006. Est. Value—$550. Disposition—Archives Foreign | His Excellency Muhammad Jusuf Kalla, Vice President of the Republic of Indonesia | Non-acceptance would cause embarrassment to donor and U.S. Government.
Vice President | Red wool, cotton and silk rug of Afghan origin. Rec'd—October 19, 2006. Est. Value—$950. Disposition—Archives Foreign | His Excellency Hamid Karzai, President of the Islamic Republic of Afghanistan | Non-acceptance would cause embarrassment to donor and U.S. Government.
Vice President | Gold vermeil ibex sculpture on marble base. Rec'd—October 31, 2006. Est. Value—$1000. Disposition—Archives Foreign | His Royal Highness Prince Khalid bin Sultan, Assistant Minister of Defense and Aviation of the Kingdom of Saudi Arabia | Non-acceptance would cause embarrassment to donor and U.S. Government.
Vice President | Light brown cotton and wool rug of Afghan origin. Rec'd—November 16, 2006. Est. Value—$575. Disposition—Archives Foreign. Brass and lapis lazuli vase. Rec'd—November 16, 2006. Est. Value—$275. Disposition—Archives Foreign | General Abdul Rahim Wardak, Minister of Defense Islamic Republic of Afghanistan | Non-acceptance would cause embarrassment to donor and U.S. Government.
Vice President | Gold vermeil sword with diamond-studded hilt. Rec'd—November 27, 2006. Est. Value—$5000. Disposition—Archives Foreign. 18 karat white gold ruby and diamond jewelry set (Vice President accepted on behalf of his daughter, Elizabeth Cheney). Rec'd—November 27, 2006. Est. Value—$55000. Disposition—Archives Foreign | His Majesty Abdallah Bin Abd al-Aziz, Al Saud, Custodian of the Two Holy Mosques, King of the Kingdom of Saudi Arabia | Non-acceptance would cause embarrassment to donor and U.S. Government.
Mrs. Cheney | 18 karat white gold sapphire and diamond jewelry set. Rec'd—November 27, 2006. Est. Value—$45000. Disposition—Archives Foreign | His Majesty Abdallah Bin Abd al-Aziz, Al Saud, Custodian of the Two Holy Mosques, King of the Kingdom of Saudi Arabia | Non-acceptance would cause embarrassment to donor and U.S. Government.
Vice President | Set of three Aurora fountain pens with 18 karat gold nibs. Rec'd—December 22, 2006. Est. Value—$1485. Disposition—Archives Foreign | His Excellency Francesco Rutelli, Deputy Prime Minister of the Italian Republic | Non-acceptance would cause embarrassment to donor and U.S. Government.
Vice President and Mrs. Cheney | Original abstract painting by Jordanian artist Hassan Jallal. Rec'd—January 4, 2006. Est. Value—$500. Disposition—Archives Foreign. Four small acrylic boxes with wood and mother-of-pearl inlaid lids. Rec'd—January 4, 2006. Est. Value—$200. Disposition—Archives Foreign. Handpainted floral glass plate. Rec'd—January 4, 2006. Est. Value—$75. Disposition—Archives Foreign | His Majesty King Abdullah II bin al Hussein of the Hashemite Kingdom of Jordan | Non-acceptance would cause embarrassment to donor and U.S. Government.
Vice President and Mrs. Cheney | Large blue blown glass vase. Rec'd—May 4, 2006. Est. Value—$300. Disposition—Archives Foreign. Hardcover coffee table book: Ukrainian Antiquities. Rec'd—May 4, 2006. Est. Value—$65. Disposition—Archives Foreign | His Excellency Viktor Yushchenko, President of Ukraine | Non-acceptance would cause embarrassment to donor and U.S. Government.
Vice President and Mrs. Cheney | Large contemporary painting by Croatian artist, Munir Vejzovic. Rec'd—May 7, 2006. Est. Value—$3500. Disposition—Archives Foreign. Hardcover coffee table book, Munir Vejzovic. Rec'd—May 7, 2006. Est. Value—$65. Disposition—Archives Foreign | His Excellency Ivo Sanader, Prime Minister of the Republic of Croatia | Non-acceptance would cause embarrassment to donor and U.S. Government.
Vice President and Mrs. Cheney | Green leather album with photographs. Rec'd—May 17, 2006. Est. Value—$180. Disposition—Archives Foreign. Two bottles of Fawah perfume. Rec'd—May 17, 2006. Est. Value—$108. Disposition—Handled pursuant to Secret Service policy. Silver cufflinks and necklace with the Saudi crest. Rec'd—May 17, 2006. Est. Value—$125. Disposition—Archives Foreign | His Royal Highness Prince Turki Al-Faisal, Embassy of the Kingdom of Saudi Arabia | Non-acceptance would cause embarrassment to donor and U.S. Government.
Vice President and Mrs. Cheney | White cotton tablecloth with cutwork embroidery. Rec'd—October 5, 2006. Est. Value—$30. Disposition—Archives Foreign. Black shantung silk fabric with machine embroidery, jet beads, and sequins. Rec'd—October 5, 2006. Est. Value—$200. Disposition—Archives Foreign. Ruby bracelet on sterling silver backing. Rec'd—October 5, 2006. Est. Value—$200. Disposition—Archives Foreign | Her Excellency Begum Sehba Musharraf, First Lady of Pakistan | Non-acceptance would cause embarrassment to donor and U.S. Government.
Vice President and Mrs. Cheney | Coffee set including cups, bowls, canisters, and glass tray. Rec'd—December 29, 2006. Est. Value—$375. Disposition—Archives Foreign | His Majesty King Abdullah II bin al Hussein of the Hashemite Kingdom of Jordan | Non-acceptance would cause embarrassment to donor and U.S. Government.
Vice President's Staff David Addington, Assistant to the President and Chief of Staff to the Vice President | Hermes white and yellow gold watch. Rec'd—January 16, 2006. Est. Value—$3625. Disposition—General Services Administration | His Majesty Abdallah Bin Abd al-Aziz, Al Saud Custodian of the Two Holy Mosques, King of the Kingdom of Saudi Arabia | Non-acceptance would cause embarrassment to donor and U.S. Government.
Vice President's Staff Charles Durkin, Personal Aide to the Vice President | Hermes white gold watch. Rec'd—January 16, 2006. Est. Value—$1360. Disposition—General Services Administration | His Majesty Abdallah Bin Abd al-Aziz, Al Saud Custodian of the Two Holy Mosques, King of the Kingdom of Saudi Arabia | Non-acceptance would cause embarrassment to donor and U.S. Government.
Vice President's Staff John Hannah, Assistant to the Vice President for National Security Affairs | Hermes white and yellow gold watch. Rec'd—January 16, 2006. Est. Value—$3625. Disposition—General Services Administration | His Majesty Abdallah Bin Abd al-Aziz, Al Saud Custodian of the Two Holy Mosques, King of the Kingdom of Saudi Arabia | Non-acceptance would cause embarrassment to donor and U.S. Government.
Vice President's Staff Lea Anne McBride, Assistant to the Vice President for Communications | Hermes white and yellow gold watch. Rec'd—January 16, 2006. Est. Value—$3625. Disposition—General Services Administration | His Majesty Abdallah Bin Abd al-Aziz, Al Saud Custodian of the Two Holy Mosques, King of the Kingdom of Saudi Arabia | Non-acceptance would cause embarrassment to donor and U.S. Government.
Vice President's Staff Troy McNichols, Assistant to the Vice President and Director of Advance | Hermes white and yellow gold watch. Rec'd—January 16, 2006. Est. Value—$3625. Disposition—General Services Administration | His Majesty Abdallah Bin Abd al-Aziz, Al Saud Custodian of the Two Holy Mosques, King of the Kingdom of Saudi Arabia | Non-acceptance would cause embarrassment to donor and U.S. Government.
Vice President's Staff Derrick Morgan, Assistant to the Vice President for Special Projects and Staff Secretary | Eterna watch with stainless steel band. Rec'd—January 16, 2006. Est. Value—$2170. Disposition—General Services Administration | His Majesty Abdallah Bin Abd al-Aziz, Al Saud Custodian of the Two Holy Mosques, King of the Kingdom of Saudi Arabia | Non-acceptance would cause embarrassment to donor and U.S. Government.
Vice President's Staff Samantha Ravich, Deputy Assistant to the Vice President for National Security Affairs | Shearling-lined Arabic wool coat. Rec'd—January 16, 2006. Est. Value—$600. Disposition—General Services Administration. Black leather artist's portfolio. Rec'd—January 16, 2006. Est. Value—$121. Disposition—General Services Administration. Chanel watch with diamonds. Rec'd—January 16, 2006. Est. Value—$3900. Disposition—General Services Administration | His Majesty Abdallah Bin Abd al-Aziz, Al Saud Custodian of the Two Holy Mosques, King of the Kingdom of Saudi Arabia | Non-acceptance would cause embarrassment to donor and U.S. Government.
Vice President's Staff Samantha Ravich, Deputy Assistant to the Vice President for National Security Affairs | Red wool and cotton rug of Afghan origin. Rec'd—November 16, 2006. Est. Value—$400. Disposition—General Services Administration | General Abdul Rahim Wardak Minister of Defense Islamic Republic of Afghanistan | Non-acceptance would cause embarrassment to donor and U.S. Government.

AGENCY: Department of State
[Report of tangible gifts]
Name and title of person accepting the gift on behalf of the U.S. Government | Gift, date of acceptance on behalf of the U.S. Government, estimated value, and current disposition or location | Identity of foreign donor and government | Circumstances justifying acceptance
Condoleezza Rice, Secretary of State | Large Painting of Junkanoo Band and dancers, Painted by the U.S. Ambassador's Body Guard, Clifford Pernander. Rec'd—March 23, 2006. Est. Value—$550. Location—Official Use for the Department of State Museum | The Right Honorable Perry G. Christie, M.P., Prime Minister of the Commonwealth of The Bahamas | Non-acceptance would have caused embarrassment to donor and U.S. Government.
Condoleezza Rice, Secretary of State | White Gold and Diamond Necklace, Earrings, Bracelet, and Ring. Rec'd—February 6, 2006. Est. Value—$20,000. Disposition—Transferred to General Services Administration | Abdallah bin Abd al-Aziz Al Saud, Custodian of the Two Holy Mosques, King of the Kingdom of Saudi Arabia | Non-acceptance would have caused embarrassment to donor and U.S. Government.
Condoleezza Rice, Secretary of State | Black Silk Handbag by Hager Design and Silk Shawl by Hager Design. Rec'd—July 27, 2006. Est. Value—$330. Disposition—Transferred to General Services Administration | His Excellency Mr. Peter John Michelson, Ambassador Extraordinary and Plenipotentiary of the Kingdom of Cambodia | Non-acceptance would have caused embarrassment to donor and U.S. Government.
Condoleezza Rice, Secretary of State | Decorative Orb on stand (Crystal Ball) hand painted with a picture of The Secretary of State inside. Rec'd—July 18, 2006. Est. Value—$800. Location—Official Use for the Department of State Museum | Chinese General Guo, Ranking Vice Chairman—Central Military Commission, China | Non-acceptance would have caused embarrassment to donor and U.S. Government.
Condoleezza Rice, Secretary of State | Book: Moscow; Photographs by Nikolan Rakhmanov and framed print: Spasskaya Tower, 19th century. Received—June 29, 2006. Est. Value—$500. Location—Official Use in Secretary Rice's Office | His Excellency Sergey Lavrov, Minister of Foreign Affairs of the Russian Federation | Non-acceptance would have caused embarrassment to donor and U.S. Government.
Condoleezza Rice, Secretary of State | Table Runner of Idrija Bobbin Lace. Rec'd—July 11, 2006. Est. Value—$380. Location—Official Use for the Department of State Museum | His Excellency Janez Jansa, Prime Minister of the Republic of Slovenia | Non-acceptance would have caused embarrassment to donor and U.S. Government.
Condoleezza Rice, Secretary of State | Silver Bowl. Rec'd—March 6, 2006. Est. Value—$420. Location—Official Use in the Office of the Chief of Protocol | Field Marshall Hussein Tantawi. Commander in the Chief of the Egyptian Armed Forces and Minister of Defense of Egypt | Non-acceptance would have caused embarrassment to donor and U.S. Government.
Condoleezza Rice, Secretary of State | Medium sized rust colored rug with tan fringe. Rec'd—April 5, 2006. Est. Value—$400. Location—Official Use in the Office of the Chief of Protocol | His Excellency Pervez Musharraf, President of the Islamic Republic of Pakistan | Non-acceptance would have caused embarrassment to donor and U.S. Government.
Condoleezza Rice, Secretary of State | Two Silk Scarves. Rec'd—February 23, 2006. Est. Value—$400. Location—Official Use in the Department of State Museum | His Excellency Silvio Berlusconi, President of the Council of Ministers of the Italian Republic | Non-acceptance would have caused embarrassment to donor and U.S. Government.
Condoleezza Rice, Secretary of State | Gold Pin and Hermes Scarf. Rec'd—March 23, 2006. Est. Value—$500. Location—Official Use in the Department of State Museum | Her Excellency Dora Bakoyannis, Minister of Foreign Affairs of the Hellenic Republic | Non-acceptance would have caused embarrassment to donor and U.S. Government.
Condoleezza Rice, Secretary of State | Hermes Scarf; oversized. Rec'd—January 26, 2006. Est. Value—$400. Disposition—Transferred to General Services Administration | His Excellency Saad Hariri, Member of Parliament, Republic of Lebanon | Non-acceptance would have caused embarrassment to donor and U.S. Government.
Condoleezza Rice, Secretary of State | Personalized Silver Box. Rec'd—February 22, 2006. Est. Value—$420. Location—Official Use in the Department of State Museum | General Omar Soliman, Director of the Egyptian General Intelligence Service | Non-acceptance would have caused embarrassment to donor and U.S. Government.
Condoleezza Rice, Secretary of State | Perfume and Incense in Wood Box. Rec'd—February 22, 2006. Est. Value—$550. Disposition—Transferred to General Services Administration | His Royal Highness Prince Saud Al Faisal, Minister of Foreign Affairs of the Kingdom of Saudi Arabia | Non-acceptance would have caused embarrassment to donor and U.S. Government.
Condoleezza Rice, Secretary of State | Gold Replica of the Maqta Bridge Fort. Rec'd—February 23, 2006. Est. Value—$650. Location—Official Use in the Department of State Museum | His Excellency Sheikh Abdullah bin Zayed Al Nahyan, Minister of Foreign Affairs of the United Arab Emirates | Non-acceptance would have caused embarrassment to donor and U.S. Government.
Condoleezza Rice, Secretary of State | Gold Plated silver Pendant; accompanied by official certificate. Rec'd—April 25, 2006. Est. Value—$390. Location—Official Use in the Department of State Museum | His Excellency Kostas Karamanlis, Prime Minister of the Hellenic Republic (Greece) | Non-acceptance would have caused embarrassment to donor and U.S. Government.
Condoleezza Rice, Secretary of State | Book: Ludwig Van Beethoven, with rare Offenbach reprints of Beethoven's piano sonatas. Rec'd—April 4, 2006. Est. Value—$430. Location—Official Use in Secretary Rice's Office | His Excellency Frank-Walter Steinmeier, Minister of Foreign Affairs of the Federal Republic of Germany | Non-acceptance would have caused embarrassment to donor and U.S. Government.
Condoleezza Rice, Secretary of State | One bottle of perfume, one bottle of incense, and book: The Land of Incense. Rec'd—May 12, 2006. Est. Value—$495. Disposition—Transferred to General Services Administration | His Excellency Yousuf bin Alawi bin Abdullah, Minister Responsible for Foreign Affairs of the Sultanate of Oman | Non-acceptance would have caused embarrassment to donor and U.S. Government.
Condoleezza Rice, Secretary of State | Large tan/neutral rug. Rec'd—March 4, 2006. Est. Value—$500. Location—Official Use in Office of the Chief of Protocol | His Excellency Pervez Musharraf, President of the Islamic Republic of Pakistan | Non-acceptance would have caused embarrassment to donor and U.S. Government.
Condoleezza Rice, Secretary of State | Book: Twentieth Century Impressions of Ceylon. Rec'd—January 5, 2006. Est. Value—$340. Location—Official Use in Office of the Chief of Protocol | The Honorable Mangala Samaraweera, Minister of Foreign Affairs and Minister of Ports and Aviation of the Democratic Socialist Republic of Sri Lanka | Non-acceptance would have caused embarrassment to donor and U.S. Government.
Condoleezza Rice, Secretary of State | Large framed portrait of Secretary Rice, and a light blue quilt with inscription. Rec'd—March 21, 2006. Est. Value—$1,400. Location—Official Use in the Department of State Museum | Her Excellency Ellen Johnson Sirleaf, President of the Republic of Liberia | Non-acceptance would have caused embarrassment to donor and U.S. Government.
Condoleezza Rice, Secretary of State | Large red leather jewelry type box full of dates, 8 bottles of olive oil, and six bottles of wine. Rec'd—December 21, 2006. Est. Value—$381. Disposition—Pending transfer to General Services Administration | His Excellency Line El Abidine Ben Ali, President of the Republic of Tunisia | Non-acceptance would have caused embarrassment to donor and U.S. Government.
Condoleezza Rice, Secretary of State | Baccarat Crystal Vase. Rec'd—May 10, 2006. Est. Value—$780. Disposition—Pending transfer to General Services Administration | His Excellency Philippe Douste-Blazy, Minister of Foreign Affairs of the French Republic | Non-acceptance would have caused embarrassment to donor and U.S. Government.
Condoleezza Rice, Secretary of State | Wooden Box with red velvet lining, 7 hand painted framed china discs with enamel paintings of Russian Churches. Rec'd—October 31, 2006. Est. Value—$525. Disposition—Pending transfer to General Services Administration | His Excellency Sergey Ivanov Minister of Defense for the Russian Federation | Non-acceptance would have caused embarrassment to donor and U.S. Government.
Condoleezza Rice, Secretary of State | Multi-colored orange and green print chiffon silk scarf with turquoise embroidery by Sanseverino Napoli, and black pebble leather draw string tote with white stitching and handles. Rec'd—October 23, 2006. Est. Value—$675. Disposition—Pending transfer to General Services Administration | His Excellency Clemente Mastella, Minister of Justice of the Italian Republic | Non-acceptance would have caused embarrassment to donor and U.S. Government.
Condoleezza Rice, Secretary of State | Two crystal vases, and two crystal candle stick holders. Rec'd—September 12, 2006. Est. Value—$370. Disposition—Pending transfer to General Services Administration | The Honorable Peter MacKay, P.C., M.P., Minister of Foreign Affairs of Canada | Non-acceptance would have caused embarrassment to donor and U.S. Government.
Condoleezza Rice, Secretary of State | Two silk scarves, silk with metallic threads, one carry silk bag, one zippered clutch, one piece of green silk, and one brooch. Rec'd—November 20, 2006. Est. Value—$320. Disposition—Pending transfer to General Services Administration | Mrs. Ani Bambang Yudhoyono, Spouse of the President of Indonesia | Non-acceptance would have caused embarrassment to donor and U.S. Government.
Condoleezza Rice, Secretary of State | 18k White gold and diamond earrings, necklace, ring and bracelet. Rec'd—October 2, 2006. Est. Value—$12,000. Disposition—Pending transfer to General Services Administration | Custodian of the Two Holy Mosques, Abdallah bin Abd al-Aziz Al Saud, King of the Kingdom of Saudi Arabia | Non-acceptance would have caused embarrassment to donor and U.S. Government.
Condoleezza Rice, Secretary of State | Pottery Vase. Rec'd—November 16, 2006. Est. Value—$385. Disposition—Pending transfer to General Services Administration | His Excellency Pham Gia Khiem, Deputy Prime Minister and Minister of Foreign Affairs of the Socialist Republic of Vietnam | Non-acceptance would have caused embarrassment to donor and U.S. Government.
Condoleezza Rice, Secretary of State | Afghan Rug. Rec'd—October 16, 2006. Est. Value—$800. Disposition—Pending transfer to General Services Administration | His Excellency Hamid Karzai, President of the Islamic Republic of Afghanistan | Non-acceptance would have caused embarrassment to donor and U.S. Government.
Condoleezza Rice, Secretary of State | Yellow plaque—water lilies and leaves, with presentation name. Rec'd—November 19, 2006. Est. Value—$450. Disposition—Pending transfer to General Services Administration | Mr. Le Hoang Quan, Chairman, Ho Chi Minh City People's Committee | Non-acceptance would have caused embarrassment to donor and U.S. Government.
Condoleezza Rice, Secretary of State | Two beaded lamp shades, two beaded/embroidered photo frames, two beaded/embroidered pillow cases, sterling jewelry set with earrings, ring, necklace—semi-precious stones, raw silk. Received—October 11, 2006. Est. Value—$550. Disposition—Pending transfer to General Services Administration | Mrs. Begum Sehba Musharraf, Wife of the President of Pakistan | Non-acceptance would have caused embarrassment to donor and U.S. Government.
Condoleezza Rice, Secretary of State | Rug: earth tones in burgundy bag. Rec'd—August 15, 2006. Est. Value—$1,100. Disposition—Pending transfer to General Services Administration | His Excellency Hamid Karzai, President of the Islamic Republic of Afghanistan | Non-acceptance would have caused embarrassment to donor and U.S. Government.
Technical Sergeant Heaton, Project and Contracting Office, Management Office Baghdad | 21K Gold bracelets with gems, 21 inch, 21 inch, 21K gold necklace, Mans gold ring, and 5 gold coins. Rec'd—August 2004. Reported—December 26, 2006. Est. Value—$2,675. Disposition—Transferred to General Services Administration | Employees of Rabban Al-Safina, Baghdad, Iraq | Non-acceptance would have caused embarrassment to donor and U.S. Government.
Philip D. Zelikow, Counselor of the Department of State | 3 x 5 ft Persian Rug/Wall hanging. Main colors: blue, pink, and yellow. Rec'd—October 10, 2006. Est. Value—$1,500. Disposition—Pending transfer to General Services Administration | His Excellency Jalal Talabani, President of the Republic of Iraq | Non-acceptance would have caused embarrassment to donor and U.S. Government.
Ambassador James Jeffries, Deputy Chief of Mission, Baghdad, Iraq | 22K gold and gems (pearls and precious gems) jewelry suite that includes necklace, bracelet, earrings and ring. Rec'd—December 26, 2006. Est. Value—$1,800. Disposition—Transferred to General Services Administration | Government Official of Baghdad, Iraq; Unknown | Non-acceptance would have caused embarrassment to donor and U.S. Government.
Elizabeth Cheney, Principal Deputy Assistant Secretary, Near Eastern Affairs | Set of tear drop topaz gemstone earrings by H. Stern. Rec'd—February 27, 2006. Est. Value—$350. Disposition—Transferred to General Services Administration | Amal Mudallali, Advisor, Government of Lebanon | Non-acceptance would have caused embarrassment to donor and U.S. Government.
Elizabeth Cheney, Principal Deputy Assistant Secretary, Near Eastern Affairs | Two Hermes silk scarves; ($450 each). Rec'd—January 24, 2006. Est. Value—$900. Disposition—Transferred to General Services Administration | Saad Hariri, Member of Parliament of the Republic of Lebanon | Non-acceptance would have caused embarrassment to donor and U.S. Government.
Robert B. Zoellick, Deputy Secretary of State | Agate horse with monkey on its back. Rec'd—January 2005. Reported—May 26, 2006. Est. Value—$550. Disposition—Transferred to General Services Administration | Xi Jinping, Secretary of the CPC (Communist Party of China) Zhejiang Provincial Committee | Non-acceptance would have caused embarrassment to donor and U.S. Government.
Elizabeth Dibble, Deputy Assistant Secretary | Ladies Cartier silver and gold watch. Rec'd—March 7, 2006. Est. Value—$2,100. Disposition—Transferred to General Services Administration | Saad Hariri, Member of the Lebanese Parliament | Non-acceptance would have caused embarrassment to donor and U.S. Government.
Ryan C. Crocker, Ambassador to Iraq, on behalf of U.S. Embassy Baghdad Official (Unknown) | Set of six 21K gold bracelets with rope design. Rec'd—2005 or Before. Reported—May 26, 2006. Est. Value—$1,578. Disposition—Transferred to General Services Administration | Government Official of Baghdad, Iraq; Unknown | Non-acceptance would have caused embarrassment to donor and U.S. Government.
Ryan C. Crocker, Ambassador to Iraq, on behalf of U.S. Embassy Baghdad Official (Unknown) | Jewelry Set: 21K gold and cubic zirconium, necklace, bracelet, earrings, and ring in wooden box—ribbon design. Rec'd—2005 or Before. Reported—May 26, 2006. Est. Value—$1,020. Disposition—Transferred to General Services Administration | Government Official of Baghdad, Iraq; Unknown | Non-acceptance would have caused embarrassment to donor and U.S. Government.
Ryan C. Crocker, Ambassador to Iraq, on behalf of U.S. Embassy Baghdad Official (Unknown) | Candino Swiss Watch—sapphire, gold band and gold face, in blue jewelry box. Rec'd—2005 or Before. Reported—May 26, 2006. Est. Value—$1,850. Disposition—Transferred to General Services Administration | Government Official of Baghdad, Iraq; Unknown | Non-acceptance would have caused embarrassment to donor and U.S. Government.
Christopher J. Amyes, Resident Agent-in-charge, Phoenix Resident Office | Two Men's Watches: 1—Men's Pippo moon watch encrusted with diamonds ($3,700) and 2—Men's Rolex Explorer—stainless steel ($3,300). Rec'd—September 21, 2006. Est. Value—$7,000. Disposition—Transferred to General Services Administration | Sheikh Tamin bin Hamad Al-Thani, Heir Apparent, Royal family of Qatar | Non-acceptance would have caused embarrassment to donor and U.S. Government.
Gamal Halal, Interpreter, United States Consult Jeddah | Tiffany & Co. sterling silver watch. Rec'd—October 2, 2006. Est. Value—$1,400. Disposition—Transferred to General Services Administration | Abdallah bin Abd al-Aziz Al Saud, Custodian of the Two Holy Mosques, King of the Kingdom of Saudi Arabia | Non-acceptance would have caused embarrassment to donor and U.S. Government.
Kathleen T. Kerr, Political Officer, GSO (General Services Officer) | Gio Monaco Watch. Rec'd—March 10, 2006. Est. Value—$22,000. Disposition—Transferred to General Services Administration | Abdallah bin Abd al-Aziz Al Saud, Custodian of the Two Holy Mosques, King of the Kingdom of Saudi Arabia | Non-acceptance would have caused embarrassment to donor and U.S. Government.
Sean McCormack, Assistant Secretary for Public Affairs and Spokesman | Tiffany & Co. sterling silver watch. Rec'd—October 2, 2006. Est. Value—$1,400. Disposition—Transferred to General Services Administration | Abdallah bin Abd al-Aziz Al Saud, Custodian of the Two Holy Mosques, King of the Kingdom of Saudi Arabia | Non-acceptance would have caused embarrassment to donor and U.S. Government.
David Welch, Assistant Secretary for Near Eastern Affairs | Tiffany & Co. Watch, 18k gold with black alligator band. Rec'd—October 2, 2006. Est. Value—$3,200. Disposition—Transferred to General Services Administration | Abdallah bin Abd al-Aziz Al Saud, Custodian of the Two Holy Mosques, King of the Kingdom of Saudi Arabia | Non-acceptance would have caused embarrassment to donor and U.S. Government.
Michael Gfoeller, Deputy Chief of Mission, Saudi Arabia | Bedat & Co. No. 8 Watch inside silver box with inscription. Rec'd—December 19, 2005. Reported—January 1, 2007. Est. Value—$525. Disposition—Pending transfer to General Services Administration | Abdallah bin Abd al-Aziz Al Saud, Custodian of the Two Holy Mosques, King of the Kingdom of Saudi Arabia | Non-acceptance would have caused embarrassment to donor and U.S. Government.
Mrs. Elinor LeBaron, Wife of the Ambassador to Mauritania | Necklace and Earring Set. Rec'd—August 10, 2006. Est. Value—$335. Disposition—Pending transfer to General Services Administration | Madame Marieme Fall Mint Koyeimel, Director General of Sapad, Mauritania | Non-acceptance would have caused embarrassment to donor and U.S. Government.
Chase Untermeyer, US Ambassador to Qatar | Epos Automatic Watch. Rec'd—May 14, 2005. Reported—May 31, 2007. Est. Value—$989. Disposition—Pending transfer to General Services Administration | Major General Hamad Al-Attiyah, Chief of Staff, Qatari Armed Forces | Non-acceptance would have caused embarrassment to donor and U.S. Government.
Chase Untermeyer, US Ambassador to Qatar | Paco Rabanne Gift Set including Watch, Wallet, Cufflinks, and a pen. Rec'd—2005. Reported—May 31, 2007. Est. Value—$385. Location—Official Use; On Permanent Display in the U.S. Consulate General Frankfurt Office Building | Major General Hamad Al-Attiyah, Chief of Staff, Qatari Armed Forces | Non-acceptance would have caused embarrassment to donor and U.S. Government.
Diana Untermeyer, Spouse of Ambassador Chase Untermeyer | Hermes leather horse saddle. Rec'd—October 21, 2005. Reported—2007. Est. Value—$4,300. Disposition—Transferred to General Services Administration | His Highness Sheikh Hamad Bin Khalifa Al-Thani, Amir of the State of Qatar | Non-acceptance would have caused embarrassment to donor and U.S. Government.
Elly Untermeyer, Daughter of Ambassador Chase Untermeyer | Hermes leather horse saddle. Rec'd—October 21, 2005. Reported—2007. Est. Value—$4,300. Disposition—Transferred to General Services Administration | His Highness Sheikh Hamad Bin Khalifa Al-Thani, Amir of the State of Qatar | Non-acceptance would have caused embarrassment to donor and U.S. Government.
Eric James Donelan, Special Agent, DS/FLD/NYFO/PL | Clerc Stainless Steel Silver Scuba Watch with Blue Face, Fluorescent dials, and sapphire crystal glass. Rec'd—September 21, 2006. Est. Value—$1,200. Disposition—Pending transfer to General Services Administration | His Excellency Nassir Abdulaziz, Ambassador to the United Nations of the Country of Qatar | Non-acceptance would have caused embarrassment to donor and U.S. Government.
James C. Oberwetter, US Ambassador to Saudi Arabia | Gio Monoco Watch. Rec'd—June 27, 2006. Est. Value—$1,200. Disposition—Pending transfer to General Services Administration | Abdallah bin Abd al-Aziz Al Saud, Custodian of the Two Holy Mosques, King of the Kingdom of Saudi Arabia | Non-acceptance would have caused embarrassment to donor and U.S. Government.
James C. Oberwetter, US Ambassador to Saudi Arabia | Tiffany & Co. Men's Sterling Silver Watch. Rec'd—October 3, 2006. Est. Value—$3,800. Disposition—Pending transfer to General Services Administration | Abdallah bin Abd al-Aziz Al Saud, Custodian of the Two Holy Mosques, King of the Kingdom of Saudi Arabia | Non-acceptance would have caused embarrassment to donor and U.S. Government.
James Oberwetter, U.S. Ambassador to Saudi Arabia | Vittorio Vercelli watch, wallet and key chain set. Rec'd—2004. Reported—2006. Est. Value—$450. Disposition—Transferred to General Services Administration | Government Official, Saudi Arabia, Unknown | Non-acceptance would have caused embarrassment to donor and U.S. Government.
James Oberwetter, U.S. Ambassador to Saudi Arabia | S.J. Dupon pen and lighter set. Rec'd—February 12, 2004. Reported—2006. Est. Value—$750. Disposition—Transferred to General Services Administration | His Royal Highness Abdallah bin Abd al-Aziz Al Saud, Crown Prince of the Kingdom of Saudi Arabia | Non-acceptance would have caused embarrassment to donor and U.S. Government.
Mrs. Anita Oberwetter, Wife of the U.S. Ambassador to Saudi Arabia | Perfume Set in White case with red velvet lining ($92); 18K Gold Earrings ($76); 21K gold jewelry set; ring, necklace, earrings ($232). Rec'd—November, 2006. Est. Value—$400. Disposition—Pending transfer to General Services Administration | The half sister of Abdallah bin Abd al-Aziz Al Saud, Custodian of the Two Holy Mosques, King of the Kingdom of Saudi Arabia | Non-acceptance would have caused embarrassment to donor and U.S. Government.
Ambassador Donald Burnham Ensenat, U.S. Chief of Protocol | Bank of Kuwait Gold Coin. Rec'd—September 12, 2003. Reported—2006. Est. Value—$1,020. Disposition—Pending transfer to General Services Administration | His Highness Shaykh Saad al-Abdullah al-Salim Al Sabah, Prime Minister of the State of Kuwait | Non-acceptance would have caused embarrassment to donor and U.S. Government.
Ambassador Donald Burnham Ensenat; U.S. Chief of Protocol | Brown Leather basket weave Western Saddle with separate Western small brass plaque, leather bridle, and orange and blue plaid horse blanket. Rec'd—April 2006. Est. Value—$1,000. Disposition—Returned to Donor; Embassy of the Islamic Republic of Pakistan | His Excellency Shaukat Aziz; Prime Minister of the Islamic Republic of Pakistan | Non-acceptance would have caused embarrassment to donor and U.S. Government.
Ambassador Donald Ensenat, Chief of Protocol | Set of 6 gold coins from the Central Bank of Kuwait. Rec'd—July 7, 2005. Reported—2006. Est. Value—$500. Disposition—Transferred to General Services Administration | His Excellency Sabah Al-Ahmad Al-Jaber Al-Saba, Prime Minister of the State of Kuwait | Non-acceptance would have caused embarrassment to donor and U.S. Government.
Mrs. Elaine Neumann, Wife of the U.S. Ambassador to Bahrain | Jewelry Set: yellow and white gold necklace, earrings and ring. Rec'd—June 2004. Reported—February 2007. Est. Value—$1,960. Disposition—Pending transfer to General Services Administration | Sheika Sabika Bint Ibrahim Al Khalifa, wife of the King of Bahrain | Non-acceptance would have caused embarrassment to donor and U.S. Government.
Jo Ellen Powell, Consul General, Germany | Framed Print by local German Artist Gerd Kehrer. Rec'd—October 19, 2006. Est. Value—$1,035. Location—Retained for Official Use at U.S. Consulate General Residence in Frankfurt, Germany | Werner Sigmund, Chief Executive Officer, International Bund; Germany | Non-acceptance would have caused embarrassment to donor and U.S. Government.
Abigail Friedman, Consul General Quebec City | Inuit Carving. Rec'd—December 20, 2006. Est. Value—$800. Location—Retained for Official Use at U.S. Consulate General Residence in Quebec City, Canada | Karen Fingas, Director, Community and Economic Development, Government of Nunavut | Non-acceptance would have caused embarrassment to donor and U.S. Government.
James Pardew, U.S. Ambassador to Bulgaria, on behalf of the Embassy, Sofia, Bulgaria | Icon: Glass and Ceramic Mosaic by Starvi Kalinov. Rec'd—December 14, 2004. Reported—2006. Est. Value—$450. Location—Official Use; Office of the Chief of Protocol | His Excellency Nikolay Svinarov, Minister of Defense of the Republic of Bulgaria | Non-acceptance would have caused embarrassment to donor and U.S. Government.
John Ordway, U.S. Ambassador to Kazakhstan | Crystal Bottle of Baiterek Cognac-Bottle in replica of Astana Tower—all inside wooden case. Rec'd—July 27, 2006. Est. Value—$450. Location—Official Use; On display in atrium at Embassy in Kazakhstan | His Excellency Akhetzhan Yesimov, Minister of Agriculture of the Republic of Kazakhstan | Non-acceptance would have caused embarrassment to donor and U.S. Government.
John Ordway, U.S. Ambassador to Kazakhstan | Chinese Coins—Collector Antique coins. Rec'd—February 21, 2006. Est. Value—$350. Disposition—Pending transfer to General Services Administration | His Excellency Zhang Ziyun, Chinese Ambassador to Kazakhstan | Non-acceptance would have caused embarrassment to donor and U.S. Government.
Todd Burkes, Assistant to RSD (Refugee Status Determination), Sofia | Watch, men's Candino, gold Swiss-made-Taurus sapphire model. Rec'd—May 2, 2006. Est. Value—$323. Disposition—Transferred to General Services Administration | RSD Staff (Refugee Status Determination), Republic of Bulgaria | Non-acceptance would have caused embarrassment to donor and U.S. Government.
Richard A. Boucher, Consul General, on behalf of the American Consulate in Hong Kong; Unknown | Gold and diamond tie pin. Rec'd—Prior July 2002. Reported—April 2006. Est. Value—$325. Disposition—Transferred to General Services Administration | Government Official, Hong Kong, the People's Republic of China; Unknown | Non-acceptance would have caused embarrassment to donor and U.S. Government.
Richard A. Boucher, Consul General, on behalf of the American Consulate in Hong Kong; Unknown | Blue Hermes Scarf. Rec'd—Prior July 2002. Reported—April 2006. Est. Value—$320. Disposition—Transferred to General Services Administration | Government Official, Hong Kong, the People's Republic of China; Unknown | Non-acceptance would have caused embarrassment to donor and U.S. Government.
Richard A. Boucher, Consul General of the American Consulate in Hong Kong | Baccarat Crystal Piece for 1997 turnover of Hong Kong to China. Rec'd—Prior July 2002. Reported—April 2006. Est. Value—$900. Disposition—Transferred to General Services Administration | Government Official, Hong Kong, the People's Republic of China; Unknown | Non-acceptance would have caused embarrassment to donor and U.S. Government.
Richard A. Boucher, Consul General of the American Consulate in Hong Kong | Mount Blanc Pen with Name engraved. Rec'd—Prior July 2002. Reported—April 2006. Est. Value—$305. Disposition—Transferred to General Services Administration | Government Official, Hong Kong, the People's Republic of China; Unknown | Non-acceptance would have caused embarrassment to donor and U.S. Government
George H. Atkinson, Science and Technology Adviser to the Secretary | Craft: Framed Picture. Rec'd—September 15, 2006. Est. Value—$900. Disposition—Pending transfer to General Services Administration | STS Forum (Solutions to Satisfaction—Logistics Forum), Hong Kong, the People's Republic of China | Non-acceptance would have caused embarrassment to donor and U.S. Government.
Gary Grappo, United States Ambassador to the Sultanate of Oman, on behalf of the U.S. Embassy in Muscat | Amber Glass Horse Head. Rec'd—May 2006. Est. Value—$2,361. Location—Official Use, DMR, Embassy Muscat | Sheikh Saud Bahwan, Tribal Sheikh, Sultanate of Oman | Non-acceptance would have caused embarrassment to donor and U.S. Government.
John Campbell, United States Ambassador to Nigeria | Book: “Flora de la Real Expedicion Botanica del Nuevo Reino de Grananda” by Jose Celestino. Rec'd—December, 2005. Reported—2007. Est. Value—$660. Disposition—Transferred to General Services Administration | Alfonso Manuel Portabales Vazquez, Ambassador, Embassy of Spain to Nigeria | Non-acceptance would have caused embarrassment to donor and U.S. Government.
Clark T. Randt, Jr., United States Ambassador to the People's Republic of China, on behalf of the U.S. Embassy Beijing | Crystal Obelisk on a wooden stand that is a replica of an antique Chinese decoration. Rec'd—July 13, 2006. Est. Value—$400. Location—Retained for Official Use, in display at Ambassador's Residence | Government Official from the Chinese Ministry of Defense; the People's Republic of China, Unknown | Non-acceptance would have caused embarrassment to donor and U.S. Government.
Clark T. Randt, Jr., United States Ambassador to the People's Republic of China, on behalf of the U.S. Embassy Beijing | Theo Fennel Sterling Silver Plate 3¾″ in diameter. Rec'd—December 5, 2006. Est. Value—$320. Location—Retained for Official Use, in display at Ambassador's Residence | Her Royal Highness Sarah Ferguson, Duchess of York | Non-acceptance would have caused embarrassment to donor and U.S. Government.
Meghan O'Sullivan, Special Assistant to the President and Senior Director | Silver ewer; 13¼″, silver punch and repousse decorated with figural motifs and scrolls, bird head, spout, 20th Century, 34 oz. Rec'd—2004 Reported—2006. Est. Value—$400. Disposition—Pending transfer to General Services Administration | His Excellency Adil Mahdi, Deputy Government Council Member/Deputy President of the Republic of Iraq | Non-acceptance would have caused embarrassment to donor and U.S. Government.
Meghan O'Sullivan, Special Assistant to the President and Senior Director | 22K gold and diamond suite of jewelry, Kurdish, including: necklace ($1,250), bracelet ($650), earrings ($375), and ring ($250). Rec'd—2004. Reported—2006. Est. Value—$2,525. Disposition—Pending transfer to General Services Administration | His Excellency Mazud Barzam Governing Council Member of the Republic of Iraq | Non-acceptance would have caused embarrassment to donor and U.S. Government.
Meghan O'Sullivan, Special Assistant to the President and Senior Director | Unframed Painting; oil on canvas laid down on masonite of two men dyeing fabric, by Baran Serwan (born 1968), Iraq, dated 2003, size 19¾″ x 27⅝″. Rec'd—December 2003. Reported—2006. Est. Value—$300. Disposition—Pending transfer to General Services Administration | His Excellency Ahmed Chalabi, Governing Council Member of the Republic of Iraq | Non-acceptance would have caused embarrassment to donor and U.S. Government.
Meghan O'Sullivan, Special Assistant to the President and Senior Director | Large wool rug, 6′ 4″ x 3′ 8″, red field with three lozenge medallions, blue astragals, four borders with ivory main, Kurdish, late 20th century. Rec'd—2004. Reported—2006. Est. Value—$350. Disposition—Pending transfer to General Services Administration | John Sawers, British Senior Representative to Coalition Provisional Authority of the United Kingdom | Non-acceptance would have caused embarrassment to donor and U.S. Government.
Meghan O'Sullivan, Special Assistant to the President and Senior Director | Rug with turquoise weave: 6′ 5″ x 4′, flat weave, ivory field with six latch hook medallions and overall polychrome bird and quadruped motifs, three borders with salmon main, Soumak, late 20th century. Rec'd—2004. Reported—2006. Est. Value—$600. Disposition—Pending transfer to General Services Administration | His Excellency Rowsch Shaways, Deputy Governing Council Member, Deputy President of the Republic of Iraq | Non-acceptance would have caused embarrassment to donor and U.S. Government.
Leo Bournes, Information Management Officer, on behalf of the U.S. Embassy Riyadh | Gold watch. Rec'd—2004 or Before. Reported—2006. Est. Value—$450. Disposition—Transferred to General Services Administration | Government Official on behalf of the Kingdom of Saudi Arabia, Unknown | Non-acceptance would have caused embarrassment to donor and U.S. Government.
Robert Jordan, former United States Ambassador to Saudi Arabia | Large brown briefcase by Pierre Cardin. Rec'd—November 2001. Reported—2006. Est. Value—$650. Disposition—Transferred to General Services Administration | Riyadh, Chamber of Commerce of the Kingdom of Saudi Arabia | Non-acceptance would have caused embarrassment to donor and U.S. Government.
Ralph Frank, United States Ambassador to Croatia | Seven pen and ink hand drawings: 1. Zlatko pen and ink drawing “Portrait of a Man and His Alter Ego”; 2. Tinted pen and ink drawing “Forrest” by Ivan Lackovic Croata; 3. Agua-tinta “Church of St. Mark in Zagreb” by Hamo Cavrk; 4. Agua-tinit “Zagreb Panorama” by Hamo Cavrk; 5. Pen and ink drawing “Tradition” by Vasilije Josip Jordan; 6. Pen and ink drawing “Couple in Ecstasy” by Dubravka Babic; 7. Pen and ink drawing “Portrait in Ecstasy” by Dubravka Babic. Rec'd—January 12, 2005. Reported—2007. Est. Value—$407. Disposition—Pending transfer to General Services Administration | His Excellency Bozo Biskupic, Minister of Culture of the Republic of Croatia | Non-acceptance would have caused embarrassment to donor and U.S. Government.
Ambassador Victoria Nuland, United States North Atlantic Treaty Organization | Computer: Fujitsu/Siemens Amilo Pro Model V3205 Notebook. Rec'd—December 13, 2006. Est. Value—$950. Location—Retained for Official Use at the office of Ambassador Nuland for the United States North Atlantic Treaty Organization | Conference on North Atlantic Treaty Organization and Gulf Countries, from Government of Kuwait | Non-acceptance would have caused embarrassment to donor and U.S. Government.
Lauren Moriarty, U.S. Senior Official for APEC, (Asia-Pacific Economic Cooperation) | Ladies 18K gold and APEC Security Lapel Pin. Rec'd—October 20, 2003 Reported—September 2007. Est. Value—$485. Disposition—Pending transfer to General Services Administration | His Excellency Thaksin Shinawatra, Prime Minister of the Kingdom of Thailand | Non-acceptance would have caused embarrassment to donor and U.S. Government.
M. Hanscomb Smith, Political Counselor, Embassy Kabul | Silk Mowri Afghan Carpet, 2 meters x 3 meters. Rec'd—July 16, 2005 Reported—August 2005. Est. Value—$450. Location—Official Use in Office Building at Kabul Embassy | Ibrahim Spinzada, Deputy NSA and Engineer, Government of Afghanistan | Non-acceptance would have caused embarrassment to donor and U.S. Government.
John Negroponte, U.S. Ambassador of Iraq | Silk Rug. Rec'd—March 2005 Reported—2005. Est. Value—$1,000. Location—Official Use at Embassy Baghdad in Executive Offices | His Excellency Ayed Allawi, Prime Minister of Iraq | Non-acceptance would have caused embarrassment to donor and U.S. Government.
Susan Unruh, Vice Consul General, U.S. Embassy Riyadh | Women's Swiss Watch, “Faconnable” collection with 39 diamonds. Rec'd—June 2006. Disposition—Pending Transfer to General Services Administration | His Royal Highness Abdallah bin Abd al-Aziz Al Saud, Crown Prince of the Kingdom of Saudi Arabia | Non-acceptance would have caused embarrassment to donor and U.S. Government.

AGENCY: Department of Treasury
[Report of tangible gifts]
Name and title of person accepting the gift on behalf of the U.S. Government | Gift, date of acceptance on behalf of the U.S. Government, estimated value, and current disposition or location | Identity of foreign donor and government | Circumstances justifying acceptance
Henry M. Paulson, Jr. Secretary of Treasury | Songyuan crafted white jade abacus. Rec'd—September 20, 2006. Est. Value—$359. Location—Treasury retained for Official Use on October 12, 2006 | Wu Yi Vice Premier of the State Council Govt. of People's Republic of China | Non-acceptance would have caused embarrassment to donor and U.S. Government.
Robert M. Kimmitt Deputy Secretary | Louis Cardini Leather Executive Business Case. Rec'd—November 18, 2006. Est. Value—$450. Location—Treasury retained for Official Use on November 28, 2006 | Government of Australia | Non-acceptance would have caused embarrassment to donor and U.S. Government.

AGENCY: Department of Defense
[Report of tangible gifts]
Name and title of person accepting the gift on behalf of the U.S. Government | Gift, date of acceptance on behalf of the U.S. Government, estimated value, and current disposition or location | Identity of foreign donor and government | Circumstances justifying acceptance
The Honorable Robert Gates, Secretary of Defense | Rug. Rec'd—December 29, 2006. Est. Value—$5,600. Disposition—Pending transfer to General Services Administration | His Excellency Hamid Karzai, President of the Islamic Republic of Afghanistan | Non-acceptance would cause embarrassment to donor and U.S. Government.
The Honorable Donald H. Rumsfeld, Secretary of Defense | Abstract painting in Plum & White, Decorative Plate by Rosenthal, Set of 4 Decorative Boxes, Wood Gift Box. Rec'd—January 4, 2006. Est. Value—$385. Disposition—Pending transfer to General Services Administration | Their Majesties King Abdullah ll bin Al Hussein and Queen Rania, of the Hashemite Kingdom of Jordan | Non-acceptance would cause embarrassment to donor and U.S. Government.
The Honorable Donald H. Rumsfeld, Secretary of Defense | Small Silver Tree, Country Plaque, Book-Image in Stone Tunisia Mosaic, Olive Oil. Rec'd—February 14, 2006. Est. Value—$345. Disposition—Pending transfer to General Services Administration | His Excellency, Abdelwaheb Abdallah, Minister of Foreign Affairs of the Republic of Tunisia | Non-acceptance would cause embarrassment to donor and U.S. Government.
The Honorable Donald H. Rumsfeld, Secretary of Defense | Saber, Case of Wine, 10 Boxes of Dates, Rug 11″ 8′ x 8″ 4′. Rec'd—February 14, 2006. Est. Value—$2,822. Disposition—Pending transfer to General Services Administration | His Excellency, Abdelaziz Bouteflika, President of the People's Democratic Republic of Algeria | Non-acceptance would cause embarrassment to donor and U.S. Government.
The Honorable Donald H. Rumsfeld, Secretary of Defense | Book on Horses, Gold Stirrup, Saddle and accessories, Plaque, Cuff links/Accessory kit. Rec'd—February 14, 2006. Est. Value—$1,330. Disposition—Pending transfer to General Services Administration | His Majesty, Mohamed VI, King of Morocco | Non-acceptance would cause embarrassment to donor and U.S. Government.
The Honorable Donald H. Rumsfeld, Secretary of Defense | Silver Bowl, Book—Marrakesh The Secret of its Courtyard. Rec'd—February 14, 2006. Est. Value—$305. Disposition—Pending transfer to General Services Administration | His Excellency, Driss Jettou, Prime Minister of Morocco | Non-acceptance would cause embarrassment to donor and U.S. Government.
The Honorable Donald H. Rumsfeld, Secretary of Defense | Gold Bracelet. Rec'd—March 7, 2006. Est. Value—$775. Disposition—Pending transfer to General Services Administration | Field Marshal Hussein Tantawi and Mrs. Wagida Rasem Tantawi, Minister of Defense of the Arab Republic of Egypt | Non-acceptance would cause embarrassment to donor and U.S. Government.
The Honorable Donald H. Rumsfeld, Secretary of Defense | Wood Chess Set, Assorted Treats in a Wood Box. Rec'd—April 26, 2006. Est. Value—$425. Disposition—Pending transfer to General Services Administration | His Excellency, Jalal Talabani, President of the Republic of Iraq | Non-acceptance would cause embarrassment to donor and U.S. Government.
The Honorable Donald H. Rumsfeld, Secretary of Defense | Polished Cotton Rug. Rec'd—May 15, 2006. Est. Value—$650. Disposition—Pending transfer to General Services Administration | His Excellency, Dr. Abdullah Abdullah, Minister of Foreign Affairs of the Islamic Republic of Afghanistan | Non-acceptance would cause embarrassment to donor and U.S. Government.
The Honorable Donald H. Rumsfeld, Secretary of Defense | Vase, Silk Fabric, Framed Artwork. Rec'd—June 8, 2006. Est. Value—$1,415. Disposition—Pending transfer to General Services Administration | General Pham Van TRA, Minister of National Defense of the Socialist Republic of Vietnam | Non-acceptance would cause embarrassment to donor and U.S. Government.
The Honorable Donald H. Rumsfeld, Secretary of Defense | Rug, Afghan Robe, Turban. Rec'd—July 14, 2006. Est. Value—$1,370. Disposition—Pending transfer to General Services Administration | Governor Dilbar Jan Arnan, Jabol Province, of the Islamic Republic of Afghanistan | Non-acceptance would cause embarrassment to donor and U.S. Government.
The Honorable Donald H. Rumsfeld, Secretary of Defense | Rug. Rec'd—July 14, 2006. Est. Value—$1,400. Disposition—Pending transfer to General Services Administration | His Excellency, Hamid Karzai, President of the Islamic Republic of Afghanistan | Non-acceptance would cause embarrassment to donor and U.S. Government.
The Honorable Donald H. Rumsfeld, Secretary of Defense | Framed Artwork. Rec'd—July 14, 2006. Est. Value—$400. Disposition—Pending transfer to General Services Administration | His Excellency, Emomali Rahmonov, President of the Republic of Tajikistan | Non-acceptance would cause embarrassment to donor and U.S. Government.
The Honorable Donald H. Rumsfeld, Secretary of Defense | Framed World Map. Rec'd—October 23, 2006. Est. Value—$350. Disposition—Pending transfer to General Services Administration | His Excellency, Jose Antonio Alonso, Minister of Defense of Spain | Non-acceptance would cause embarrassment to donor and U.S. Government.
The Honorable Donald H. Rumsfeld, Secretary of Defense | Scarf and Earrings, Gold and Wood Country Plaque, Silver and Wood Country Plaque, Marina Book with two CD's. Rec'd—October 30, 2006. Est. Value—$479. Disposition—Pending transfer to General Services Administration | Admiral Marco Antonio Peyrot, Secretary of the Navy of Mexico | Non-acceptance would cause embarrassment to donor and U.S. Government.
The Honorable Donald H. Rumsfeld, Secretary of Defense | Silver Vase, Silver Dish, Silver Plate. Rec'd—October 30, 2006. Est. Value—$490. Disposition—Pending transfer to General Services Administration | His Excellency, Vecdi Gonul, Minister of Defense of the Republic of Turkey | Non-acceptance would cause embarrassment to donor and U.S. Government.
The Honorable Donald H. Rumsfeld, Secretary of Defense | Blue Vase, Country Plaque, Rug. Rec'd—November 21, 2006. Est. Value—$490. Disposition—Pending transfer to General Services Administration | His Excellency, Abdul Rahim Wardak, Minister of National Defense of the Islamic Republic of Afghanistan | Non-acceptance would cause embarrassment to donor and U.S. Government.
The Honorable Donald H. Rumsfeld, Secretary of Defense | Blue and White Dish Set. Rec'd—November 20, 2006. Est. Value—$525. Disposition—Pending transfer to General Services Administration | General Gerardo Clemente Ricardo Vega Garcia, Secretary of National Defense of Mexico | Non-acceptance would cause embarrassment to donor and U.S. Government.
The Honorable Gordon England, Deputy Secretary of Defense | Cologne Set, Book—The Land of Incense. Rec'd—May 16, 2006. Est. Value—$605. Disposition—Pending transfer to General Services Administration | His Excellency, Yusuf bin Alawi bin Abdullah, Minister Responsible for Foreign Affairs of the Sultanate of Oman | Non-acceptance would cause embarrassment to donor and U.S. Government.
Admiral Edmund Giambastiani, Vice Chairman, Joint Chiefs of Staff | Gold Scarab Bracelet. Rec'd—March 8, 2006. Est. Value—$400. Disposition—Pending transfer to General Services Administration | Mrs. Waigida Tanawi, Spouse of the Minister of Defense of the Arab Republic of Egypt | Non-acceptance would cause embarrassment to donor and U.S. Government.
The Honorable Eric S. Edelman, Under Secretary of Defense (Policy) | Gold Arabian Oryx. Rec'd—November 2006. Est. Value—$365. Disposition—Pending transfer to General Services Administration | Prince Khalid bin Sultan bin Abdulaziz, Assistant MOD and Aviation for Military Affairs, Ministry of Defense and Aviation | Non-acceptance would cause embarrassment to donor and U.S. Government.
The Honorable Kenneth J. Krieg, Under Secretary of Defense for Acquisition, Technology & Logistics | Lion—Glass with gold inlay. Rec'd—April 20, 2006. Est. Value—$385. Disposition—Pending transfer to General Services Administration | Lieutenant General Gianni Botondi, Secretary General of Defense and National Armaments Director, Rome, Italy | Non-acceptance would cause embarrassment to donor and U.S. Government.
The Honorable Kenneth J. Krieg, Under Secretary of Defense for Acquisition, Technology & Logistics | Vase/urn with a separate wood base. Rec'd—July 31, 2006. Est. Value—$440. Disposition—Pending transfer to General Services Administration | VADM Wu, Wei-Rong, Director General, Armaments Bureau, Taiwan | Non-acceptance would cause embarrassment to donor and U.S. Government.
The Honorable Paul McHale, Assistant Secretary of Defense for Homeland Defense | Onyx chess set on onyx board, Miniature saber and sheath, housed in a wood and glass display case, Book and CD gift set: “Rostros de la Marina”, “Armada de Mexico” and Set of six CD's from the Mexican Naval Orchestra. Rec'd—November 20, 2006. Est. Value—$375. Disposition—Pending transfer to General Services Administration | Admiral Marco Antonio Peyrot Gonzalez, Secretary of the Navy of Mexico | Non-acceptance would cause embarrassment to donor and U.S. Government.
The Honorable Peter W. Rodman, Secretary of Defense International Security Affairs | Dagger in a Green Leather Case. Rec'd—February 12, 2006. Est. Value—$450. Disposition—Pending transfer to General Services Administration | Abdelaxi Bouteflika, President of The People's Democratic Republic of Algeria | Non-acceptance would cause embarrassment to donor and U.S. Government.
The Honorable Peter W. Rodman, Secretary of Defense International Security Affairs | Beige Carpet, L 95½ x W 76 x 45′. Rec'd—May 16, 2006. Est. Value—$900. Disposition—Pending transfer to General Services Administration | Defense Minister Heidi M'Henni | Non-acceptance would cause embarrassment to donor and U.S. Government.
The Honorable Peter W. Rodman, Secretary of Defense International Security Affairs | Beige Carpet 29 x 44 Portrait of Five Arabians on horses. Rec'd—May 18, 2006. Est. Value—$650. Disposition—Pending transfer to General Services Administration | Minister Del for National Abderrahmane Sbai | Non-acceptance would cause embarrassment to donor and U.S. Government.
The Honorable Peter W. Rodman, Secretary of Defense International Security Affairs | Large Gold Vase with Stand. Rec'd—May 24, 2006. Est. Value—$560. Disposition—Pending transfer to General Services Administration | Chief of General Staff, Taiwan | Non-acceptance would cause embarrassment to donor and U.S. Government.

AGENCY: Department of Justice
[Report of tangible gifts]
Name and title of person accepting the gift on behalf of the U.S. Government. | Gift, date of acceptance on behalf of the U.S. Government, estimated value, and current disposition or location | Identity of foreign donor and government | Circumstances justifying acceptance
Mr. Alberto Gonzales, Attorney General of the United States | Cartier watch with warranty and case. Rec'd—September 2006. Est. Value—$1,000—$1,500. Disposition—Pending transfer to General Services Administration | His Excellency Dr. Ali Bin Fetais Al-Marri, Attorney General of the State of Qatar | Non-acceptance would cause embarrassment to donor and U.S. Government.
Ms. Alice Fisher, Assistant Attorney General—Criminal Division of the United States | Cartier watch with warranty and case. Rec'd—November 2006. Est. Value—$1,000—$1,500. Disposition—Pending transfer to General Services Administration | His Excellency Dr. Ali Bin Fetais Al-Marri, Attorney General of the State of Qatar | Non-acceptance would cause embarrassment to donor and U.S. Government.
Mr. Bruce Swartz, Deputy Assistant Attorney General—Criminal Division of the United States | Cartier watch with warranty and case. Rec'd—December 2006. Est. Value—$1,000—$1,500. Disposition—Pending transfer to General Services Administration | His Excellency Dr. Ali Bin Fetais Al-Marri, Attorney General of the State of Qatar | Non-acceptance would cause embarrassment to donor and U.S. Government.
Mr. David Qarner, Office of International Affairs—Criminal Division of the United States | Cartier watch with warranty and case. Rec'd—December 2006. Est. Value—$1,000—$1,500. Disposition—Pending transfer to General Services Administration | His Excellency Dr. Ali Bin Fetais Al-Marri, Attorney General of the State of Qatar | Non-acceptance would cause embarrassment to donor and U.S. Government.
Mr. Mark Richard, Office of International Affairs—Criminal Division of the United States | Cartier watch with warranty and case. Rec'd—December 2006. Est. Value—$1,000—$1,500. Disposition—Pending transfer to General Services Administration | His Excellency Dr. Ali Bin Fetais Al-Marri, Attorney General of the State of Qatar | Non-acceptance would cause embarrassment to donor and U.S. Government.

AGENCY: Department of Agriculture
[Report of tangible gifts]
Name and title of person accepting the gift on behalf of the U.S. Government | Gift, date of acceptance on behalf of the U.S. Government, estimated value, and current disposition or location | Identity of foreign donor and government | Circumstances justifying acceptance
Dr. J. B. Penn, former U.S. Department of Agriculture Under Secretary for Farm and Foreign Agricultural Service, Note: Dr. Penn is now working for the John Deere Corporation | A man's robe; A three quarter length decorative form of attire and a hat to match; probably worn to ceremonial events in Kazakhstan. It is made of green velvet and it heavily decorated with gilt. Rec'd—July 24, 2006. Est. Value—$750. Disposition—Pending transfer to the General Services Administration Property Management Division | The Honorable, Akhmetzhan Yessimov, Minister of Agriculture for the Republic of Kazakhstan | Non-acceptance would cause embarrassment to donor and U.S. Government.
A. Ellen Terpstra, Deputy Under Secretary for Farm and Foreign Agricultural Service | Native Vest: A full length lined women's vest (without sleeves). It is a decorative form of attire in Kazakhstan; the vest is made of velvet with a gilt motif. Rec'd—July 24, 2006. Est. Value—$600. Disposition—Pending transfer to the General Services Administration Property Management Division | The Honorable, Akhmetzhan Yessimov, Minister of Agriculture for the Republic of Kazakhstan | Non-acceptance would cause embarrassment to donor and U.S. Government.

AGENCY: Department of Commerce
[Report of tangible gifts]
Name and title of person accepting the gift on behalf of the U.S. Government | Gift, date of acceptance on behalf of the U.S. Government, estimated value, and current disposition or location | Identity of foreign donor and government | Circumstances justifying acceptance
Carlos M. Gutierrez, Secretary of Commerce | Rug: A hand knotted Azerbaijan style rug, central diamond red design and decorated red and blue borders with fringe on the ends, 76″ x 49″. Rec'd—April 28, 2006. Est. Value—$450. Location—Official Use, Retained on display in Secretary Gutierrez's office | His Excellency Ilham Aliyev, President of the Republic of Azerbaijan | Non-acceptance would cause embarrassment to donor and U.S. Government.

AGENCY: Department of Energy
[Report of tangible gifts]
Name and title of person accepting the gift on behalf of the U.S. Government | Gift, date of acceptance on behalf of the U.S. Government, estimated value, and current disposition or location | Identity of foreign donor and government | Circumstances justifying acceptance
Samuel W. Bodman Secretary of Energy | Handmade gold vase from the Osmanti collection. Rec'd—February 9, 2006. Est. Value—$650. Disposition—currently held in Department of Energy gift vault for final appraisal paperwork, pending transfer to General Services Administration | His Excellency Hilmi Guler, Minister of Turkish Energy & Natural Resources of the Republic of Turkey | Non-acceptance would cause embarrassment to donor and U.S. Government.
Samuel W. Bodman Secretary of Energy | Locally made rug. Rec'd—April 28, 2006. Est. Value—$350. Disposition—currently held in Department of Energy gift vault for final appraisal paperwork, pending transfer to General Services Administration | His Excellency Ilham Aliyev, President of the Republic of Azerbaijan | Non-acceptance would cause embarrassment to donor and U.S. Government.

AGENCY: Office of the Director of National Intelligence
[Report of tangible gifts]
Name and title of person accepting the gift on behalf of the U.S. Government | Gift, date of acceptance on behalf of the U.S. Government, estimated value, and current disposition or location | Identity of foreign donor and government | Circumstances justifying acceptance
5 U.S.C. 7342(f)(4), as amended | Rug—34″ x 46½″, silk on silk, blue and polychrome medallion on red field with polychrome scrolling, blue astragals, four borders with rust main, Iran, 21st century. Rec'd—December 18, 2006. Est. Value—$1,350. Location—Approved for Official Display | 5 U.S.C. 7342(f)(4), as amended | Non-acceptance would have caused embarrassment to donor and U.S. Government.
5 U.S.C. 7342(f)(4) | 1. Chess Set—Chessmen, each side of different color, board of various inlaid and carved woods, 21⅛″ x 21″, exterior and interior of board inlaid, Iraq, 21st century. 2. Rug—38″ x 58″, silk on silk, central radiating polychrome design, four borders with multiple mihrabs main, Iran, 21st century. Rec'd—May 20, 2006. Est. Value—$2,050. Location—Approved for Official Display | 5 U.S.C. 7342(f)(4) | Non-acceptance would have caused embarrassment to donor and U.S. Government.
5 U.S.C. 7342(f)(4) | 1. Chess Set—Chessmen, each side of different color, board of various inlaid and carved woods, 21⅛″ x 21″, exterior and interior of board inlaid, Iraq, 21st century. 2. Rug—40″ x 58″, silk on silk, pink medallion on a navy blue field with allover floral scrolling, pink astragals, eight borders with dark blue main, Iran, probably Kirman, excellent knot count, 21st century Rec'd—May 20, 2006. Est. Value—$2,100. Location—Approved for Official Display | 5 U.S.C. 7342(f)(4) | Non-acceptance would have caused embarrassment to donor and U.S. Government.
5 U.S.C. 7342(f)(4) | Jewelry box—7⅞″ L, silver, chased decoration to lid, velvet lined, Egypt, 21st century, fitted case. Rec'd—February 6, 2006. Est. Value—$400. Location—Approved for Official Display | 5 U.S.C. 7342(f)(4) | Non-acceptance would have caused embarrassment to donor and U.S. Government.
5 U.S.C. 7342(f)(4) | 1. Coin—gold proof, 1000 lei, Romania 1998, 1ozT, boxed, 2. Medallion, brass tone metal and enamel, Romanian, 21st century. Rec'd—October 30, 2006. Est. Value—$790. Location—Approved for Official Display | 5 U.S.C. 7342(f)(4) | Non-acceptance would have caused embarrassment to donor and U.S. Government.
5 U.S.C. 7342(f)(4) | 1. Dagger (jambiya), 12 inches long, typical curved steel blade and conforming silver hilt and scabbard, reproduction, 20th/21st century, sterling silver w/fretwork in blue velvet presentation case, 2. Cloth—multicolored with fringe. Rec'd—November 10, 2005. Reported—2006. Est. Value—$500. Location—Approved for Official Display | 5 U.S.C. 7342(f)(4) | Non-acceptance would have caused embarrassment to the donor and U.S. Government.
5 U.S.C. 7342(f)(4) | 1. Chess Set—Chessmen, each side of different color, board of various inlaid and carved woods, 21⅛″ x 21″, exterior and interior of board inlaid, Iraq, 21st century. 2. Rug—38″ x 57″, silk on silk, central radiating polychrome design, four borders with multiple mihrabs main, Iran, 21st century. Rec'd—May 20, 2006. Est. Value—$2,050. Location—Approved for Official Display | 5 U.S.C. 7342(f)(4) | Non-acceptance would have caused embarrassment to the donor and U.S. Government.

AGENCY: United States Senate
[Report of tangible gifts]
Name and title of person accepting the gift on behalf of the U.S. Government | Gift, date of acceptance on behalf of the U.S. Government, estimated value, and current disposition or location | Identity of foreign donor and government | Circumstances justifying acceptance
Gabriel Bitol, Special Assistant to the Democratic Staff Director, Committee on Foreign Relations | Decorative boxes with painting. Rec'd—January 16, 2006. Est. Value—$400. Disposition—With the Secretary of the Senate | His Majesty King Abdullah ll bin Al Hussein, King of the Hashemite Kingdom of Jordan | Non-acceptance would cause donor embarrassment.
Hillary Clinton, U.S. Senator | Silver replica of a rickshaw. Rec'd—January 2006. Est. Value—$200. Disposition—With the Secretary of the Senate | Lutfozzaman Babar, State Minister of Home Affairs, People's Republic of Bangladesh | Non-acceptance would cause donor embarrassment.
Hillary Clinton, U.S. Senator | Silver Picture Frame. Rec'd—March 16, 2006. Est. Value—$200. Location—Displayed in SR-464A for Official Use | His Excellency Bertie Ahern, TD, Prime Minister of Ireland | Non-acceptance would cause donor embarrassment.
Russell Feingold, U.S. Senator | Two mouth-blown crystal wine glasses. Rec'd—February 20, 2006. Est. Value—$150. Disposition—With the Secretary of the Senate, Pending Transfer to the General Services Administration | His Excellency Thaksin Shinawatra, Prime Minister of the Kingdom of Thailand | Non-acceptance would cause donor embarrassment.
Russell Feingold, U.S. Senator | Iraqi chess set. Rec'd—November 27, 2006. Est. Value—$160. Disposition—With the Secretary of the Senate, Pending Transfer to the General Services Administration | His Excellency Jalal Talabani, President of the Republic of Iraq | Non-acceptance would cause donor embarrassment.
Dianne Feinstein, U.S. Senator | Book of Illustrations by Manmoud Farshcian. Rec'd—June 9, 2006. Est. Value—$600. Disposition—With the Secretary of the Senate, Pending Transfer to the General Services Administration | Ambassador Javad Zarif, Permanent of the Islamic Republic of Iran to the United Nations | Non-acceptance would cause donor embarrassment.
Bill Frist, U.S. Senator | Small handwoven Oriental Rug. Rec'd—September 26, 2006. Est. Value—$400. Disposition—With the Secretary of the Senate, Pending Transfer to the General Services Administration | His Excellency Hamid Karzai, President of the Islamic Republic of Afghanistan | Non-acceptance would cause donor embarrassment.
Bill Frist, U.S. Senator | Menorah, silver w/multi-colored decorative engravings. Rec'd—November 13, 2006. Est. Value—$300. Disposition—With the Secretary of the Senate, Pending Transfer to the General Services Administration | His Excellency Ehud Olmert, Prime Minister of the Government of Iraq | Non-acceptance would cause donor embarrassment.
Bill Frist, U.S. Senator | Blue Pelikan Fountain Pen w/gold trim with the Minister of Germany's signature. Rec'd—April 4, 2006. Est. Value—$181. Disposition—With the Secretary of the Senate, Pending Transfer to the General Services Administration | His Excellency Frank-Walter Steinmeier, Minister of Foreign Affairs of the Federal Republic of Germany | Non-acceptance would cause donor embarrassment.
Lindsey Graham, U.S. Senator | 3 x 5 Rug. Rec'd—October 3, 2006. Est. Value—Over $100. Location—Displayed in SR-293 for Official Use | Attorney General Abdul Jabar Sabit of the Islamic Republic of Afghanistan | Non-acceptance would cause donor embarrassment.
Lindsey Graham, U.S. Senator | 3 x 5 Rug. Rec'd—December 13, 2006. Est. Value—$300. Disposition—With the Secretary of the Senate, Pending Transfer to the General Services Administration | His Excellency Jalal Talabani, President of the Republic of Iraq | Non-acceptance would cause donor embarrassment.
Chuck Hagel, U.S. Senator | Vase. Rec'd—October 6, 2006. Est. Value—Over $100. Disposition—Displayed in SR-248 | National Assembly Chairman Nguyen Phu Trong | Non-acceptance would cause donor embarrassment.
Chuck Hagel, U.S. Senator | Hand embroidered picture in gold frame. Rec'd—October 4, 2006. Est. Value—Over $100. Disposition—Displayed in SR-249 for Official Use | Le Thanh Hai, Secretary of the Party Committee Ho Chi Minh City | Non-acceptance would cause donor embarrassment.
David Katz, Special Assistant Office of Senator Barack Obama | Hand-carved chess set & ornamental box. Rec'd—February 16, 2006. Est. Value—$150. Disposition—With the Secretary of the Senate, Pending Transfer to the General Services Administration | His Excellency Jalal Talabani, President of the Republic of Iraq | Non-acceptance would cause donor embarrassment.
John Kerry, U.S. Senator | 3 x 5 Carpet. Rec'd—January 16, 2006. Est. Value—$250. Disposition—With the Secretary of the Senate, Pending Transfer to the General Services Administration | His Excellency Pervez Musharraf, President of the Islamic Republic of Pakistan | Non-acceptance would cause donor embarrassment.
Carl Levin, U.S. Senator | Blue Lapis Lazuli Bowl. Rec'd—November 14, 2006. Est. Value—$480. Disposition—With the Secretary of the Senate, Pending Transfer to the General Services Administration | Defense Minister General Abdul Rahim Wardak, Government of the Islamic Republic of Afghanistan | Non-acceptance would cause donor embarrassment.
Carl Levin, U.S. Senator | Lapis Lazuli Box, blue w/gold inside. Rec'd—March 2006. Est. Value—$750. Disposition—With the Secretary of the Senate, Pending Transfer to the General Services Administration | His Excellency Hamid Karzai, President of the Islamic Republic of Afghanistan | Non-acceptance would cause donor embarrassment.
Carl Levin, U.S. Senator | Chess Set. Rec'd—October 2, 2006. Est. Value—$160. Disposition—With the Secretary of the Senate, Pending Transfer to the General Services Administration | His Excellency Jalal Talabani, President of the Republic of Iraq | Non-acceptance would cause donor embarrassment.
Richard Lugar, U.S. Senator | Small Ceramic Vase. Rec'd—December 12, 2006. Est. Value—Over $100. Disposition—With the Secretary of the Senate, Pending Transfer to the General Services Administration | Representative David Tawei and Lin Chin Lee of Taipei Economic and Cultural Representative office-Embassy of Taiwan | Non-acceptance would cause donor embarrassment.
Richard Lugar, U.S. Senator | Hand-carved wooden wall hanging of Kumul bird of paradise. Rec'd—October 10, 2006. Est. Value—Over $100. Disposition—With the Secretary of the Senate, Pending Transfer to the General Services Administration | Ambassador Evan Paki of Papua, New Guinea | Non-acceptance would cause donor embarrassment.
Richard Lugar, U.S. Senator | Hand-carved wooden wall hanging of Kumul bird of paradise. Rec'd—October 10, 2006. Est. Value—Over $100. Disposition—With the Secretary of the Senate, Pending Transfer to the General Services Administration | Ambassador Evan Paki of Papua, New Guinea | Non-acceptance would cause donor embarrassment.
Richard Lugar, U.S. Senator | Ceramic bird paperweight by Royal Crown Derby. Rec'd—July 10, 2006. Est. Value—$109.95. Disposition—With the Secretary of the Senate, Pending Transfer to the General Services Administration | Right Honorable Margaret Beckett, Foreign Secretary of the United Kingdom | Non-acceptance would cause donor embarrassment.
Richard Lugar, U.S. Senator | Large, reddish, Persian-type rug. Rec'd—May 3, 2006. Est. Value—Over $100. Disposition—With the Secretary of the Senate, Pending Transfer to the General Services Administration | His Excellency Ilham Aliyev, President of the Republic of Azerbaijan | Non-acceptance would cause donor embarrassment.
Richard Lugar, U.S. Senator | 6 x 5 Amethyst from Uruguay. Rec'd—May 2, 2006. Est. Value—Over $100. Disposition—With the Secretary of the Senate, Pending Transfer to the General Services Administration | His Excellency Tabare Vazquez, President of the Oriental Republic of Uruguay | Non-acceptance would cause donor embarrassment.
Keith Luse, Senior Professional Staff Member, Foreign Relations Committee | Hand-embroidered tablecloth and napkins. Rec'd—December 21, 2005. Reported—2006. Est. Value—$100. Disposition—With the Secretary of the Senate, Pending Transfer to the General Services Administration | Vu Tu Nguyen, Foreign Ministry Government of the Socialist Republic of Vietnam | Non-acceptance would cause donor embarrassment.
John McCain, U.S. Senator | Montenegrin Sentinel statue. Rec'd—August 29, 2006. Est. Value—$300. Disposition—Displayed in SR-241 for Official Use | The Honorable Milo Dukanovic, Prime Minister of the Republic of Montenegro | Non-acceptance would cause donor embarrassment.
John McCain, U.S. Senator | Antique Sword. Rec'd—August 26, 2006. Est. Value—Over $100. Disposition—Displayed in SR-241 for Official Use | His Excellency Mikhil Saakashvili, President of Georgia | Non-acceptance would cause donor embarrassment.
John McCain, U.S. Senator | Blue Carved Stone Box. Rec'd—December 5, 2006. Est. Value—$200. Disposition—Displayed in SR-241 for Official Use | General Abdul Rahim Wardak, Minister of Defense of the Islamic Republic of Afghanistan | Non-acceptance would cause donor embarrassment.
John McCain, U.S. Senator | Carved Stone Box w/ flowers on lid. Rec'd—December 15, 2006. Estimated Value—$200. Disposition—Displayed in SR-241 for Official Use | His Excellency Hamid Karzai, President of the Islamic Republic of Afghanistan | Non-acceptance would cause donor embarrassment.
John McCain, U.S. Senator | Persian Rug. Rec'd—December 15, 2006. Est. Value—$300 to $400. Disposition—Displayed in SR-241 for Official Use | His Excellency Hamid Karzai, President of the Islamic Republic of Afghanistan | Non-acceptance would cause donor embarrassment.
Mitch McConnell, U.S. Senator | Ceramic vase from Taihwa Pottery Company with wooden stand. Rec'd—December 11, 2006. Est. Value—$225 to $300. Disposition—Displayed in S-230 for Official Use | David Tawei Lee and Lin Chih Lee, Government of Taiwan | Non-acceptance would cause donor embarrassment.
Mark Pryor, U.S. Senator | Carved Wood Chess Set. Rec'd—October 3, 2006. Est. Value—$160. Disposition—With the Secretary of the Senate, Pending Transfer to the General Services Administration | His Excellency Jalal Talabani, President of the Republic of Iraq | Non-acceptance would cause donor embarrassment.
Jack Reed, U.S. Senator | Multi-colored area rug. Rec'd—January 7, 2006. Est. Value—$1,500. Disposition—Displayed in SH-728 for Official Use | His Excellency Ahmed Zia Masood, First Vice President of the Islamic Republic of Afghanistan | Non-acceptance would cause donor embarrassment.
Jack Reed, U.S. Senator | Uncut stone of lapis lazuli, in a velvet box. Rec'd—December 12, 2006. Est. Value—Unknown. Disposition—With the Secretary of the Senate, Pending Transfer to the General Services Administration | General Abdul Rahim Wardak, Minister of Defense of the Islamic Republic of Afghanistan | Non-acceptance would cause donor embarrassment.
Charles Schumer, U.S. Senator | Metal “cooking vessel” replica. Rec'd—March 22, 2006. Est. Value—$250. Disposition—With the Secretary of the Senate, Pending Transfer to the General Services Administration | Governor Zhou Xiaochuan, Peoples Bank of China | Non-acceptance would cause donor embarrassment.
Charles Schumer, U.S. Senator | Book of commemorative coins. Rec'd—March 23, 2006. Est. Value—$300. Disposition—With the Secretary of the Senate, Pending Transfer to the General Services Administration | His Excellency Bo Xi Lai, Minister of Commerce of the People's Republic of China | Non-acceptance would cause donor embarrassment.
Jeff Sessions, U.S. Senator | Chess Set w/ standard carved chess pieces. Rec'd—October 2, 2006. Est. Value—$160. Disposition—With the Secretary of the Senate, Pending Transfer to the General Services Administration | His Excellency Jalal Talabani, President of the Republic of Iraq | Non-acceptance would cause donor embarrassment.
Ted Stevens, U.S. Senator | Metal cup holder set with stone base, cups and stone carved grape cluster. Rec'd—August 27, 2006. Est. Value—$125. Disposition—With the Secretary of the Senate, Pending Transfer to the General Services Administration | His Excellency Sergey Borisovich Ivanov, Minister of Defense of the Russian Federation | Non-acceptance would cause donor embarrassment.
John Warner, U.S. Senator | Silver Tray. Rec'd—March 23, 2006. Est. Value—$100. Disposition—With the Secretary of the Senate, Pending Transfer to the General Services Administration | Secretary General of the National Security Council of Turkey | Non-acceptance would cause donor embarrassment.
John Warner, U.S. Senator | Decorative Blue Bowl. Est. Rec'd—November 14, 2006. Value—Over $100. Disposition—With the Secretary of the Senate, Pending Transfer to the General Services Administration | General Abdul Rahim Wardack, Minister of Defense of the Islamic Republic of Afghanistan | Non-acceptance would cause donor embarrassment.
John Warner, U.S. Senator | Blue Lapis Box. Rec'd—March 2006. Est. Value—$750. Disposition—With the Secretary of the Senate, Pending Transfer to the General Services Administration | His Excellency Hamid Karzai, President of the Islamic Republic of Afghanistan | Non-acceptance would cause donor embarrassment.
John Warner, U.S. Senator | Silver Decorative Container. Rec'd—March 9, 2006. Est. Value—$200. Disposition—With the Secretary of the Senate, Pending Transfer to the General Services Administration | His Excellency Mohammed Hussein Tantawy, Minister of Defense of the Arab Republic of Egypt | Non-acceptance would cause donor embarrassment.
John Warner, U.S. Senator | Wooden Chess Set. Rec'd—October 2, 2006. Est. Value—$160. Disposition—With the Secretary of the Senate, Pending Transfer to the General Services Administration | His Excellency Jalal Talabani, President of the Republic of Iraq | Non-acceptance would cause donor embarrassment.
Brandi White, Deputy Chief Counsel, Office of Senator Bill Frist | Metal box with Pakistani flag emblem on top, in green velvet case. Rec'd—January 24, 2006. Est. Value—Over $100. Disposition—With the Secretary of the Senate, Pending Transfer to the General Services Administration | His Excellency Shaukat Aziz, Prime Minister of the Islamic Republic of Pakistan | Non-acceptance would cause donor embarrassment.

AGENCY: United States Senate
[Report of Travel]
Name and title of person accepting the gift on behalf of the U.S. Government | Gift description | Identity of foreign donor and government | Circumstances justifying acceptance
MaiNhia Khang, Constituent/Policy Liaison, Office of Senator Norm Coleman | Food and lodging at Conference Center. Rec'd—December 2-9, 2006 | Government of Norway, Sweden, Finland | Official travel to discuss U.S.-Nordic relations.
Richard Lugar, U.S. Senator | Transportation within Georgia via helicopter to military installation to visit troops in training with President Saakashvilli and conventional weapons storage site to view weapons in need of elimination. Rec'd—August 22 and 23, 2006 | Government of Georgia | Official travel to view military installations. No commercial transportation was available.
Elizabeth McDonnell, Legislative Assistant Office of Senator Gordon H. Smith | Transportation within Thailand, including lodging and meals rec'd—January 5-11, 2006 | Government of the Kingdom of Thailand | Fact-finding travel to view tsunami recovery, meet w/ U.S. and Thai trade negotiators, and discuss current geopolitical issues.
Kenneth Myers III, Sr. Professional Staff Member Committee on Foreign Relations | Transportation within Georgia via helicopter to military installation to visit troops in training with President Saakashvilli and conventional weapons storage site to view weapons in need of elimination. Rec'd—August 22 and 23, 2006 | Government of Georgia | Official travel to view military installations. No commercial transportation was available.
Kenneth Myers, Jr., Chief of Staff Committee on Foreign Relations | Transportation within Georgia via helicopter to military installation to visit troops in training with President Saakashvilli and conventional weapons storage site to view weapons in need of elimination.Rec'd—August 22 and 23, 2006 | Government of Georgia | Official travel to view military installations. No commercial transportation was available.
Clarine Nardi Riddle, Chief of Staff, Office of Senator Joseph I. Lieberman | Transportation within Thailand via commercial air service, rental cars, fuel, tolls, lodging, and meals. Rec'd—January 5-11, 2006 | Ministry of Foreign Affairs of the Kingdom of Thailand | Official travel to view devastation of tsunami and observance of the US-Thai Free Trade Agreement negotiations and cultural exchange.

AGENCY: U.S. House of Representatives
[Report of tangible gifts]
Name and title of person accepting the gift on behalf of the U.S. Government | Gift, date of acceptance on behalf of the U.S. Government, estimated value, and current disposition or location | Identity of foreign donor and government | Circumstances justifying acceptance
J. Dennis Hastert Member of Congress | Afghan handmade wool rug approximately 4 x 6 flower pattern red and beige. Rec'd—September 26, 2006. Est. Value—$500. Disposition—Pending Transfer to General Services Administration | His Excellency Hamid Karzai, President of the Islamic Republic of Afghanistan | Non-acceptance would cause embarrassment to donor and U.S. Government.
J. Dennis Hastert Member of Congress | Peter Gorring marquetry wooden box. Rec'd—July 2005. Reported—2007.Est. Value—$400. Disposition—Pending Transfer to General Services Administration | The Honorable John Howard, M.P., Prime Minister of Australia | Non-acceptance would cause embarrassment to donor and U.S. Government.
J. Dennis Hastert Member of Congress | Bronze Sculpture of fox, 8″ tall, unsigned. Rec'd—September 18, 2005. Reported—2007. Est. Value—$325. Location—Approved for Official Use and on display in H-153 of the Capitol | Lucien Weiler, President of Parliament Luxembourg | Non-acceptance would cause embarrassment to donor and U.S. Government.
J. Dennis Hastert Member of Congress | Royal De Champagne Crystal Lion. Rec'd—December 15, 2004. Reported—2007. Est. Value—$675. Location—Approved for Official Use and on display in the Speaker's Office, Room H 232 of The U. S. Capitol | Lucien Weiler, President of Parliament Luxembourg | Non-acceptance would cause embarrassment to donor and U.S. Government.
J. Dennis Hastert Member of Congress | Painting, oil on canvas, circa 2000 20 x 90 cm signed Ja Koubemb, Kerastian “N.Berys” (mountain scene). Rec'd—September 24, 2002. Reported—2007. Est. Value—$300. Disposition—Pending Transfer to General Services Administration | His Excellency Askar Akaev, President of Kyrgyzstan | Non-acceptance would cause embarrassment to donor and U.S. Government.
J. Dennis Hastert Member of Congress | Egyptian all silk rug, approximately 2 x 4; handmade fine “bird on branch” pattern silk fringe. Rec'd—June 27, 2002. Reported—2007.Est. Value—$450. Disposition—Approved for Official Use and on display in the Speaker's Office, Room H 232 of The U. S. Capitol | Hussein Tantawy, Commander in Chief of the Armed Forces Egypt | Non-acceptance would cause embarrassment to donor and U.S. Government.
J. Dennis Hastert Member of Congress | Clock: Russian lacquer hanging wall clock. Rec'd—May 6, 2002. Reported—2007. Est. Value—$450. Disposition—Pending Transfer to General Services Administration | Gennady N. Seleznev, Chairman of the State Duma Russia | Non-acceptance would cause embarrassment to donor and U.S. Government.
J. Dennis Hastert Member of Congress | 12 Silver coins in wooden box, pure silver, 1 oz each. Rec'd—March 2002. Reported—2007. Est. Value—$350. Disposition—Pending Transfer to General Services Administration | His Excellency Islam A. Karimov, President of the Republic of Uzbekistan | Non-acceptance would cause embarrassment to donor and U.S. Government.
J. Dennis Hastert Member of Congress | Afghani handmade all wool rug, new, long all wool natural fringe; Tribal pattern with reds and dark blue; approximately 4 x 6. Rec'd—February 10, 2002. Reported—2007. Est. Value—$900. Disposition—Pending Transfer to General Services Administration | His Excellency Hamid Karzai, Chairman of the Transitional Administration of Afghanistan | Non-acceptance would cause embarrassment to donor and U.S. Government.
J. Dennis Hastert Member of Congress | Sheathed dagger, with precious metals and gems. Rec'd—June 21, 2000. Reported—2007. Est. Value—$10,000. Disposition—Pending Transfer to General Services Administration | His Majesty Mohammed VI, King of Morocco | Non-acceptance would cause embarrassment to donor and U.S. Government.
J. Dennis Hastert Member of Congress | Silver lamp, 19″ open work electrified oil lamp with open work shade. Rec'd—January 5, 2000. Reported—2007. Est. Value—$300. Disposition—Pending Transfer to General Services Administration | Field Marshall Mohamed H. Tantawi of Egypt | Non-acceptance would cause embarrassment to donor and U.S. Government.
J. Dennis Hastert, Member of Congress | Female bronze head of the Benin people, height approx. 19″. Rec'd—October 29, 1999. Reported—2007. Est. Value—$300. Disposition—Pending Transfer to General Services Administration | His Excellency Olesegun Lbasario, President of the Federal Republic of Nigeria | Non-acceptance would cause embarrassment to donor and U.S. Government.
J. Dennis Hastert, Member of Congress | USAK Turkish wool rug. Rec'd—September 29, 1999. Reported—2007. Est. Value—$300. Location—Approved for Official Use and on display in the Speaker's Office, Room H 232 of The U.S. Capitol | His Excellency Bulent Ecevit, Prime Minister of the Republic of Turkey | Non-acceptance would cause embarrassment to donor and U.S. Government.
J. Dennis Hastert, Member of Congress | 4 Sterling Silver Napkin Rings. Rec'd—March 1999. Reported—2007. Est. Value—$450. Disposition—Pending Transfer to General Services Administration | His Excellency Bertie Ahern, TD, Prime Minister of Ireland | Non-acceptance would cause embarrassment to donor and U.S. Government

AGENCY: United States House of Representatives
[Report of travel]
Name and title of person accepting the gift on behalf of the U.S. Government | Gift description | Identity of foreign donor and government | Circumstances justifying acceptance
Peter Hoekstra, Member of Congress | Air travel: Canberra-Alice Springs; Alice Springs-Sydney. Rec'd—February 22, 2006 through February 23, 2006 | Government of Australia | Authorized by 5 U.S.C. 7342(c)(1)(B)(ii).
Mark Steven Kirk, Member of Congress | Ground transportation: Beijing; Gansu; Shanghai. Air travel: Beijing-Lanzhou; Lanzhou-Jiayuguan (round trip); Lanzhou-Shanghai. Rec'd—January 9, 2006 through January 15, 2006 | People's Republic of China | Authorized by 5 U.S.C. 7342(c)(1)(B)(ii).
Rick Larsen, Member of Congress | Ground transportation: Beijing; Gansu; Shanghai. Air travel: Beijing-Lanzhou; Lanzhou-Jiayuguan (round trip); Lanzhou-Shanghai. Rec'd—January 9, 2006 through January 15, 2006 | People's Republic of China | Authorized by 5 U.S.C. 7342(c)(1)(B)(ii).
Tom Feeney, Member of Congress | Ground transportation: Beijing; Gansu; Shanghai. Air travel: Beijing-Lanzhou; Lanzhou-Jiayuguan (round trip); Lanzhou-Shanghai. Rec'd—January 9, 2006 through January 15, 2006 | People's Republic of China | Authorized by 5 U.S.C. 7342(c)(1)(B)(ii).
Jan Schakowsky, Member of Congress | $60 reimbursement for travel expenses. Rec'd—November 30, 2006 | United Nations | Authorized by 5 U.S.C. 7342(c)(1)(B)(ii).
Christopher Donesa, Deputy Staff Director and Chief Counsel, Permanent Select Committee on Intelligence | Air travel: Canberra-Alice Springs; Alice Springs-Sydney. Rec'd—February 22, 2006 through February 23, 2006 | Government of Australia | Authorized by 5 U.S.C. 7342(c)(1)(B)(ii).
Michael Paul Ennis, Professional Staff, House Permanent Committee on Intelligence | Air travel: Canberra-Alice Springs; Alice Springs-Sydney. Rec'd—February 22, 2006 through February 23, 2006 | Government of Australia | Authorized by 5 U.S.C. 7342(c)(1)(B)(ii).
Richard Alister Goldberg, Legislative Assistant/Communications Advisor, Office of Representative Mark Steven Kirk | Ground transportation: Beijing; Gansu; Shanghai. Air travel: Beijing-Lanzhou; Lanzhou-Jiayuguan (round trip); Lanzhou-Shanghai. Rec'd—January 9, 2006 through January 15, 2006 | People's Republic of China | Authorized by 5 U.S.C. 7342(c)(1)(B)(ii).
Kevin D. Kim, Office of Representative Gary Ackerman | Group bus tours and transportation in and around Seoul, Korea (incl. trip to DMZ, Cheongn, etc.); lodging for 6 nights @ Hilton Hotel in Seoul; meals from 9/25/06—dinner through 10/01/06 breakfast; group trip to see “Nan-ta” the play; group trip to see Karaoke and bar (one time each). Rec'd—September 24, 2006 through October 2, 2006 | Republic of Korea | Authorized by 5 U.S.C. 7342(c)(1)(B)(ii).
Dennis King, Chief of Staff, Representative Lane Evans | 6 nights lodging, approximately 10 meals, and local ground transportation within Seoul and vicinity. Rec'd—January 22 through January 28, 2006 | Republic of Korea | Authorized by 5 U.S.C. 7342(c)(1)(B)(ii).
Lane Evans, Member of Congress | 6 nights lodging, approximately 10 meals, and local ground transportation within Seoul and vicinity. Rec'd—January 22 through January 28, 2006 | Republic of Korea | Authorized by 5 U.S.C. 7342(c)(1)(B)(ii).
Luis Jimenez, Legislative Assistant, Representative Rahm Emanuel | Meals, lodging, airport tax and hotel tax. Rec'd—January 4, 2006—January 12, 2006 | Government of Thailand | Authorized by 5 U.S.C. 7342(c)(1)(B)(ii).
Stephanie Lester, Professional Staff, House Ways and Means Trade Subcommittee | In-country transportation, lodging, meals and incidentals. Rec'd—January 4 through January 12, 2006 | Government of Thailand | Authorized by 5 U.S.C. 7342(c)(1)(B)(ii).
Daniel MacLean, Legislative Assistant, Representative Wally Herger | In-country travel, lodging, meals and other expenses. Rec'd—January 4 through January 12, 2006 | Government of Thailand | Authorized by 5 U.S.C. 7342(c)(1)(B)(ii).
Scott Palmer, Chief of Staff for Speaker Dennis Hastert | Accommodations for G-8 Summit. Rec'd—September 15 through September 17, 2006 | Russian Federation | Authorized by 5 U.S.C. 7342(c)(1)(B)(ii).
J. Dennis Hastert, Member of Congress | Accommodations for G-8 Summit. Rec'd—September 15 through September 17, 2006 | Russian Federation | Authorized by 5 U.S.C. 7342(c)(1)(B)(ii).
Jamal D. Ware, Communications Director, Permanent Select Intelligence Committee | Air travel: Canberra-Alice Springs; Alice Springs-Sydney. Rec'd—February 22, 2006 through February 23, 2006 | Government of Australia | Authorized by 5 U.S.C. 7342(c)(1)(B)(ii).
Mary Elizabeth Woodworth, Assistant Parliamentarian | 3 nights lodging in Sydney, Australia; 9 nights of lodging in Canberra, Australia; sunset cruise of Sydney Harbor; food and beverages at a number of official social functions; two-way travel between the hotel and the Australian Parliament House for our educational sessions each day; two-way travel between the city of Canberra and the city of Sydney during our three-day study trip to Sydney; transportation between hotel in Sydney and the New South Wales Parliament House in downtown Sydney. Rec'd—November 19, 2006 through December 1, 2006 | Government of Australia | Authorized by 5 U.S.C. 7342(c)(1)(B)(ii).

AGENCY: Department of the Army
[Report of tangible gifts]
Name and title of person accepting the gift on behalf of the U.S. Government | Gift, date of acceptance on behalf of the U.S. Government, estimated value, and current disposition or location | Identity of foreign donor and government | Circumstances justifying acceptance
Thurman, Major General of the U.S. Army | SKS Rifle. Rec'd—July 14, 2006. Est. Value—$120. Location—Retained at the organization for Official Use | Abdul Qadir, Lieutenant General and Commander of the Army of the Republic of Iraq | Non-acceptance would have caused embarrassment to donor and U.S. Government.
Martin E. Dempsey, Lieutenant General of the U.S. Army | Persian Silk Rug. Rec'd—May 25, 2006. Est. Value—$5,000. Disposition—Transferred to General Services Administration | Nechirvan Barzani, Prime Minister of the Kurdistan Regional Government | Non-acceptance would have caused embarrassment to donor and U.S. Government.
Joseph F. Peterson, Major General of the U.S. Army | Persian Silk Rug. Rec'd—May 25, 2006. Est. Value—$5,000. Disposition—Transferred to General Services Administration | Nechirvan Barzani, Prime Minister of the Kurdistan Regional Government | Non-acceptance would have caused embarrassment to donor and U.S. Government.
James M. Dubik, Lieutenant General of the U.S. Army | Japanese Print. Rec'd—March 28, 2006. Est. Value—$1,000. Location—Retained at the organization for Official Use | General of the Army of Japan | Non-acceptance would have caused embarrassment to donor and U.S. Government.
John Adams, Brigadier General of the U.S. Army | M1A1 Thompson .45 Caliber Submachine Gun. Rec'd—March 2, 2006. Est. Value—$720. Location—Retained at the organization for Official Use | Mr. Josip Lucic, Chief of Staff of the Air Force of the Republic of Croatia | Non-acceptance would have caused embarrassment to donor and U.S. Government.
Peter J. Schoomaker, General of the U.S. Army | Bukara Style Rug. Rec'd—January 26, 2006. Est. Value—1,200. Location—Retained at the organization for Official Use | Chief of Staff, of the National Army of the Islamic Republic of Afghanistan | Non-acceptance would have caused embarrassment to donor and U.S. Government.
John Vines, Lieutenant General of the U.S. Army | Dragunov Sniper Rifle. Rec'd—January 17, 2006. Est. Value—$5,000. Location—Retained at the organization for Official Use | Abdul Qadir, Lieutenant General and Commander of the Army of the Republic of Iraq | Non-acceptance would have caused embarrassment to donor and U.S. Government.
Burwell B. Bell III, General of the U.S. Army | Silver Platter. Rec'd—January 6, 2006. Est. Value—$695. Location—Retained at the organization for Official Use | Gerhard Back, General of the Allied Joint Force Command, Northwood | Non-acceptance would have caused embarrassment to donor and U.S. Government.
Tginas R. Turner, Major General of the U.S. Army | 2 Silk Rugs and 1 Necklace. Rec'd—January 31, 2006. Est. Value—$4,420. Location—Retained at the organization for Official Use | Division Commander of the 4th Iraqi Army | Non-acceptance would have caused embarrassment to donor and U.S. Government.
Elizabeth Johnson, Captain of the U.S. Army | Silk & Cotton Rug. Rec'd—January 3, 2006. Est. Value—$1,500. Disposition—Transferred to General Services Administration | Mr. Nanaw Sherwan, Deputy Commander for the People's Union of Kurdistan | Non-acceptance would have caused embarrassment to donor and U.S. Government.
David Rodriguez, Major General of the U.S. Army | Silk rug. Rec'd—January 3, 2006. Est. Value—$1,500. Disposition—Transferred to General Services Administration | Mr. Nanaw Sherwan, Deputy Commander for the People's Union of Kurdistan | Non-acceptance would have caused embarrassment to donor and U.S. Government.
David Rodriguez, Major General of the U.S. Army | Silk & Cotton Rug. Rec'd—January 3, 2006. Est. Value—$2,000. Disposition—Transferred to General Services Administration | Mr. Nanaw Sherwan, Deputy Commander for the People's Union of Kurdistan | Non-acceptance would have caused embarrassment to donor and U.S. Government.
Elizabeth Johnson, Captain of the U.S. Army | 21K Necklace, Ring & Earring Set. Rec'd—January 3, 2006. Est. Value—$2,067.30. Disposition—Transferred to General Services Administration | Mr. Nanaw Sherwan, Deputy Commander for the People's Union of Kurdistan | Non-acceptance would have caused embarrassment to donor and U.S. Government.
Kevin J. Bergner, Brigadier General of the U.S. Army | Silk & Cotton Rug. Rec'd—December 27, 2005. Est. Value—$750. Disposition—Transferred to General Services Administration | Mr. Nanaw Sherwan, Deputy Commander for the People's Union of Kurdistan | Non-acceptance would have caused embarrassment to donor and U.S. Government.

AGENCY: Department of the Navy
[Report of tangible gifts]
Name and title of person accepting the gift on behalf of the U.S. Government | Gift, date of acceptance on behalf of the U.S. Government, estimated value, and current disposition or location | Identity of foreign donor and government | Circumstances justifying acceptance
Admiral M.G. Mullen, Chief Naval Officer | 4x6 Pakistani Rug. Rec'd—January 24, 2006. Est. Value—$100. Location—Being retained for Official Use at Chief Naval Officer's Office (DNS35) | Admiral M. Afzal Tahir, Chief of Staff of the Navy of the Islamic Republic of Pakistan | Non-acceptance would have caused embarrassment to donor and U.S. Government.
Captain Thomas Parker, USS KITTY HAWK (CV 63) | Man's Watch. Rec'd—November 11, 2004. Reported—2007. Est. Value—$446. Disposition—Transferred to General Services Administration | Mr. Ozawa, Local Dignitary of Japan | Non-acceptance would have caused embarrassment to donor and U.S. Government.
Captain Thomas Parker, USS KITTY HAWK (CV 63) | Woman's watch. Rec'd—November 11, 2004. Reported—2007. Est. Value—$446. Disposition—Transferred to General Services Administration | Mr. Ozawa, Local Dignitary of Japan | Non-acceptance would have caused embarrassment to donor and U.S. Government.
Mrs. Mary Ulrich, spouse of Admiral. H.G. Ulrich III, Commander U.S. Naval Forces Europe | Gold Bracelet. Rec'd—May 14, 2006. Est. Value—$1,360. Location—Being retained by COMNAVEUR for Official Use | Mrs. Maria Chinofoti, Spouse of Chief of the Hellenic Republic National Defense, General Staff, Admiral Panagiotis Chinofotis, (Greece) | Non-acceptance would have caused embarrassment to donor and U.S. Government.
Mrs. Mary Ulrich, spouse of Admiral H.G. Ulrich III, Commander U.S. Naval Forces Europe | Gold Brooch. Rec'd—May 14, 2006. Est. Value—$1,464. Location—Being retained by COMNAVEUR for Official Use | Mrs. Maria Chinofoti, spouse of the Chief of the Hellenic Republic National Defense General Staff, Admiral Panagiotis Chinofotis, (Greece) | Non-acceptance would have caused embarrassment to donor and U.S. Government.
Admiral H.G. Ulrich III, Commander U.S. Naval Forces Europe | Silver and Gold Fountain Pen. Rec'd—July 25, 2006. Est. Value—$850. Location—Being retained by COMNAVEUR for Official Use | Mr. Alessandro De Francis, Prefect of Caseerta Province, Italian Republic | Non-acceptance would have caused embarrassment to donor and U.S. Government.
Admiral H.G. Ulrich III Commander U.S. Naval Forces Europe | Hungarian Sword and Porcelain Dish. Rec'd—November 3, 2005. Reported—2007. Est. Value—$715. Location—Being retained by COMNAVEUR for Official Use | General Andras Havril, Chief of Defense of the Republic of Hungary | Non-acceptance would have caused embarrassment to donor and U.S. Government.
Richard Greco, Assistant Secretary of the Navy (Financial Management and Comptroller) | Six (6) Italian silk neckties handmade by E. Marinella, Naples, Italy. Rec'd—April 10, 2006. Est. Value—$870. Disposition—Transferred to General Services Administration | His Excellency Silvio Berlusconi, Prime Minister of the Italian Republic | Non-acceptance would cause embarrassment to donor and U.S. Government.

AGENCY: Department of the Navy
[Report of travel]
Name and title of person accepting the gift on behalf of the U.S. Government | Gift description | Identity of foreign donor and government | Circumstances justifying acceptance
Admiral and Mrs. H.G. Ulrich III, Commander U.S. Naval Forces Europe and four accompanying staff members | Expended for hotel and meals. Rec'd—May 12-15, 2006 | Admiral Panagiotis Chinofotis, Chief of the Hellenic Republic National Defense, General Staff, (Greece) | Official Trip
Captain David Grogan, Staff Judge Advocate of the Naval Network Warfare Command | Expended for hotel, meals and Conference Fee. Rec'd—November 18-22, 2006 | Mark Cunliffe, Head Defense Legal, and Air Commodore S.J. Harvey, Director General of the Defense Force Legal Services of Australia | Official Trip

AGENCY: Department of the Air Force
[Report of tangible gifts]
Name and title of person accepting the gift on behalf of the U.S. Government | Gift, date of acceptance on behalf of the U.S. Government, estimated value, and current disposition or location | Identity of foreign donor and government | Circumstances justifying acceptance
John Jumper, General (Retired) Former Air Force Chief of Staff | Longines Men's Watch, stainless steel, MDL L5-665-4-16-6. Rec'd—Unknown; Approximate Date 2005. Reported—August 10, 2007. Est. Value—$750. Disposition—Transferred to General Services Administration | Lieutenant General Staff, Abdul Rahman Bin Fakad Al-Faisal, Commander of the Air Force of the Kingdom of Saudi Arabia | Non-acceptance would have caused embarrassment to donor and U.S. Government.
John Jumper, General (Retired) Former Air Force Chief of Staff | Raymond Weil Men's Wrist Watch, stainless steel, Serial Number BE78626. Rec'd—February 27, 2005. Reported—August 10, 2007. Est. Value—$240. Disposition—Transferred to General Services Administration | Major General Khalid, Air Chief, United Arab Emirates | Non-acceptance would have caused embarrassment to donor and U.S. Government.
Ms. Ellen Jumper, Spouse of General John Jumper, (Retired) Former Air Force Chief of Staff | Ladies 14kt yellow and white gold bracelet. Rec'd—February 27, 2005. Reported—August 10, 2007. Est. Value—$750. Disposition—Transferred to General Services Administration | Major General Khalid, Air Chief, United Arab Emirates | Non-acceptance would have caused embarrassment to donor and U.S. Government.
T. Michael Moseley, General Air Force Vice Chief of Staff | Longines Men's Watch, stainless steel, MDL L5-665-4-16-6. Rec'd—2005. Reported—August 10, 2007. Est. Value—$750. Disposition—Transferred to General Services Administration | Lieutenant General Staff, Abdul Rahman Bin Fakad Al-Faisal, Commander of the Air Force of the Kingdom of Saudi Arabia | Non-acceptance would have caused embarrassment to donor and U.S. Government.
John F. Mulholland, General Chief, Office of Military Cooperation-Kuwait | RADO Lorence Wrist Watch Model # R48755203. Rec'd—July 17, 2005. Reported—August 10, 2007. Est. Value—$445. Disposition—Transferred to General Services Administration | Lieutenant General Fahad Al-Amir, Chief of Staff, Armed Forces of the State of Kuwait | Non-acceptance would have caused embarrassment to donor and U.S. Government.
John F. Mulholland, General Chief, Office of Military Cooperation-Kuwait | Immersion Stendardo Diver's Wrist Watch. Rec'd—July 6, 2005. Reported—August 10, 2007. Est. Value—$629. Disposition—Transferred to General Services Administration | Lieutenant General (Retired) Mohammed Al Badr, Chief, Security Decisions Follow-up Committee, State of Kuwait | Non-acceptance would have caused embarrassment to the donor and U.S. Government.
John F. Mulholland, General Chief, Office of Military Cooperation-Kuwait | Roamer Wrist Watch Serial # 517948. Rec'd—July 26, 2005. Reported—August 10, 2007. Est. Value—$323. Disposition—Transferred to General Services Administration | His Excellency Maber Mubark Al-Hamad Al-Sabah, Deputy Prime Minister and Minister of Defense, State of Kuwait | Non-acceptance would have caused embarrassment to the donor and U.S. Government.
Gary L. North, Lieutenant General, United States Central Command Air Forces, Commander | Gentlemen's Tissot T-Touch Watch Silver Stainless Steel. Rec'd—March 28, 2006. Est. Value—$650. Disposition—Pending Transfer to General Services Administration | Major General Hussein A. Al-Biss, Commander of the Royal Jordanian Air Force | Non-acceptance would have caused embarrassment to the donor and U.S. Government.
Ms. Gary L. North, United States Central Command Air Forces, Commander | Women's Gucci 8605 Series Watch Silver Stainless Steel. Rec'd—March 28, 2006. Est. Value—$950. Disposition—Pending Transfer to General Services Administration | Spouse of Major General Hussein A. Al-Biss, Commander of the Royal Jordanian Air Force | Non-acceptance would have caused embarrassment to the donor and U.S. Government.
Gary L. North, Lieutenant General, United States Central Command Air Forces, Commander | Man's Tissot Chronograph T-Lord Watch Brown Leather band and silver/white face. Rec'd—March 8, 2006. Est. Value—$475. Disposition—Pending Transfer to General Services Administration | His Royal Majesty Feisel IBN Al Hussein, Royal Jordanian Air Force | Non-acceptance would have caused embarrassment to the donor and U.S. Government.

AGENCY: Central Intelligence Agency
[Report of tangible gifts]
Name and title of person accepting the gift on behalf of the U.S. Government | Gift, date of acceptance on behalf of the U.S. Government, estimated value, and current disposition or location | Identity of foreign donor and government | Circumstances justifying acceptance
General Michael V. Hayden Director Central Intelligence Agency | Rug: 4 feet 9 inches by 3 feet 3 inches, modern, navy blue ground with flowering vine field centering a pulled lobed medallion on red to beige ground. Rec'd—August 4, 2006. Est. Value—$500. Location—Official Use, obtained for official display in appropriate office space | 5 U.S.C. 7342(f)(4) | Non-acceptance would cause embarrassment to donor and U.S. Government.
General Michael V. Hayden Director Central Intelligence Agency | Jewelry: 18 karat yellow gold and ruby four piece ensemble. Rec'd—August 8, 2006. Est. Value—$750. Disposition—Pending transfer to General Services Administration | 5 U.S.C. 7342(f)(4) | Non-acceptance would cause embarrassment to donor and U.S. Government.
General Michael V. Hayden Director Central Intelligence Agency | Rifle: Muzzle loaded rifle together with a powder flask and ram rod in shadow-box frame. Rec'd—August 8, 2006. Est. Value—$750. Location—Being retained by General Michael V. Hayden for Official Use | 5 U.S.C. 7342(f)(4) | Non-acceptance would cause embarrassment to donor and U.S. Government.
General Michael V. Hayden Director Central Intelligence Agency | Letter Opener: Jeweled silver letter opener with hooded hawk finial set with rubies. Rec'd—July 23, 2006. Est. Value—$500. Disposition—Pending transfer to General Services Administration | 5 U.S.C. 7342(f)(4) | Non-acceptance would cause embarrassment to donor and U.S. Government.
An Agency Employee | Rug: 9 feet 8 inches by 6 feet 5 inches, modern, ivory ground with palmette and trellising vine field centering a pulled star medallion on light blue ground. Rec'd—June 20, 2006. Est. Value—$1,000 . Disposition—Pending transfer to General Services Administration | 5 U.S.C. 7342(f)(4) | Non-acceptance would cause embarrassment to donor and U.S. Government.
An Agency Employee | Rug: Red ground with palmette and trellising vine field within a complimentary ground border on red ground. Rec'd—February 8, 2005. Reported—January 23, 2006. Est. Value—$750. Disposition—Pending transfer to General Services Administration | 5 U.S.C. 7342(f)(4) | Non-acceptance would cause embarrassment to donor and U.S. Government.
An Agency Employee | Rug: 4 feet 10 inches by 3 feet 2 inches, modern, ivory ground with palmette and trellising vine field centering a pulled star medallion on grayish-blue ground, floral spray guard border on red ground. Rec'd—January 27, 2006. Est. Value—$500. Disposition—Pending transfer to General Services Administration | 5 U.S.C. 7342(f)(4) | Non-acceptance would cause embarrassment to donor and U.S. Government.
An Agency Employee | Rug: 4 feet 10 inches by 3 feet 2 inches, modern, ivory ground with palmette and trellising vine field centering a pulled star medallion on grayish-blue ground, floral spray guard border on red ground. Rec'd—April 24, 2006. Est. Value—$500. Disposition—Pending transfer to General Services Administration | 5 U.S.C. 7342(f)(4) | Non-acceptance would cause embarrassment to donor and U.S. Government.
An Agency Employee | Watch: Cased ladies stainless steel wristwatch. Rec'd—October 12, 2006. Est. Value—$500. Disposition—Pending transfer to General Services Administration | 5 U.S.C. 7342(f)(4) | Non-acceptance would cause embarrassment to donor and U.S. Government.
An Agency Employee | Watch: Cased gentleman's stainless steel wristwatch. Rec'd—October 12, 2006. Est. Value—$500. Disposition—Pending transfer to General Services Administration | 5 U.S.C. 7342(f)(4) | Non-acceptance would cause embarrassment to donor and U.S. Government.
An Agency Employee | Watch: Cased gentleman's stainless steel calendar chronometer wristwatch. Rec'd—January 1, 2006. Est. Value—$500. Disposition—Pending transfer to General Services Administration | 5 U.S.C. 7342(f)(4) | Non-acceptance would cause embarrassment to donor and U.S. Government.

AGENCY: National Transportation Safety Board
[Report of travel]
Name and title of person accepting the gift on behalf of the U.S. Government | Gift description | Identity of foreign donor and government | Circumstances justifying acceptance
Dennis Jones, Chief of Regional Operations and General Aviation | Round trip airfare for flight from Lagos, Nigeria to Abuja, Nigeria. Rec'd—November 12-18, 2006. Lodging in Lagos. Rec'd—November 12-18, 2006. Abuja was the origination point of the accident flight, which was the 10/29/06 crash of a Boeing 737-200 operated by Aviation Development Company. The NTSB participated in the investigation on behalf of the United States (U.S.). The NTSB Accident Investigation No. is WAS07RA004 | The Honorable Femi Fani-Kayode, Minister of Aviation of the Republic of Nigeria, on behalf of the Republic of Nigeria | The NTSB, pursuant to the Annex 13 to the Convention on International Civil Aviation, serves as U.S. representative in international civil aviation accident investigations and, as such, provides technical assistance to the nation responsible for the investigation. The investigation of this 10/29/06 crash of an Aviation Development Company Boeing 737 in Lagos, in which 97 of the 105 passengers and crew were fatally injured, required investigative activities at the origination point of the flight. The Ministry of Aviation voluntarily provided for the lodging and travel, which was accepted pursuant to NTSB authority found in 49 U.S.C. 1113.
Thomas Jacky, Aerospace Engineer (Aviation Systems) | Round trip airfare for flight from Lagos, Nigeria to Abuja, Nigeria. Rec'd—November 12-18, 2006. Lodging in Lagos. Rec'd—November 12-18, 2006. Abuja was the origination point of the accident flight, which was the 10/29/06 crash of a Boeing 737-200 operated by Aviation Development Company. The NTSB participated in the investigation on behalf of the United States (U.S.). The NTSB Accident Investigation No. is WAS07RA004 | The Honorable Femi Fani-Kayode, Minister of Aviation of the Republic of Nigeria, on behalf of the Republic of Nigeria | The NTSB, pursuant to the Annex 13 to the Convention on International Civil Aviation, serves as U.S. representative in international civil aviation accident investigations and, as such, provides technical assistance to the nation responsible for the investigation. The investigation of this 10/29/06 crash of an Aviation Development Company Boeing 737 in Lagos, in which 97 of the 105 passengers and crew were fatally injured, required investigative activities at the origination point of the flight. The Ministry of Aviation voluntarily provided for the lodging and travel, which was accepted pursuant to NTSB authority found in 49 U.S.C. 1113.
William English, Senior Air Safety Investigator (Major Investigations) | Round trip flight from Brasilia to Cachimba Air Base on Embraer owned business jet. Rec'd—October 6, 2006. Round trip flight from Brasilia to Cachimba Air Base on Gol Airlines charter business jet. Rec'd—October 9, 2006. Round trip flight via Brazilian Air Force aircraft from Cachimba Air Base to accident site in jungle. Rec'd—October 9, 2006 Flights in Brazil from Brasilia to the accident site in the Brazilian Amazon jungle to investigate the 9/29/06 mid-air collision of a Gol Airlines Boeing 737-800 and an Embraer business jet operated by Excelaire of Long Island, NY. All 154 passengers and crew of the Boeing 737 were fatally injured, but the 2 crew and 5 passengers on the Excelaire Embrarer business jet were not injured. The National Transportation Safety Board Accident Investigation No. is DCA06RA076A/B | The Department of Civil Aviation of the Federal Republic of Brazil | The NTSB, pursuant to the Annex 13 to the Convention on International Civil Aviation, serves as U.S. representative in international civil aviation accident investigations and, as such, provides technical assistance to the nation responsible for the investigation. The investigation of this 9/29/06 mid-air collision between the Gol Airlines Boeing 737 and the Excelaire Embrarer business jet over the Brazilian Amazon jungle required coordinated, on-scene investigative activities in support of the Department of Civil Aviation of the Republic of Brazil. The coordinated, on-scene investigative activities in support of the Department of Civil Aviation of the Republic of Brazil. The Department of Civil Aviation voluntarily arranged and provided for the travel required for NTSB investigators. The travel was accepted pursuant to NTSB authority found in 49 U.S.C. 1113.
Scott Warren, Lead Aerospace Engineer (Aviation Systems) | Round trip flight from Brasilia to Cachimba Air Base on Embraer owned business jet. Rec'd—October 6, 2006. Round trip flight from Brasilia to Cachimba Air Base on Gol Airlines charter business jet. Rec'd—October 9, 2006. Round trip flight via Brazilian Air Force aircraft from Cachimba Air Base to accident site in jungle. Rec'd—October 9, 2006. Flights in Brazil from Brasilia to the accident site in the Brazilian Amazon jungle to investigate the 9/29/06 mid-air collision of a Gol Airlines Boeing 737-800 and an Embraer business jet operated by Excelaire of Long Island, NY. All 154 passengers and crew of the Boeing 737 were fatally injured, but the 2 crew and 5 passengers on the Excelaire Embrarer business jet were not injured. The NTSB Accident Investigation No. is DCA06RA076A/B | The Department of Civil Aviation of the Federal Republic of Brazil | The NTSB, pursuant to the Annex 13 to the Convention on International Civil Aviation, serves as U.S. representative in international civil aviation accident investigations and, as such, provides technical assistance to the nation responsible for the investigation. The investigation of this 9/29/06 mid-air collision between the Gol Airlines Boeing 737 and the Excelaire Embrarer business jet over the Brazilian Amazon jungle required coordinated, on-scene investigative activities in support of the Department of Civil Aviation of the Republic of Brazil. The Department of Civil Aviation voluntarily arranged and provided for the travel required for NTSB investigators. The travel was accepted pursuant to NTSB authority found in 49 U.S.C. 1113.

AGENCY: Appalachian Regional Commission
[Report of travel]
Name and title of person accepting the gift on behalf of the U.S. Government | Gift description | Identity of foreign donor and government | Circumstances justifying acceptance
Akofa Bonsi, Truman Fellow, Office of the Federal Co-Chair | Airfare to United Arab Emirates. Rec'd—February 1-11, 2006. Lodging within United Arab Emirates. Rec'd—February 1-11, 2006. Meals within United Arab Emirates. Rec'd—February 1-11, 2006 | Sheikh Sultan bin Zayed al Nahyan, Deputy Prime Minister of the United Arab Emirates | Non-acceptance would cause embarrassment to donor and U.S. Government.

AGENCY: Government of District of Columbia, Executive Office
[Report of travel]
Name and title of person accepting the gift on behalf of the U.S. Government | Gift description | Identity of foreign donor and government | Circumstances justifying acceptance
Mr. Anthony A. Williams, Mayor of the District of Columbia | Travel, hotel accommodation, food, and on-ground transportation. Rec'd—March 13, 2006 | Mayor Lee, Seoul, Republic of Korea | Non-acceptance would cause embarrassment to donor and U.S. Government.
Mr. Anthony A. Williams, Mayor of the District of Columbia | Travel, hotel accommodations, food, and on-ground transport in Seoul, Korea. Rec'd—June 7-11, 2006 | Mayor Lee, Seoul, Republic of Korea | Non-acceptance would cause embarrassment to donor and U.S. Government.
Ms. Julie Sooyhun Koo, Deputy Director of the Asian and Pacific Islander Commission | Travel, hotel accommodations, food, and on-ground transport in Seoul, Korea. Rec'd—June 7-11, 2006 | Mayor Lee, Seoul, Republic of Korea | Non-acceptance would cause embarrassment to donor and U.S. Government.
Mr. Anthony A. Williams, Mayor of the District of Columbia | Travel from Washington to London & London to Istanbul, Turkey. Rec'd—June 28-30, 2006. Hotel Accommodations. Rec'd—June 28-30, 2006. Meals in London. Rec'd—June 28-30, 2006 | Central Government of London, United Kingdom | Non-acceptance would cause embarrassment to donor and U.S. Government.
Mr. Anthony A. Williams, Mayor of the District of Columbia | Transportation from Ankara, Turkey to Paris, France. Rec'd—July 3-5, 2006. Hotel accommodations & food for two nights. Rec'd—July 3-5, 2006. Ground transportation. Rec'd—July 3-5, 2006 | Mayor Delanoe, of Paris, the French Republic | Non-acceptance would cause embarrassment to donor and U.S. Government.

[FR Doc. E7-23674 Filed 12-6-07; 8:45 am]

BILLING CODE 4710-20-P